POSTAL SERVICE

39 CFR Part 111

New Standards for Domestic Mailing Services

AGENCY: Postal Service.

ACTION: Final rule.

SUMMARY: In this final rule the Postal Service provides new mailing standards to support most of the pricing change recommended by the Postal Regulatory Commission and approved by the Governors of the United States Postal Service. We will implement most of the new prices on May 14, 2007. We will implement new prices and mailing standards for Periodicals mail on July 15, 2007.

Our pricing change includes a new “forever stamp” to make future price changes more convenient for consumers. The forever stamp will always equal the First-Class Mail single piece 1-ounce letter price. We also offer new shape-based prices for First-Class Mail, with lower rates for letter-size pieces over 1 ounce. We make the Priority Mail flat-rate boxes a permanent product offering, and we add a new 1-pound price for Express Mail.

For commercial mailers we offer new sorting options to reduce the number of trays in a mailing of letter-size pieces. We also offer new scheme preparations to give mailers access to lower rates and to better align flat-size mail preparation with mail processing. We add a new automated Address Change Service option to reduce the costs associated with undeliverable-as-addressed mail. First-Class Mail parcel mailers have new barcode options, and we provide new opportunities for mailers to combine Standard Mail Not Flat-Machinable pieces, Standard Mail parcels, and Package Services parcels in the same mailing.

EFFECTIVE DATE: 12:01 a.m. on May 14, 2007.

FOR FURTHER INFORMATION CONTACT: Joel Walker, 202-268-7261.

SUPPLEMENTARY INFORMATION: The Postal Service's request in Docket No. R2006-1 included mail classification changes, new pricing structures, and price changes for most domestic mailing services. This final rule provides the revisions to Mailing Standards of the United States Postal Service, Domestic Mail Manual (DMM) that we will adopt to implement most of the R2006-1 pricing changes. We summarize major changes since our February proposal by class of mail and extra service, update our summary of the entire proposal, and update our mailing standards. We provide all of the new prices in the “Rates and Fees Reference” at the end of this notice.

You can find this final rule, as well as our earlier proposals, at http://www.usps.com/ratecase. We also provide helpful information for mailers, including frequently asked questions, press releases, and Mailers Companion and MailPro articles related to the pricing change.

Background

The Postal Service Board of Governors set May 14, 2007, as the implementation date for the new prices and related changes for all classes of mail and extra services, with the exception of Periodicals mail, which we will implement on July 15, 2007. The Board chose these dates on the basis of our financial obligations, in light of operational and administrative considerations, while also considering the impact of the changes on mailers and consumers. We note that while we are implementing all of the Commission's recommended rates, the Governors are asking the Commission to reconsider three issues: the prices for Standard Mail flats, the application of the Nonmachinable Surcharge for First-Class Mail letters, and the price for the Priority Mail flat-rate box. The Governors are concerned about the short-term effect that some prices for Standard Mail Regular flats might have on catalog mailers, and that the Commission failed to provide appropriate cost-based incentives in these other two rate designs. The Governors are asking the Commission to reconsider their recommendations and respond as quickly as possible.

We are delaying implementation of our new prices for all Periodicals mail to provide adequate time to adjust Postal Service systems, to enable an effective and orderly transition in postal operations, and to give postal acceptance employees and mailers more time to prepare for the complex structure recommended by the Postal Regulatory Commission. The Commission recommended Outside-County piece, bundle, and container rates that vary based on machinability, presort level, and entry. We will publish a Federal Register proposal explaining the changes and asking for your comments. We encourage all Periodicals mailers to review the Commission's recommendation, which includes significant changes to the container rate structure, at http://www.prc.gov (under “Opinions and Decisions”). As we explained in our previous Federal Register proposals, Periodicals mailers will have new incentives to use efficient containers, and the revised copalletization standards further encourage more publishers to combine mailings. We also added, and the Commission recommended, new prices for the nonadvertising portion of a mailing to give mailers of high-editorial-content publications access to lower, destination entry rates.

Overall our new prices reflect changes in operations and the marketplace and will enhance efficiency, offer more choices, and ensure that all types of mail cover their costs. We include incentives to create mailpieces compatible with our processing systems and to deposit flats and parcels closer to where they are delivered.

Our prices recognize that each shape of mailpiece—letter, flat, and parcel—has substantially different processing costs that need to be covered. Our prices make clear distinctions between shapes and recognize that shape affects processing and delivery efficiency. For example, in First-Class Mail, a 2-ounce letter will cost $0.58; a 2-ounce flat, $0.97; and a 2-ounce parcel, $1.30. These prices reflect the differences in costs associated with processing and delivering each type of mailpiece, as well as the higher value of larger pieces.

Our new price incentives provide opportunities to mitigate the impact of price increases. For the 2-ounce example above, if the contents of a First-Class Mail flat are folded and placed into a letter-size envelope, the mailer would save 39 cents. If a parcel is reconfigured as a flat, the mailer would save 33 cents.

To make future price changes more convenient, customers may purchase “forever stamps.” The forever stamp will always equal the First-Class Mail single piece 1-ounce letter price, without the addition of extra postage. While the forever stamp is intended to be used for single-piece 1-ounce First-Class Mail letters, we will allow the use of forever stamps on other single-piece-rate items.

Our prices for Standard Mail letters are consistent with our past pricing strategies. For example, this strategy sets the Enhanced Carrier Route (ECR) basic letter rate higher than the regular 5-digit automation letter rates and encourages automation-compatible letter mail eligible for the ECR basic letter rate to migrate to the automation letter rate.

To better align mail preparation with our processing capabilities and to maximize access to lower rates for mailers, we are implementing scheme preparation in many of our mail preparation standards. We have made changes to our flat-size mailing standards to ensure that the prices for flats and parcels better cover their costs and that pieces eligible for flat-size prices can be processed on our automated flat sorting machines (AFSM 100s) and handled efficiently at delivery.

The standards for automation flats are now more closely aligned with the processing capabilities of the AFSM 100, the preferred machine for flats processing and the workhorse for flats distribution in processing plants. The processing capabilities of the AFSM 100 are vastly superior to those of the Upgraded Flats Sorting Machine (UFSM 1000). The throughput of the AFSM 100 (17,000 pieces per hour) is much higher than the throughput of the UFSM 1000 (a mere 5,000 pieces per hour). There are no plans to purchase new UFSM 1000s, and we are removing them from many plants. We also believe that our new standards for Standard Mail will be appropriate for pieces weighing up to 16 ounces when processed and delivered in the future flats sequencing environment.

To be consistent with the processing capabilities of the AFSM 100, the length of a flat will continue to be the longest dimension, but for bound or folded pieces claimed at automation rates, the edge perpendicular to the bound or folded edge may not exceed 12 inches. We also revised the deflection test for automation-rate flats with bound or folded edges to allow them to be tested by placing the bound or final folded edge perpendicular to the edge of the flat surface. This method better accommodates pieces with bound edges as the shorter dimension.

We set a 5-inch by 6-inch minimum for automation flats because smaller pieces cannot be efficiently processed and present handling problems at delivery. However, these pieces may qualify for letter rates or nonautomation flats rates, depending on mailpiece characteristics.

Our standards further stipulate that rigid pieces do not qualify for flat prices. Rigid pieces are not easily processed on our AFSM 100 flat-sorting equipment—often resulting in manual processing or processing on less-efficient flats equipment—and are not generally handled as flats by carriers at delivery. In addition, rigid pieces cannot be processed and delivered efficiently in the future flats sequencing environment. Our new flexibility test is a simple, effective, and efficient way to test the flexibility of pieces presented at our thousands of acceptance locations, to determine whether such pieces can be processed on our AFSM 100s and handled as flats by carriers. To alleviate concerns about postal employees administering the test inconsistently, we will allow customers to perform this test on their own pieces, with a postal employee observing and validating the test. Understanding that the characteristics of mailpieces evolve over time, we will test pieces that fall outside of the flexibility standards as necessary and continually re-evaluate our standards to accommodate new processing and delivery capabilities.

The flexibility test specifies that pieces must not be in boxes because boxes and boxlike pieces do not process well on our AFSM 100 and are not handled efficiently during delivery. We clarified the flexibility test by stating that pieces must be tested first with the longest side parallel to the edge of the surface. If the piece can pass this test and does not contain a rigid insert, further testing is unnecessary. We are confident that our acceptance employees can recognize pieces that could present a flexibility problem and will properly administer the test but, as we noted above, we also will allow customers to test their own pieces while we observe. We will provide illustrations for the flexibility test as well as the test for deflection in the DMM and other publications.

We will apply the uniform thickness standard to all flat-size mail but will allow a ¼-inch variation in thickness. Our standards for determining uniform thickness exclude the outer edges of the mailpiece as follows:

“Flat-size mailpieces must be uniformly thick so that any bumps, protrusions, or other irregularities do not cause more than ¼-inch variance in thickness. Exclude the outside edges of a mailpiece (1 inch from the edge) when determining variance in thickness. Mailers must secure nonpaper contents to prevent shifting of more than 2 inches within the mailpiece.”

The exclusion of pieces over ¾ inch thick from automation flats is consistent with processing capabilities on our AFSM 100s and our automatic inductions systems. Many pieces that are thicker than ¾ inch and currently qualify for Standard Mail automation flats rates are boxes or rigid pieces. Few Standard Mail pieces that are flexible printed material are both over ¾ inch and under 16 ounces, which is the maximum weight for Standard Mail.

We do not require nonautomation flats to meet all automation standards. Pieces that meet the general size and physical characteristics for all flats in proposed DMM 301.1.0 but are too flimsy, are not barcoded, or use polywrap that is not approved are eligible for nonautomation flats rates. Small pieces (for example, pieces 4 inches high by 4 inches long) that are over ¼ inch thick also are eligible for nonautomation flats rates.¹

¹ The distinctions between “nonautomation” and “nonmachinable,” as they relate to Not Flat-Machinable (NFM) pieces, as well as the operations related to NFMs, were discussed on the record in Docket No. R2006-1 (in the reply brief of the United States Postal Service, Docket No. R2006-1, at 202).

NFM pieces are rigid, parcel-like pieces and large pieces (more than 15 inches long or more than ¾ inch thick) that currently qualify for Standard Mail automation flats rates based solely on the UFSM 1000 criteria. However, these pieces are rarely processed on the UFSM 1000 or other flats sorting equipment, and are seldom delivered as flats—they are usually processed either manually or in the parcel mailstream. Therefore, the current prices of these pieces are not adequate to cover their processing and delivery costs.² The NFM subcategory gives mailers the option to mail qualifying pieces at the lower, NFM rates, rather than at the higher, parcel rates. The standards allow mailers to choose on the basis of rates, preparation, and postage payment how to mail qualifying pieces under the categories of Standard Mail.

² The cost and operational justifications supporting the NFM subcategory were discussed on the record in Docket No. R2006-1 (in the initial brief of the United States Postal Service, Docket No. R2006-1, at 279, on December 21, 2006; and in the reply brief of the United States Postal Service, Docket No. R2006-1, at 199-201, on January 4, 2007).

Our preparation and labeling standards for NFMs will direct them to the processing facilities that can efficiently handle them, based on actual operations and mailflows. The preparation and destination options for NFMs weighing 6 ounces or more mirror those of Standard Mail machinable parcels, because they are both efficiently processed at bulk mail centers (BMCs). The preparation and destination options for NFMs under 6 ounces mirror those of Standard Mail irregular parcels, which are efficiently processed at area distribution centers (ADCs).³

³ The Postal Regulatory Commission clarified the rate schedule to ensure that pieces sorted to the BMC will pay the same rates as pieces sorted to the ADC (in PRC Op. R2006-1, at 259, n. 183, on February 26, 2007).

The NFM subcategory of Standard Mail was developed according to statutory standards and procedures. The NFM category and prices were recommended by the Postal Regulatory Commission and approved by the Board of Governors. The standards are consistent with the Postal Service's authority, under statute and the Domestic Mail Classification Schedule, to align classifications and rates with mail processing and delivery operations. Mailers may still design and package their mailpieces as they do today and pay NFM or parcel rates. We will continue to accept these pieces for processing and delivery.

We have given mailers time to adjust their mailpiece design, software programming, or production processes to avoid NFM or parcel prices if they choose to make a change. From our September 2006 proposal, we have consistently encouraged mailers to redesign their packaging to avoid rigid or box-like mailpieces, and we have consulted with many mailers who intended to design pieces that could be mailable at flats prices. We realize that not every piece can be redesigned as an automation flat, but many mailers do have repackaging options and have modified their mailpieces to meet the standards for automation flats. We further note that we have openly and often communicated our intention to move parcel-like pieces out of the automation flats category in this pricing change, as well as in earlier rate testimony, because we handle these pieces as parcels in processing and delivery and incur the costs associated with parcels.⁴

⁴ The ongoing dialogue between the Postal Service and mailers regarding this issue was discussed on the record in Docket No. R2006-1 (in the rebuttal testimony of Marc D. McCrery (USPS-RT-14), Docket No. R2006-1, at 8-11, on November 20, 2006).

We also have been working closely with presort software vendors to ensure presort software will be available for the May 14, 2007, implementation. To ensure our employees and our customers are prepared, we initiated training and communication programs nationwide. We will separately provide training for customers across the country at local postal and mailer facilities and at local Postal Customer Council events. We will publish updated manuals and other mailing tools for customers on our Postal Explorer Web site at pe.usps.com.

We published our policy for plant-verified drop shipment (PVDS) mail in the DMM Advisory on February 1. The procedures are the same as those we used in the past. PVDS mailings verified and paid for before the implementation date, using the current rates, will be accepted at destination entry postal facilities up to 15 days after May 14, when presented with appropriate verification and payment documentation. PVDS mailings may be verified and paid for beginning 30 days prior to May 14, using the new rates, provided the shipments are not deposited at destination entry postal facilities until May 14, or later, when presented with appropriate verification and payment documentation. We will follow our established procedures for other mailing exceptions, as we have in past rate cases.

In response to mailers' requests, we will publish decision trees, diagrams, and other supporting material to clarify physical standards and other mailing criteria. We agree that illustrations and diagrams add clarity to written standards, and we are developing supporting material for use in the DMM Advisory, the Quick Service Guides, and the DMM. We are also updating the business postage rate calculator on Postal Explorer (pe.usps.com) with new graphics and navigation features to make it even easier to use.

Changes Since the February Proposal

First-Class Mail Changes

The rate for machinable First-Class Mail letters that weigh 1 ounce or less is $0.41 and the card rate is $0.26. The cost for each additional ounce decreases to $0.17 for First-Class Mail single-piece and presorted letters, flats, and parcels. The additional-ounce rate for automation First-Class Mail letters is $0.125 and the additional-ounce rate for automation First-Class Mail flats is $0.17.

Letter-size First-Class Mail pieces weighing 1 ounce or less that have any of the nonmachinable characteristics in DMM 201.2.1 are subject to a $0.17 nonmachinable surcharge. Nonmachinable letters over 1 ounce are charged the First-Class Mail letter rates based on weight. We retained the 3.3-ounce (0.2063-pound) maximum weight for Presorted First-Class Mail machinable letters to be consistent with Standard Mail. Pieces over 3.3 ounces must be prepared as nonmachinable letters.

Standard Mail Changes

We revised DMM 243.5.4 to clarify that there is no 3-digit scheme sort for origin/entry 3-digit trays for Standard Mail machinable letters. To be consistent with the Postal Regulatory Commissions' recommended decision, we revised DMM 246.5.2 to clarify that letter-size mailpieces, regardless of the rate paid, are not eligible for a destination delivery unit rate. We also clarify that rigid letter-size pieces up to 3.3 ounces may be mailed at the nonmachinable letter rates.

The Postal Regulatory Commission also recommended we set enhanced carrier route (ECR) basic letter rates lower than ECR basic flats rates and require all ECR letters not meeting automation requirements to be charged the ECR flats rates. Therefore, we revised DMM 243.6.1.2 and 243.6.3 to require ECRLOT letters paid for at the ECR basic letter rate to meet address matching and coding standards and to be delivery-point barcoded and automation-compatible. We also revised DMM 243.6.1.3 to allow letters paid for at ECR basic letter rates to weigh up to 3.5 ounces, consistent with our standards for pieces paid for at high-density and saturation letter rates.

For flat-size mail, we revised DMM 301.1.5, Uniform Thickness, to clarify that nonpaper contents smaller than the mailing container must not shift more than 2 inches. We did not intend the standard to apply to inserts such as paper envelopes and other thin paper inserts.

Several mailers asked us to lower the minimum weight for certain types of machinable parcels, and we planned to revise these standards in a separate rulemaking. However, due to the substantially lower rates recommended by the PRC for machinable parcels at the 5-digit level, we decided to revise the standards as part of this final rule. Our new standards allow certain size pieces weighing at least 3.5 ounces to be mailed as machinable parcels. Based on extensive testing of these types of pieces and several years of processing and handling them, we are confident that we can process and deliver them as efficiently as we do similar parcels 6 ounces and over. This change allows mailers to prepare a wider range of machinable parcels separately or together with other machinable parcels.

Periodicals Changes

We clarified the definition of “length” and “height” for automation flats by consolidating the definitions for all flat-size mail into revised DMM 301.1.2. We clarified the alternative criteria for Periodicals automation flats in 707.25.3 to specify that the flexibility and deflection tests in 301.1.4 and 301.3.2.4 do not apply to these pieces, and that the standards for uniform thickness and exterior format in 301.3.6 do apply.

As we stated above, we will delay implementation of the new prices for Periodicals mail. We will publish a Federal Register proposal explaining the standards, and we will invite your comments on all aspects of the Periodicals proposal.

Priority Mail Changes

The USPS-produced flat-rate envelope is charged the 1-pound price, $9.15 under the Commission's recommended decision, regardless of weight or destination. The Postal Service originally proposed a lower rate, and the Board of Governors is asking the Commission to reconsider the $9.15 price.

Other Changes

As a result of the recommended decision, we will not make changes to the pricing structure for Confirm. We will continue to offer Silver and Gold subscriptions as well as Platinum subscriptions with unlimited scans. New fees apply to new subscriptions or for renewal of existing subscriptions after May 14, 2007.

We revised DMM 609 with additional information about the indemnity claims process.

Summary by Class of Mail

Summary of First-Class Mail

Our new prices are based on the shape of mail and differences in the relative costs, with separate prices for letters, flats, and parcels. As shape becomes a more important price element, weight becomes less important, and we reduce prices for letter-size pieces over 1 ounce and flat-size pieces over 7 ounces.

The single-piece 1-ounce First-Class Mail letter price increases $0.02, to $0.41, and the single-piece card price also increases $0.02, to $0.26. The additional-ounce price decreases $0.07 to $0.17.

Our new forever stamp makes future price changes more convenient for consumers. The postage value of the forever stamp equals the First-Class Mail single-piece 1-ounce letter rate at any time in the future, without the addition of extra postage. Initially we will sell the forever stamp at the new 41-cent rate.

The nonmachinable surcharge increases to $0.17 and applies to 1-ounce letter-size mailpieces with any of the nonmachinable characteristics. Nonmachinable letters over 1 ounce are charged the letter rates, based on weight. The maximum weight for letters is 3.5 ounces.

The additional-ounce price for automation letters decreases from $0.237 to $0.125. We maintain the 150-piece minimum for automation First-Class Mail letters and cards. Sort levels are 5-digit/scheme, 3-digit/scheme, 3-digit origin, AADC, and mixed AADC. We offer simplified letter mail preparation for machinable letters, requiring mailers to sort only to the origin 3-digit, AADC, and mixed AADC levels. We eliminate the automation carrier route preparation and rates.

To help reduce the number of “air trays” (partially filled trays) and the overall costs of handling mail in letter trays, we offer a reduced—overflow tray option for automation letters. In addition, to encourage more full trays, we change our definition of a “full letter tray” to one in which the pieces fill the length of the tray between 85 percent and 100 percent.

To ensure automated processing of flat-size mail, we require all flats to be rectangular. The physical standards for automation flats are the criteria for AFSM 100 pieces, with new standards for flexibility. We also lessen and simplify the deflection standard.

The structure for presorted parcels includes new workshare prices. The rate levels are 5-digit, 3-digit, ADC, and single piece. To simplify the preparation of First-Class Mail parcels, we make the preparation of 5-digit/scheme sacks optional. We require at least 10 pounds of parcels for 5-digit/scheme sacks, 3-digit sacks, and ADC sacks. Remaining pieces sorted to mixed ADC sacks are charged the single-piece First-Class Mail parcel prices.

Barcodes facilitate processing on the Automated Package Processing System (APPS), and we give mailers the option of applying either a 5-digit UCC/EAN Code 128 or a POSTNET barcode on presorted parcels. Unless prepared in 5-digit/scheme containers or paid for at the single-piece rates, a $0.05 surcharge applies to all parcels that are not barcoded, or that weigh less than 2 ounces, and to irregularly shaped parcels such as triangles, tubes, rolls, and similar pieces.

Summary of Standard Mail

Our prices encourage mail that is compatible with our operations and drop shipped closer to its destination. As in First-Class Mail, Standard Mail pricing has greater recognition of shape and reduced reliance on weight.

Letters

Automation letter sort levels are 5-digit/scheme, 3-digit/scheme, AADC, and mixed AADC. Mailers also have the option to prepare 3-digit/scheme origin/entry trays for automation letters. We offer a simplified preparation and require mailers of machinable letters to sort only to the AADC and mixed AADC levels, with optional sorting to 3-digit origin/entry trays.

ECR letters up to 3 ounces that are barcoded and automation-compatible are sorted in full trays according to new preparation standards. Mailers sort and bundle ECR letters that are not barcoded or not automation-compatible, or that are over 3 ounces, according to current preparation standards. Mailers sort and bundle mailings that contain pieces both over and under 3 ounces according to current preparation standards.

We replace the nonmachinable surcharge with a separate rate structure for nonmachinable letters up to 3.3 ounces. Nonmachinable letter sort levels are 5-digit, 3-digit, ADC, and mixed ADC, for which there are separate rates. Mailers have the option to prepare 3-digit origin/entry trays. Nonmachinable letters over 3.3 ounces are charged the Not Flat-Machinable (NFM) rates or, if barcoded and meeting other requirements, an automation flat-size rate.

Destination delivery unit (DDU) entry rates are not available for ECR letter-size pieces, and mailers cannot pay ECR flat-size rates and claim the DDU discount for automation-compatible letters drop shipped to DDUs. Destination sectional center facility (DSCF) entry rates are allowed for DDU entry of some ECR letters, including letters with simplified addresses and locally entered mailings of 2,500 pieces or less. We eliminate ECR automation basic rates. ECRLOT letters paid for at the basic letter rate must meet address matching and coding standards and must be delivery-point barcoded and automation-compatible.

To help reduce the costs of handling mail in letter trays, we offer a reduced—overflow tray option for automation letters. In addition, to encourage fuller trays, we change our definition of a “full letter tray” to one in which the pieces fill the length of the tray between 85 percent and 100 percent.

Flats

The physical standards for automation flats retain most of the criteria for AFSM 100 pieces, with new standards for flexibility that exclude boxes and box-like pieces. We added a rectangular requirement and a uniform thickness standard for all flats. The new uniform thickness standard allows up to a ¼-inch variation in thickness. These changes ensure that pieces paid for at automation flats rates can be processed in automated operations and delivered as flats. We also lessen the deflection standard and allow bound or folded pieces to be tested differently than enveloped pieces.

We increase the maximum size for carrier route flats so that the same maximum size applies to all flats, regardless of the rate paid.

Not Flat-Machinable Pieces

Our prices include a new Not Flat-Machinable (NFM) subcategory for rigid flat-size pieces and for large pieces that are currently automation-compatible only by meeting UFSM 1000 standards. This subcategory provides mailers a lower-than-parcel rate option for pieces that do not meet the new standards for flats. We do not allow bundling for most NFMs, and mailers may prepare pieces in 5-digit/scheme, 3-digit, ADC/BMC, and mixed ADC/BMC containers. We allow 5-digit bundles of five or more NFMs when the mail is prepared on pallets. We offer a DDU entry rate for NFMs sorted to 5-digit destinations when drop shipped directly to the DDU. There is no minimum for NFMs drop shipped to DDUs. Unless prepared in 5-digit/scheme containers, a $0.05 surcharge applies to all NFMs that are not barcoded.

Parcels

We eliminate the residual shape surcharge for Standard Mail parcels. We no longer offer a $0.03 machinable barcode discount. Instead, parcel prices include a requirement for barcodes. Unless prepared in 5-digit/scheme containers, a $0.05 surcharge applies to all parcels that are not barcoded.

We remove the bundling requirement for all Standard Mail irregular parcels except ECR parcels. We reduce the required minimum quantity of irregular parcels in sacks to 10 pounds per sack. We allow mailers the option of using POSTNET barcodes or parcel barcodes on Standard Mail irregular parcels.

We encourage mailers to commingle machinable parcels, irregular parcels, and NFMs when they are able to combine them in 5-digit/scheme containers. We allow mailers to combine NFMs under 6 ounces with irregular parcels in 3-digit, ADC, and mixed ADC containers. We also allow mailers to combine NFMs weighing 6 ounces or more with machinable parcels in BMC/ASF and mixed BMC containers. We allow mailers to combine Standard Mail parcels, NFMs, machinable Parcel Select, and Bound Printed Matter parcels when prepared in 3-digit containers to certain ZIP Codes and entered at designated SCFs.

Our new standards in 401.1.0 allow certain size pieces weighing at least 3.5 ounces to be mailed as machinable parcels. This change allows mailers to prepare a wider range of machinable parcels separately or together with other machinable parcels.

We offer a DDU entry rate for parcels sorted to 5-digit/scheme destinations when drop shipped directly to the DDU. There is no minimum for the amount of parcels drop shipped to a DDU.

Customized MarketMail

Rates for Customized MarketMail equal the 5-digit nonentry rate for Not Flat-Machinable pieces, and mailers are still required to drop ship Customized MarketMail pieces to DDUs.

Detached Address Labels

Our prices include a new $0.015 charge for detached address labels with ECR pieces. Mailers who prepare mail with addresses on their mailpieces could avoid the new charge.

Pallets

We reduce certain destination pallet minimums to 100 pounds of bundles or sacks of nonletter mail or 12 linear feet of trays on pallets.

Summary of Periodicals

As we stated above, we will delay implementation of our new prices for Periodicals mail. We will publish a separate Federal Register proposal explaining the standards for Periodicals mail resulting from the Postal Regulatory Commission's recommended decision, and asking for your comments.

To encourage fuller letter trays, we change our definition of a “full letter tray” to one in which the pieces fill the length of the tray between 85 percent and 100 percent. We reduce certain destination pallet minimums to 100 pounds of bundles or sacks of nonletter mail or 12 linear feet of trays on pallets.

Summary of Package Services

Package Services includes Parcel Post, Bound Printed Matter, Media Mail, and Library Mail. Our standards simplify Package Services offerings and encourage more efficient handling of parcels.

Parcel Post

Currently, we charge parcels weighing less than 15 pounds and measuring more than 84 inches in combined length and girth the 15-pound rates (“balloon rate”). Under the new standards, we charge parcels weighing less than 20 pounds and measuring more than 84 inches in combined length and girth the 20-pound rates.

We incorporate the current $0.03 barcode discount available for machinable Parcel Select destination bulk mail center (DBMC) entry mail into the price, and we require a barcode. Nonbarcoded machinable pieces are charged the applicable Intra-BMC/ASF rate.

We do not change the mail preparation standards for Parcel Select.

Bound Printed Matter

We rename single-piece Bound Printed Matter “nonpresorted” Bound Printed Matter, and we eliminate it as a retail option. Customers can still use PC Postage or apply meter postage or adhesive stamps to nonpresorted BPM and deposit these pieces in a collection box, at the retail counter, or with their letter carrier. For flat-size pieces, we increase the $0.08 discount from the parcel price to $0.16. We do not change the $0.03 per piece POSTNET barcode discount for flat-size mail and the $0.03 per piece parcel barcode discount for machinable parcels.

To reduce sacks, we require 5-digit/scheme and 3-digit/scheme bundles and 5-digit/scheme sacks for presorted flat-size Bound Printed Matter. We require 5-digit/scheme sacks for machinable and irregular parcels.

Media Mail and Library Mail

To reduce sacks, we require 5-digit/scheme and 3-digit/scheme bundles and 5-digit/scheme sacks for presorted flat-size Media Mail and Library Mail. We require 5-digit/scheme sacks for machinable and irregular parcels.

Pallets

We reduce certain destination pallet minimums to 100 pounds of bundles or sacks of nonletter mail.

Summary of Priority Mail

We continue to offer convenience in Priority Mail. The USPS-produced flat-rate envelope is still charged the 1-pound price, regardless of weight or destination. USPS-produced flat-rate boxes will become a permanent offering. Prices for all Priority Mail pieces weighing over 23 pounds decrease for all zones, many by as much as 20 percent.

Previously, we charged the 15-pound rates (“balloon rate”) for Priority Mail pieces weighing less than 15 pounds and measuring more than 84 inches in combined length and girth. Under the new standards, we charge the 20-pound rates (the new “balloon rate”) for Priority Mail pieces weighing less than 20 pounds and measuring more than 84 inches in combined length and girth. We apply the new balloon rate only to pieces addressed for local delivery or to zones 1-4.

Priority Mail pieces that exceed 1 cubic foot and are addressed to zones 5-8 are subject to a new dimensional-weight price under 123.1.4. We rate postage for these pieces at the greater of their actual weight or their dimensional weight. In general, if a piece is relatively light for its size, it may be subject to a dimensional-weight price. We calculate dimensional weight using one of two formulas, one for rectangular and one for nonrectangular pieces.

USPS-supplied containers containing mailings of other classes of mail under Priority Mail Open and Distribute are not subject to dimensional weight pricing.

Summary of Express Mail

Express Mail pieces often contain material that ranges from a half-pound to 2 pounds. Previously, these pieces paid the 2-pound price. To keep Express Mail a viable alternative for mailers, we add a new 1-pound price. The flat-rate envelope continues to be charged the half-pound price, regardless of weight.

Summary of Extra Services

Our proposal keeps insured mail reliable, easy, and affordable. All insured pieces will have a barcoded label and receive a delivery scan. We will not require a signature at delivery for insured items with an indemnity of $200 or less. We also update the standards for filing an indemnity claim.

We provide new prices for Bulk Parcel Return Service, Business Reply Mail, Certificate of Mailing, Certified Mail, Collect on Delivery, Delivery Confirmation, Bulk Insurance, Express Mail Insurance, Merchandise Return Service, Money Orders, Parcel Airlift, Parcel Return Service, Registered Mail, Restricted Delivery, Return Receipt, Return Receipt for Merchandise, Signature Confirmation, and Special Handling.

Summary of Other Services

Our new standards seek to modernize our services, improve address quality, and reduce undeliverable-as-addressed mail.

We decrease the price for Address Change Service electronic option for First-Class Mail from $0.21 to $0.06. We increase the price for all other classes of mail from $0.21 to $0.25. We decrease the price for manual Address Correction Service for all classes of mail from $0.75 to $0.50. For manual notifications received by electronic and automated ACS customers, we decrease the prices to match electronic notification prices, $0.06 for First-Class Mail and $0.25 for other classes.

A new automated option for Address Change Service for First-Class Mail letters provides the first two notices at no charge, and additional notices for $0.05 each. For Standard Mail letters, the first two notices are $0.02 each, and additional notices are $0.15 each. This new option requires mailers to use the Intelligent Mail barcode.

The Postal Regulatory Commission recommended that we implement a new service to charge for the actual number of Standard Mail pieces forwarded and returned. This service would use electronic data to give mailers an alternative to the current process that charges a weighted rate for the returned pieces only (the weighted rate is intended to cover the postage for the forwarded pieces also). The new service would be available for Address Change Service pieces using the electronic option, or the new automated option using the Intelligent Mail barcode. This service will be available to customers through an approval process that ensures individual customer and postal systems can adapt to the new payment system.

We no longer offer on-site meter services. We eliminate the fees associated with on-site meter service, meter resetting, examination, and checking meters in and out of service.

Individual post office box holders at different locations may experience varying price changes as we continue to align prices with our costs for each location. Our new prices also realign the Caller Service fees based on location.

We provide new prices for Address Sequencing Service, Confirm, Mailing List Service, Permit Imprint, Pickup on Demand service, Premium Forwarding Service, Shipper Paid Forwarding, Stamped Cards, Stamped Envelopes, and all annual and quarterly mailing fees.

We provide the updated DMM standards, and how they are applied for each type of mail, below.

We adopt the following amendments to Mailing Standards of the United States Postal Service, Domestic Mail Manual (DMM), incorporated by reference in the Code of Federal Regulations. See 39 CFR 111.1.

List of Subjects in 39 CFR Part 111

Administrative practice and procedure, Postal Service.

Accordingly, 39 CFR Part 111 is amended as follows:

PART 111—[AMENDED]

1. The authority citation for 39 CFR part 111 continues to read as follows:

Authority: 5 U.S.C. 552(a); 39 U.S.C. 101, 401, 403, 404, 414, 3001-3011, 3201-3219, 3403-3406, 3621, 3626, 5001.

2. Revise the following sections of Mailing Standards of the United States Postal Service, Domestic Mail Manual (DMM), as follows:

100 Retail Mail: Letters, Cards, Flats, and Parcels

101 Physical Standards

1.0 Physical Standards for Letters

1.1 Dimensional Standards for Letters

Letter-size mail is:

* * * * *

[Renumber item c as item d. Insert new item c as follows:]

c. Not more than 3.5 ounces.

* * * * *

1.2 Nonmachinable Criteria

A letter-size piece is nonmachinable (see 6.4) if it has one or more of the following characteristics (see 601.1.4 to determine the length, height, top, and bottom of a mailpiece):

[Renumber items a through i as items b through j. Insert new item a as follows:]

a. Is over 3.5 ounces.

* * * * *

2.0 Physical Standards for Flats

2.1 General Definition

Flat-size mail is:

* * * * *

[Renumber item c as new item f. Insert new items c through e as follows:]

c. Flexible (see 2.2).

d. Rectangular.

e. Uniformly thick (see 2.3).

* * * * *

[Insert new 2.2 through 2.4 as follows:]

2.2 Minimum Flexibility Criteria for Flat-Size Pieces

Flat-size pieces must be flexible. Boxes and box-like pieces—with or without hinges, gaps, or breaks that allow the piece to bend—are not flats. Tight envelopes that are completely filled to form box-like pieces are not flats. Test flats as follows:

a. All flats:

1. Place the piece with the length parallel to the edge of a flat surface and extend the piece halfway off the surface.

2. Press down on the piece at a point 1 inch from the outer edge, in the center of the piece's length, exerting steady pressure.

3. The piece is not flexible if it cannot bend at least 1 inch vertically without being damaged.

4. The piece is flexible if it can bend at least 1 inch vertically without being damaged and it does not contain a rigid insert. No further testing is necessary.

5. Test the piece according to 2.2b or 2.2c below if it can bend at least 1 inch vertically without being damaged and it contains a rigid insert.

b. Flats 10 inches or longer that pass the test in 2.2a and contain a rigid insert:

1. Place the piece with the length perpendicular to the edge of a flat surface and extend the piece 5 inches off the surface.

2. Press down on the piece at a point 1 inch from the outer edge, in the center of the piece's width, exerting steady pressure.

3. Turn the piece around and repeat steps 1 and 2. The piece is flexible if both ends can bend at least 2 inches vertically without being damaged.

c. Flats less than 10 inches long that pass the test in 2.2a and contain a rigid insert:

1. Place the piece with the length perpendicular to the edge of a flat surface and extend the piece one-half of its length off the surface.

2. Press down on the piece at a point 1 inch from the outer edge, in the center of the piece's width, exerting steady pressure.

3. Turn the piece around and repeat steps 1 and 2. The piece is flexible if both ends can bend at least 1 inch vertically without being damaged.

2.3 Uniform Thickness

Flat-size mailpieces must be uniformly thick so that any bumps, protrusions, or other irregularities do not cause more than ¼-inch variance in thickness. Exclude the outside edges of a mailpiece (1 inch from the edge) when determining variance in thickness. Mailers must secure nonpaper contents to prevent shifting of more than 2 inches within the mailpiece.

2.4 Flat-Size Pieces Not Eligible for Flat-Size Rates

Mailpieces that do not meet the standards in 2.1 through 2.3 are not eligible for flat-size rates and must be paid for at the applicable parcel rates.

* * * * *

5.0 Additional Physical Standards for Priority Mail

* * * * *

5.2 Two or More Packages

[Revise 5.2 as follows:]

With the exception of USPS-produced Priority Mail flat-rate envelopes or boxes, two or more packages may be mailed as a single parcel if they are about the same size or shape, are securely wrapped or fastened together, and do not exceed the weight or size limits.

* * * * *

6.0 Additional Physical Standards for First-Class Mail

* * * * *

6.4 Nonmachinable Pieces

6.4.1 Nonmachinable Letters

[Revise 6.4.1 as follows:]

Letter-size pieces (except card-rate pieces) that weigh 1 ounce or less and meet one or more of the nonmachinable characteristics in 1.2 are subject to the nonmachinable surcharge (see 133.1.11). Nonmachinable letters over 1 ounce are charged the First-Class Mail letter rate based on weight.

[Revise heading and text of 6.4.2 as follows:]

6.4.2 Nonmachinable Flats

Flat-size pieces that do not meet the standards in 2.0 are subject to the applicable postage for a parcel-size piece, based on weight.

* * * * *

[Delete 8.0, Additional Physical Standards for Bound Printed Matter. Renumber 9.0 and 10.0 as new 8.0 and 9.0.]

* * * * *

102 Elements on the Face of a Mailpiece

* * * * *

3.0 Placement and Content of Mail Markings

* * * * *

[Revise heading of 3.3 as follows:]

3.3 Mail Markings

[Revise first sentence of 3.3 as follows:]

Mailers must print the basic required Package Services subclass marking—“Parcel Post” or “PP,” “Media Mail,” or “Library Mail”—on each piece claimed at the respective rate.* * *

* * * * *

110 Retail Mail: Express Mail

113 Rates and Eligibility

1.0 Express Mail Rates and Fees

* * * * *

1.2 Express Mail Rate Application

[Revise 1.2 as follows:]

Except under 1.4, Flat-Rate Envelope, Express Mail items are charged the 0.5-pound rate for items up to 0.5 pound. Items over 0.5 pound are rounded up to the next whole pound. For example, if a piece weighs 0.25 pound, the weight (postage) increment is 0.5 pound; if a piece weighs 0.75 pound, the weight (postage) increment is 1 pound; if a piece weighs 1.2 pounds, the weight (postage) increment is 2 pounds.

* * * * *

120 Retail Mail: Priority Mail

123 Rates and Eligibility

1.0 Priority Mail Rates and Fees

* * * * *

1.2 Priority Mail Rate Application

[Revise 1.2 as follows:]

Except under 1.3, 1.4, and 1.5, Priority Mail rates are charged per pound; any fraction of a pound is rounded up to the next whole pound. For example, if a piece weighs 1.2 pounds, the weight (postage) increment is 2 pounds. The minimum postage amount per addressed piece is the 1-pound rate. The Priority Mail rate up to 1 pound is based on weight only; rates for pieces weighing more than 1 pound are based on weight and zone. Other charges may apply. See Exhibit 1.3, Priority Mail Rates.

[Revise the heading and text of 1.3 as follows:]

1.3 Minimum Rate for Parcels to Zones 1-4

Parcels addressed for delivery to Zones 1-4 (including Local) that weigh less than 20 pounds but measure more than 84 inches (but not more than 108 inches) in combined length and girth are charged the applicable zone rate for a 20-pound parcel (balloon rate).

[Delete 1.6 and 1.7; renumber 1.4 and 1.5 as new 1.6 and 1.7. Insert new 1.4 and 1.5 as follows:]

1.4 Dimensional Weight Rate for Low-Density Parcels to Zones 5-8

Postage for parcels addressed for delivery to Zones 5-8 and exceeding 1 cubic foot (1,728 cubic inches) is based on the actual weight or the dimensional weight (as calculated in 1.4.1 or 1.4.2), whichever is greater.

1.4.1 Determining Dimensional Weight for Rectangular Parcels

Follow these steps to determine the dimensional weight for a rectangular parcel:

a. Measure the length, width, and height in inches. Round off (see 604.7.0) each measurement to the nearest whole inch.

b. Multiply the length by the width by the height.

c. If the result exceeds 1,728 cubic inches, divide the result by 194 and round up (see 604.7.0) to the next whole number to determine the dimensional weight in pounds.

1.4.2 Determining Dimensional Weight for Nonrectangular Parcels

Follow these steps to determine the dimensional weight for a nonrectangular parcel:

a. Measure the length, width, and height in inches at their extreme dimensions. Round off (see 604.7.0) each measurement to the nearest whole inch.

b. Multiply the length by the width by the height.

c. Multiply the result by an adjustment factor of 0.785.

d. If the final result exceeds 1,728 cubic inches, divide the result by 194 and round up (see 604.7.0) to the next whole number to determine the dimensional weight in pounds.

e. If the dimensional weight exceeds 70 pounds, the parcel pays the 70-pound rate.

1.5 Flat-Rate Boxes and Envelopes

Any amount of material may be mailed in a USPS-produced Priority Mail flat-rate box or flat-rate envelope. When sealing a flat-rate box or flat-rate envelope, the container flaps must be able to close within the normal folds. Tape may be applied to the flaps and seams to reinforce the container, provided the design of the container is not enlarged by opening the sides and the container is not reconstructed in any way.

1.5.1 Flat-Rate Boxes—Rate and Eligibility

Each USPS-produced Priority Mail flat-rate box is charged $9.15, regardless of the actual weight of the piece or its destination. Only USPS-produced flat-rate boxes are eligible for the flat-rate box rate.

1.5.2 Flat-Rate Envelopes—Rate and Eligibility

Each USPS-produced Priority Mail flat-rate envelope is charged $4.60, regardless of the actual weight of the piece or its destination. Only USPS-produced flat-rate envelopes are eligible for the flat-rate envelope rate.

* * * * *

130 Retail Mail: First-Class Mail

133 Rates and Eligibility

1.0 First-Class Mail Rates and Fees

1.1 First-Class Mail Single-Piece Rate Application

The single-piece rates for First-Class Mail are applied as follows:

* * * * *

[Revise the weight limit in item b as follows:]

b. The letter rate applies to letter-size pieces that meet the standards in 101.1.1 and weigh 3.5 ounces or less, and that are not eligible for and claimed at the card rate.

[Insert new items c and d as follows:]

c. The flat rate applies to flat-size pieces that meet the standards in 101.2.1.

d. The parcel rate applies to parcel-size pieces under 101.3.0 and to flat-size pieces that do not meet the standards in 101.2.0.

* * * * *

[Renumber 1.7, Rates for Keys and Identification Devices, as new 1.9. Restructure the rate tables in 1.5 and 1.6 into new 1.5 through 1.7 for separate letter, flat, and parcel rates.]

1.8 Keys and Identification Devices

[Revise 1.8 to remove references to the nonmachinable surcharge in the first three sentences as follows:]

Keys and identification devices (such as identification cards and uncovered identification tags) that weigh 13 ounces or less are returned at the applicable single-piece First-Class Mail parcel rate plus the fee. Keys and identification devices that weigh more than 13 ounces but not more than 1 pound are returned at the 1-pound Priority Mail rate plus the fee. Keys and identification devices weighing more than 1 pound but not more than 2 pounds are mailed at the 2-pound Priority Mail rate for zone 4 plus the fee. * * *

* * * * *

[Renumber 1.9 through 1.11 as new 1.10 through 1.12.]

1.11 Applicability of Nonmachinable Surcharge

[Revise renumbered 1.11 as follows:]

The nonmachinable surcharge applies to letter-size pieces that weigh 1 ounce or less and meet one or more of the nonmachinable characteristics in 101.1.2. Pieces mailed at the card rate are not subject to the nonmachinable surcharge.

* * * * *

2.0 Basic Eligibility Standards for First-Class Mail

2.1 Description of Service

* * * * *

2.1.2 Rate Options

[Revise 2.1.2 to add shape-based reference as follows:]

First-Class Mail offers shape-based single-piece rates in 1.0.

* * * * *

150 Retail Mail: Parcel Post

153 Rates and Eligibility

1.0 Parcel Post Rates and Fees

1.1 Rate Eligibility

There are two Parcel Post retail rate categories: Intra-BMC and Inter-BMC. Intra-BMC and Inter-BMC Parcel Post rates are calculated based on the zone to which the parcel is addressed and the weight of the parcel. Requirements for Parcel Post rates and discounts are as follows:

* * * * *

[Revise item d as follows:]

d. Parcels that weigh less than 20 pounds but measure more than 84 inches (but not more than 108 inches) in combined length and girth are charged the applicable rate for a 20-pound parcel (balloon rate).

* * * * *

1.7 Inter-BMC/ASF Machinable Parcel Post

[Revise 1.7 as follows:]

For barcode discount, deduct $0.03 per parcel (50-piece minimum). Parcels that weigh less than 20 pounds but measure more than 84 inches (but not more than 108 inches) in combined length and girth are charged the applicable rate for a 20-pound parcel (balloon rate).

1.8 Inter-BMC/ASF Nonmachinable Parcel Post

[Revise 1.8 as follows:]

Rates include the $3.89 nonmachinable surcharge. Regardless of weight, a parcel with any of the characteristics in 101.7.2, Nonmachinable Parcel Post Standards, must be charged the rate listed in Exhibit 1.9. Parcels that weigh less than 20 pounds but measure more than 84 inches (but not more than 108 inches) in combined length and girth are charged the applicable rate for a 20-pound parcel (balloon rate). The nonmachinable surcharge does not apply to parcels mailed at oversized rates or parcels sent with special handling.

* * * * *

1.10 Local and Intra-BMC/ASF Machinable Parcel Post

[Revise 1.10 as follows:]

Rates for parcels that originate and destinate in the same BMC service area are in Exhibit 1.12, Local and Intra-BMC/ASF Machinable and Nonmachinable Parcel Post Rates. For barcode discount, deduct $0.03 per parcel (50-piece minimum). Parcels that weigh less than 20 pounds but measure more than 84 inches (but not more than 108 inches) in combined length and girth are charged the applicable rate for a 20-pound parcel (balloon rate). Regardless of weight, a parcel with any of the characteristics in 101.7.2 must be charged the rate for a nonmachinable parcel in 1.11.

1.11 Local and Intra-BMC/ASF Nonmachinable Parcel Post

[Revise 1.11 as follows:]

Rates include the $2.87 nonmachinable surcharge. Regardless of weight, a parcel with any of the characteristics in 101.7.2, Nonmachinable Parcel Post Standards, must be charged the rates in Exhibit 1.12. Parcels that weigh less than 20 pounds but measure more than 84 inches (but not more than 108 inches) in combined length and girth are charged the applicable rate for a 20-pound parcel (balloon rate). The nonmachinable surcharge does not apply to parcels mailed at oversized rates or parcels sent with special handling.

* * * * *

[Delete Chapter 160, Retail Mail: Bound Printed Matter, in its entirety. These standards are incorporated into chapters 360 and 460.]

* * * * *

200 Discount Mail: Letters and Cards

201 Physical Standards

1.0 Physical Standards for Machinable Letters and Cards

1.1 Physical Standards for Machinable Letters

* * * * *

1.1.2 Weight Standards for Machinable Letters

[Revise 1.1.2 to change the maximum weight for First-Class Mail machinable letters to 3.5 ounces as follows:]

The maximum weight for Presorted First-Class Mail machinable letters is 3.3 ounces (0.2063 pound). The maximum weight for Standard Mail machinable letters is 3.3 ounces (0.2063 pound).

* * * * *

2.0 Physical Standards for Nonmachinable Letters

2.1 Criteria for Nonmachinable Letters

A letter-size piece is nonmachinable if it has one or more of the following characteristics (see 601.1.4 to determine the length, height, top, and bottom of a mailpiece):

[Renumber items a through i as items b through j. Insert new item a as follows:]

a. Is over 3.3 ounces, unless prepared as an automation-rate letter.

* * * * *

[Delete 2.2.2, Nonmachinable Surcharge—Letter-Size Pieces. Renumber 2.2.1 as new 2.2 and revise as follows:]

2.2 Additional Criteria for First-Class Mail Nonmachinable Letters

Letter-size pieces (except card-rate pieces) that weigh 1 ounce or less and meet one or more of the nonmachinable characteristics in 2.1 are subject to the nonmachinable surcharge (see 133.1.10). Nonmachinable letters over 1 ounce and up to 3.5 ounces are charged the First-Class Mail letter rates based on weight. All letter-size pieces over 3.5 ounces are prepared as letters and charged the flat-size rates.

[Delete 2.3.2, Nonmachinable Surcharge Not Applied. Renumber 2.3.1 as new 2.3 and revise as follows:]

2.3 Additional Criteria for Standard Mail Nonmachinable Letters

The nonmachinable rates in 243.1.5 apply to Standard Mail letter-size pieces that weigh 3.3 ounces or less and have one or more of the nonmachinable characteristics in 2.1.

3.0 Physical Standards for Automation Letters and Cards

* * * * *

3.3 Weight Standards for First-Class Mail Automation Letters and Cards

[Revise 3.3 to change the weight limit as follows:]

Maximum weight for First-Class Mail automation letters is 3.5 ounces (0.2188 pound). See 3.13.4 for pieces heavier than 3 ounces.

3.4 Weight Standards for Standard Mail Automation Letters

[Revise 3.4 to remove the reference to automation carrier route mail as follows:]

Maximum weight for Standard Mail mailed at automation and Enhanced Carrier Route is 3.5 ounces (0.2188 pound). See 3.13.4 for pieces heavier than 3 ounces.

* * * * *

202 Elements on the Face of a Mailpiece

* * * * *

3.0 Placement and Content of Mail Markings

* * * * *

3.3 Placement of Mail Markings

* * * * *

[Revise item b, item b3, and item c to delete “AUTOCR.”]

3.4 Exceptions to Markings

Exceptions are as follows:

[Revise item a to remove references to carrier route mail as follows:]

a. Automation Letters. First-Class Mail and Standard Mail letters do not require an “AUTO” marking if they bear a DPBC or an Intelligent Mail barcode with a delivery point routing code in the address block or on an insert visible through a window. First-Class Mail letters not marked “AUTO” must bear both the “Presorted” or “PRSRT” and “First-Class” markings. Standard Mail letters not marked “AUTO” must bear the appropriate basic marking in 3.3a.

[Revise item b as follows:]

b. Manifest Mailings. The basic marking must appear in the postage area on each piece as required in 3.3a. The two-letter rate category code required in the keyline on manifest mailing pieces prepared under 705.2.0, Manifest Mailing System, meets the requirement for other rate markings.

* * * * *

230 Discount Letters and Cards: First-Class Mail

233 Rates and Eligibility

1.0 Rates and Fees for First-Class Mail

1.1 Rate Application

[Revise 1.1 to add “letter” as follows:]

Postage is based on the letter rate that applies to the weight of each addressed piece.

1.2 Rate Computation for First-Class Mail Letters

[Revise the first sentence in 1.2 to add “letter” as follows:]

First-Class Mail letter rates are charged per ounce or fraction thereof; any fraction of an ounce is considered a whole ounce. For example, if a piece weighs 1.2 ounces, the weight (postage) increment is 2 ounces. The minimum postage per addressed piece is that for a piece weighing 1 ounce.

* * * * *

[Delete 1.13, Carrier Route Automation Cards, and 1.14, Carrier Route Automation Letters. Renumber 1.15 through 1.19 as new 1.13 through 1.17.]

* * * * *

3.0 Basic Standards for First-Class Mail Letters

3.1 Description of Service

* * * * *

3.1.2 Rate Options

[Revise 3.1.2 as follows:]

First-Class Mail letters offer shape-based single-piece rates in 133.1.0 and discounted rates in 1.0 for presorted mailings of 500 or more pieces that weigh 3.5 ounces or less.

* * * * *

3.3 Additional Basic Standards for First-Class Mail

[Revise introductory text in 3.3 as follows:]

All pieces of presorted First-Class Mail letters must:

* * * * *

[Revise the weight in item b as follows:]

b. Weigh 3.5 ounces or less.

* * * * *

4.0 Additional Eligibility Standards for Nonautomation First-Class Mail Letters

* * * * *

4.3 Nonmachinable Surcharge for Letter-Size Pieces

[Revise 4.3 as follows:]

The nonmachinable surcharge in 1.14 applies to letter-size pieces (except card-rate pieces) that weigh 1 ounce or less and meet one or more of the nonmachinable characteristics in 201.2.1. Nonmachinable letters over 1 ounce are charged the First-Class Mail letter rate based on weight.

[Revise heading of 5.0 to delete “Carrier Route” as follows:]

5.0 Additional Eligibility Standards for Automation Rate First-Class Mail Letters

[Revise heading of 5.1 as follows:]

5.1 Basic Standards for Automation First-Class Mail Letters

All pieces in a First-Class Mail automation rate mailing must:

* * * * *

[Delete item d2. Move text in item d1 into item d as follows.]

d. Bear a delivery address that includes the correct ZIP Code, ZIP+4 code, or numeric equivalent to the delivery point barcode (DPBC) and that meets the address matching and coding standards in 5.6, Address Standards for Barcoded Pieces, and 708.3.0, Coding Accuracy Support System (CASS).

* * * * *

[Delete 5.2, Carrier Route Accuracy, and renumber 5.3 and 5.4 as new 5.2 and 5.3.]

* * * * *

5.2 Maximum Weight for Automation Letters

[Revise renumbered 5.2 to change maximum weight from 3.3 to 3.5 ounces as follows:]

Maximum weight for First-Class Mail automation letters is 3.5 ounces (0.2188 pound) (see 201.3.13.4, Heavy Letter Mail, for pieces heavier than 3 ounces).

5.3 Rate Application—Automation Cards and Letters

Automation rates apply to each piece that is sorted under 235.6.0 into the corresponding qualifying groups:

[Delete item a. Renumber items b through e as new items a through d and revise as follows:]

a. Groups of 150 or more pieces in 5-digit/scheme trays qualify for the 5-digit rate. Preparation to qualify for the 5-digit rate is optional. Pieces placed in full 3-digit/scheme trays in lieu of 5-digit/scheme overflow trays under 235.6.6 are eligible for the 5-digit rates.

b. Groups of 150 or more pieces in 3-digit/scheme trays qualify for the 3-digit rate. Pieces placed in full AADC trays in lieu of 3-digit/scheme overflow trays under 235.6.6 are eligible for the 3-digit rates.

c. Groups of fewer than 150 pieces in origin 3-digit/scheme trays and all pieces in AADC trays qualify for the AADC rate. Pieces placed in mixed AADC trays in lieu of AADC overflow trays under 235.6.6 are eligible for the AADC rates.

d. Pieces in mixed AADC trays qualify for the mixed AADC rate, except for pieces prepared under 5.3c.

* * * * *

[Delete 5.5 and renumber 5.6 and 5.7 as new 5.4 and 5.5.]

* * * * *

[Delete renumbered 5.4.7, Rural and Highway Contract Routes. Renumber 5.4.8 as new 5.4.7.]

* * * * *

235 Mail Preparation

1.0 General Definition of Terms

* * * * *

1.2 Definitions of Mailings

Mailings are defined as:

[Revise the second sentence in item a to remove “automation carrier route” as follows:]

a. * * * Generally, automation and nonautomation letters must be prepared as separate mailings.* * *

* * * * *

1.3 Terms for Presort Levels

Terms used for presort levels are defined as follows:

[Delete item a and renumber items b through k as new items a through j.]

* * * * *

1.4 Preparation Definitions and Instructions

For purposes of preparing mail:

* * * * *

[Revise item b as follows:]

b. A full letter tray is one in which faced, upright pieces fill the length of the tray between 85% and 100% full.

* * * * *

[Revise the last sentence in item e to delete 5-digit scheme trays as an option and to require 5-digit/scheme sorting to qualify for the 5-digit rate as follows:]

e. * * * When standards require 5-digit/scheme sorting, mailers must prepare all possible 5-digit/scheme trays, then prepare all possible 5-digit trays.

[Revise item f by adding a new last sentence as follows:]

f. * * * When standards require 3-digit/scheme sorting, mailers must prepare all possible 3-digit/scheme trays, then prepare all possible 3-digit trays.

* * * * *

2.0 Bundles

* * * * *

2.3 Preparing Bundles

Cards and letter-size pieces are subject to these bundling standards:

[Revise item a as follows:]

a. The maximum thickness for bundles is 6 inches.

* * * * *

[Delete item d and renumber items e and f as new items d and e.]

* * * * *

2.8 Labeling Bundles

[Revise the first sentence in the introductory text to delete the reference to carrier route bundles as follows:]

Unless excepted by standard, the presort level of each bundle must be identified either with an optional endorsement line under 708.7.0 or with a barcoded pressure-sensitive bundle label. On letter-size mail (including card-size pieces), the bundle label must be placed in the lower left corner of the address side of the top piece in the bundle. Bundle labels must not be obscured by banding or shrinkwrap. The following colors and presort characters apply to bundle labels:

* * * * *

[Delete 2.9, Use of Carrier Route Information Lines, and 2.10, Facing Slips—All Carrier Route Mail.]

* * * * *

4.0 Tray Labels

* * * * *

4.4 Line 2 (Content Line)

Line 2 (content line) must meet these standards:

* * * * *

b. Codes: The codes shown below must be used as appropriate on Line 2 of tray labels.

[Revise the table in item 4.4b to delete the entries for “Carrier Route,” “Carrier Routes,” “General Delivery Unit,” “Highway Contract Route,” “Post Office Box Section,” and “Rural Route.”]

* * * * *

5.0 Preparing Nonautomation Letters

* * * * *

[Delete 5.2, Manual Only Option, and renumber 5.3 and 5.4 as new 5.2 and 5.3.]

5.2 Machinable Preparation

* * * * *

5.2.2 Traying and Labeling

[Delete item a about labeling the 5-digit tray. Renumber items b through d as new items a through c. Revise renumbered item a to reflect the 3-digit origin tray as follows:]

* * * * *

a. Separate 3-digit origin trays required for each origin 3-digit ZIP Code; no minimum piece requirement; one less-than-full tray permitted for each origin ZIP Code; labeling:

1. Line 1: L002, Column A.

2. Line 2: “FCM LTR 3D MACH.”

* * * * *

5.3 Nonmachinable Preparation

5.3.1 Nonmachinable Bundling

[Delete the second-to-last sentence in the introductory text to remove the “manual only” option as follows:]

Except as provided in 2.5, Exception to Bundle Preparation—Full Single-Sort-Level Trays, bundling is required before traying. A bundle must be prepared when the quantity of addressed pieces for a required presort level reaches a minimum of 10 pieces. Smaller volumes are not permitted except for mixed ADC bundles. Preparation sequence, bundle size, and labeling:

* * * * *

6.0 Preparing Automation Rate Letters

* * * * *

6.2 Mailings

The requirements for mailings are as follows:

* * * * *

[Revise item b as follows:]

b. First-Class Mail. A single automation rate First-Class Mail mailing may include pieces prepared at 5-digit, 3-digit, AADC, and mixed AADC rates.

* * * * *

6.3 Marking

[Revise 6.3 to delete the carrier route references as follows:]

All automation rate pieces must be marked under 202.3.0, Placement and Content of Mail Markings, and 202.4.0, Endorsement Placement. Pieces claimed at an automation rate must bear the appropriate class marking and, except as provided in 202.3.0, Placement and Content of Mail Markings, and 202.4.0, Endorsement Placement, “AUTO.” Pieces not claimed at an automation rate must not bear “AUTO” unless single-piece rate postage is affixed or the corrective single-piece rate marking (“SNGLP” or “Single-Piece”) is applied.

6.4 General Preparation

[Revise 6.4 as follows:]

Grouping, bundling, and labeling are not generally required or permitted, except bundling is required in any mailing consisting entirely of card-size pieces and for pieces in overflow and less-than-full trays, and grouping is required under 6.6.

* * * * *

[Delete 6.6 and 6.7. Renumber 6.8 through 6.10 as new 6.6 through 6.8.]

6.6 Tray Preparation

[Add introductory statement about overflow trays to 6.6 as follows:]

Instead of preparing overflow trays with fewer than 150 pieces, mailers may include these pieces in the next tray level when a tray of 150 or more pieces can be made. Mailers must note these trays on standardized documentation (see 708.1.2). Pieces that are placed in the next tray level must be grouped by destination and placed in the front of that tray. Mailers may use this option selectively for 3-digit and AADC ZIP Codes. This option does not apply to origin/entry 3-digit/scheme trays. Preparation sequence, tray size, and Line 1 labeling:

[Delete items a through c and renumber items d through g as new items a through d. Revise renumbered item a as follows:]

a. 5-digit/scheme (see 1.4e): optional, but required for 5-digit rate (150-piece minimum); overflow allowed.

1. For 5-digit scheme trays, use destination shown in the current USPS City State Product.

2. For 5-digit trays, use city, state, and 5-digit ZIP Code destination on pieces (see 4.0 for overseas military mail).

* * * * *

6.7 Tray Line 2

Line 2: “FCM LTR” and:

[Delete items a through c and renumber items d through i as new items a through f as follows:]

a. 5-digit scheme: “BC 5D SCHEME.”

b. 5-digit: “5D BC.”

c. 3-digit scheme: “BC 3D SCHEME” and, if applicable, as shown in L002, Column B, followed by the letter “A,” “B,” or “C.”

d. 3-digit: “3D BC.”

e. AADC: “AADC BC.”

f. Mixed AADC: “BC WKG.”

* * * * *

240 Discount Letters and Cards: Standard Mail

243 Rates and Eligibility

1.0 Rates and Fees for Standard Mail

* * * * *

[Delete 1.5, Nonmachinable Surcharge. Renumber 1.6 and 1.7 as new 1.5 and 1.6.]

* * * * *

1.6 Computing Postage for Standard Mail

* * * * *

1.6.8 Discount for Heavy Automation Letters

[Revise renumbered 1.6.8 to delete the second-to-last sentence, about automation ECR.]

* * * * *

[Delete renumbered 1.6.10, Discount for Heavy ECR Basic Automation Letters.]

* * * * *

3.0 Basic Standards for Standard Mail Letters

* * * * *

3.2 Defining Characteristics

3.2.1 Mailpiece Weight

[Revise 3.2.1 as follows:]

All Standard Mail pieces must weigh less than 16 ounces. The following weight limits also apply to pieces mailed at Standard Mail letter rates:

a. Pieces mailed at machinable and nonmachinable letter rates may weigh up to 3.3 ounces. Letter-size pieces weighing more than 3.3 ounces and prepared as nonmachinable letters are mailable at Not Flat-Machinable rates (see 443) and must be marked “Not Flat-Machinable” or “NFM” according to 402.2.0, unless they are barcoded and eligible to be mailed as automation flats under 301.3.0.

b. Pieces mailed at automation letter rates or Enhanced Carrier Route rates may weigh up to 3.5 ounces.

* * * * *

3.3 Additional Basic Standards for Standard Mail

Each Standard Mail mailing is subject to these general standards:

* * * * *

[Revise item e to add a reference to 3.8.1 as follows:]

e. Each piece must bear the addressee's name and delivery address, including the correct ZIP Code or ZIP+4 code (see 3.8.1), unless an alternative addressing format is used subject to 602.3.0. Detached address labels may be used subject to 602.4.0.

* * * * *

4.0 Rate Eligibility for Standard Mail

* * * * *

4.2 Minimum Per Piece Rates

The minimum per piece rates (the minimum postage that must be paid for each piece) apply as follows:

* * * * *

b. In applying the minimum per piece rates, a mailpiece is categorized as a letter based on whether the piece meets the letter-size standard in 201.1.1.1, without regard to placement of the address on the piece, except under these conditions:

[Revise item b1 to delete “(nonletter)” as follows:]

1. If the piece meets both the definition of a letter in 201.1.1.1 and the definition of an automation flat in 301.3.0, the piece may be prepared and entered at an automation flat rate.

* * * * *

[Revise item b3 by changing the base rate for Customized MarketMail as follows:]

3. Pieces mailed as Customized MarketMail under 705.1.0 must be charged the Regular or Nonprofit Standard Mail 5-digit nonentry rates for Not Flat-Machinable pieces and must not exceed 3.3 ounces.

[Revise item c to delete the last sentence, about DDU rates.]

* * * * *

[Delete 4.4, Residual Shape Surcharge.]

[Replace “presorted” with “nonautomation” throughout 5.0.]

5.0 Additional Eligibility Standards for Nonautomation Standard Mail Letters

* * * * *

[Revise heading and text of 5.4 to refer to new AADC and mixed AADC rates, instead of basic rates, as follows:]

5.4 Machinable Rate Application

Machinable letters are subject only to AADC and mixed AADC rates.

5.4.1 AADC Rate

The AADC rate applies to qualifying letter-size machinable pieces (see 201.1.0, Physical Standards for Machinable Letters and Cards) placed in origin/entry 3-digit trays, to quantities of 150 or more pieces prepared in AADC trays for a single AADC, and to pieces placed in mixed AADC trays in lieu of overflow AADC trays.

5.4.2 Mixed AADC Rate

The mixed AADC rate applies to qualifying letter-size machinable pieces that the mailer prepares in mixed AADC trays, except for pieces placed in mixed AADC trays in lieu of overflow AADC trays (see 245.5.3.2).

[Delete 5.5 and 5.6. Insert new 5.5 as follows:]

5.5 Nonmachinable Rate Application

Nonmachinable rates in 1.0 apply only to Standard Mail letter-size pieces (including card-size pieces) weighing 3.3 ounces or less that have one or more of the nonmachinable characteristics in 201.2.1. Except for Enhanced Carrier Route letter-size pieces, nonmachinable letter-size pieces weighing more than 3.3 ounces are subject to Not Flat-Machinable rates (see 443) unless they are barcoded and eligible to be mailed as automation flats under 301.3.0. Nonmachinable Enhanced Carrier Route letter-size pieces over 3.3 ounces are subject to the Enhanced Carrier Route flats rates.

5.5.1 5-Digit Rate

The 5-digit rate applies to letter-size pieces subject to the nonmachinable rates (see 5.5) prepared in quantities of 150 or more pieces for a 5-digit ZIP Code and presented in 5-digit trays under 245.5.0.

5.5.2 3-Digit Rate

The 3-digit rate applies to letter-size pieces subject to the nonmachinable rates (see 5.5) prepared in quantities of 150 or more pieces for a 3-digit ZIP Code and presented in 3-digit trays under 245.5.0.

5.5.3 ADC Rate

The ADC rate applies to letter-size pieces subject to the nonmachinable rates (see 5.5) placed in 3-digit origin/entry trays and to pieces prepared in quantities of 150 or more for an ADC and presented in ADC trays under 245.5.0.

5.5.4 Mixed ADC Rate

The mixed ADC rate applies to letter-size pieces that are subject to the nonmachinable rates and prepared in mixed ADC trays.

[Revise heading of 6.0 as follows:]

6.0 Additional Eligibility Standards for Enhanced Carrier Route Standard Mail Letters

6.1 General Enhanced Carrier Route Standards

6.1.1 Optional Preparation

* * * * *

[Revise 6.1.1 to delete the last sentence, about automation basic carrier route.]

6.1.2 Basic Eligibility Standards

All pieces in an Enhanced Carrier Route or Nonprofit Enhanced Carrier Route Standard Mail mailing must:

* * * * *

[Revise item b to delete the second sentence, about automation basic carrier route, as follows:]

b. Be part of a single mailing of at least 200 pieces or 50 pounds of pieces of Enhanced Carrier Route Standard Mail. ECR and Nonprofit ECR mailings must meet separate minimum volumes.

* * * * *

d. Bear a delivery address that includes the correct ZIP Code, ZIP+4 code, or numeric equivalent to the delivery point barcode (DPBC) and that meets these address quality standards:

* * * * *

[Revise item d2 to require address matching and coding for all ECR letters as follows:]

2. The address matching and coding standards in 7.4, Address Standards for Barcoded Pieces, and 708.3.0, Coding Accuracy Support System (CASS).

* * * * *

6.1.3 Maximum Weight for Enhanced Carrier Route Letters

[Revise 6.1.3 to specify the maximum weight for all Standard Mail ECR pieces as follows:]

Maximum weight for Standard Mail Enhanced Carrier Route pieces: 3.5 ounces (0.2188 pound) (see 201.3.13.4, Heavy Letter Mail, for pieces heavier than 3 ounces).

6.2 Carrier Route Accuracy

6.2.1 Basic Standards

The carrier route accuracy standard is a means of ensuring that the carrier route code correctly matches the delivery address information. For the purposes of this standard, address means a specific address associated with a specific carrier route code. Addresses used on pieces claiming certain rates under 6.2.2 that are subject to the carrier route accuracy standard must meet these requirements:

[Revise item a to delete the last sentence, about ECR automation rate Standard Mail, as follows:]

a. Each address and associated carrier route code used on the mailpieces in a mailing must be updated within 90 days before the mailing date with one of the USPS-approved methods in 3.8.2.

* * * * *

6.3 Basic Rate Enhanced Carrier Route Standards

* * * * *

6.3.2 Basic Rate Eligibility

[Revise 6.3.2 to add the option for groups of 10 or more pieces, and the automation-compatible and barcode requirements, as follows:]

Basic rates apply to each piece sorted under 245.6.0 or 705.8.0 in a full carrier route tray, in a carrier route bundle of 10 or more pieces, or in groups of 10 or more pieces placed in a 5-digit carrier routes or a 3-digit carrier routes tray. Basic rates also apply under these conditions:

a. Basic letter rates apply to each piece that is automation-compatible according to 201.3.0, Physical Standards for Automation Letters and Cards, and has an accurate delivery point barcode or Intelligent Mail barcode under 202.5.0, Barcode Placement, and 708.4.0, Barcoding Standards for Letters and Flats.

b. Pieces that are not automation-compatible or not barcoded are mailable at the basic rate for flat-size pieces.

* * * * *

[Delete 6.6, Automation ECR Standards.]

* * * * *

7.0 Eligibility Standards for Automation Rate Standard Mail

* * * * *

7.3 Rate Application for Automation Letters

Automation rates apply to each piece that is sorted under 245.7.0, Preparing Automation Rate Letters, into the corresponding qualifying groups:

[Revise items a through d to accommodate an option to overflow trays as follows:]

a. Groups of 150 or more pieces in 5-digit/scheme trays qualify for the 5-digit rate. Preparation to qualify for that rate is optional. Pieces placed in full 3-digit/scheme trays under 245.7.5 in lieu of 5-digit/scheme overflow trays are eligible for 5-digit rates (see 245.7.5).

b. Groups of 150 or more pieces in 3-digit/scheme trays qualify for the 3-digit rate. Pieces placed in full AADC trays under 245.7.5 in lieu of 3-digit/scheme overflow trays are eligible for 3-digit rates (see 245.7.5).

c. Groups of fewer than 150 pieces in origin/entry 3-digit/scheme trays and groups of 150 or more pieces in AADC trays qualify for the AADC rate. Pieces placed in mixed AADC trays under 245.7.5 in lieu of AADC overflow trays also are eligible for AADC rates (see 245.7.5).

d. Pieces in mixed AADC trays qualify for the mixed AADC rate, except for pieces prepared under 7.3c.

* * * * *

245 Mail Preparation

1.0 General Information for Mail Preparation

* * * * *

1.2 Definitions of Mailings

Mailings are defined as:

* * * * *

b. Standard Mail. Except as provided in 243.3.6, Residual Volume Requirement, the types of Standard Mail listed below may not be part of the same mailing.

[Delete item b1, about automation ECR. Renumber items b2 through b8 as new items b1 through b7.]

* * * * *

1.4 Preparation Definitions and Instructions

For purposes of preparing mail:

* * * * *

[Revise item b as follows:]

b. A full letter tray is one in which faced, upright pieces fill the length of the tray between 85% and 100% full.

* * * * *

[Revise the last sentence in item e as follows:]

e. A 5-digit scheme sort for automation letters yields 5-digit scheme trays for those 5-digit ZIP Codes identified in the USPS City State Product and 5-digit trays for other areas. Mail prepared using 5-digit scheme sort must be entered no later than 90 days after the release date of the City State Product used to obtain the scheme information (see 708.3.0, Coding Accuracy Support System (CASS)). The 5-digit ZIP Codes in each scheme are treated as a single presort destination subject to a single minimum volume, with no further separation by 5-digit ZIP Code required. Trays prepared for a 5-digit scheme destination that contain pieces for only one of the schemed 5-digit ZIP Codes are still considered 5-digit scheme sorted and are labeled accordingly. When standards require 5-digit/scheme sort, mailers must prepare all possible 5-digit scheme trays, then prepare all possible 5-digit trays.

[Revise item f to add a new last sentence as follows:]

f. A 3-digit scheme sort yields 3-digit scheme trays for those 3-digit ZIP Code prefixes listed in L003 and 3-digit trays for other areas. The 3-digit ZIP Code prefixes in each scheme are treated as a single presort destination subject to a single minimum tray volume, with no further separation by 3-digit prefix required. Trays prepared for a 3-digit scheme destination that contain pieces for only one of the schemed 3-digit areas are still considered 3-digit scheme sorted and are labeled accordingly. When standards require 3-digit/scheme sort, mailers must prepare all possible 3-digit scheme trays, then prepare all possible 3-digit trays.

* * * * *

2.0 Bundles

* * * * *

2.3 Preparing Bundles

Cards and letter-size pieces are subject to these bundling standards:

* * * * *

[Revise item c to delete “and for Standard Mail pieces where the mailer has requested ‘manual only’ processing” as follows:]

c. Bundles must be prepared for mail in all less-than-full trays and for nonmachinable Standard Mail.

[Revise item d to delete the second sentence as follows:]

d. Except under 245.6.7, separator cards or tic marks may be used instead of bundling for letter-size pieces in full 5-digit carrier routes trays of Enhanced Carrier Route Standard Mail. The cards must be of paper or card stock, at least 0.25 inch higher than the highest pieces in the mailing, and in front of the corresponding groups of mail. The tic mark must be applied during the mailpiece production process and be printed on the top edge of the envelope, to the left of the center line of the envelope.

* * * * *

4.0 Tray Labels

* * * * *

4.9 Barcoded Tray Labels

4.9.1 Basic Standards for Barcoded Tray Labels

* * * * *

Exhibit 4.9.1 Required Barcoded Container Labels

[Revise Exhibit 4.9.1 to require barcoded tray labels for all ECR letters mailed at letter rates, except for pieces with simplified addresses, as follows:]

Rate or type | Processing category
Standard Mail |
* * * * *
Enhanced Carrier Route | Letter-size (barcoded labels not required for letter-size pieces with simplified addresses or paid for at nonletter rates).

[Revise heading of 5.0 as follows:]

5.0 Preparing Nonautomation Letters

* * * * *

5.2 Marking

[Revise 5.2 to delete “AUTOCR” in the last sentence.]

* * * * *

[Delete 5.3, Manual Only Option. Renumber 5.4 and 5.5 as new 5.3 and 5.4.]

5.3 Machinable Preparation

5.3.1 Machinable Bundling

Machinable pieces are not bundled, except for the following (see 2.3):

* * * * *

[Delete item b. Renumber item c as new item b.]

5.3.2 Traying and Labeling

[Replace the first sentence in 5.3.2 with new text and delete items a and b.

Renumber items c through e as new items a through c and revise as follows:]

Instead of preparing overflow AADC trays with fewer than 150 pieces, mailers may include these pieces in mixed AADC trays. Preparation sequence, tray size, and labeling:

a. Origin/entry 3-digit (optional, no minimum); labeling: * * *

* * * * *

b. AADC (required); 150-piece minimum (overflow allowed); labeling: * * *

* * * * *

c. Mixed AADC (required); no minimum; labeling: * * *

* * * * *

5.4 Nonmachinable Preparation

5.4.1 Nonmachinable Bundling

[Revise renumbered 5.4.1 to delete the fourth sentence, about manual processing, as follows:]

Except as provided in 2.5, Exception to Bundle Preparation—Full Single-Sort-Level Trays, bundling is required before traying. A bundle must be prepared when the quantity of addressed pieces for a required presort level reaches a minimum of 10 pieces. Smaller volumes are not permitted except for mixed ADC bundles. Preparation sequence, bundle size, and labeling:

* * * * *

5.4.2 Traying and Labeling

[Delete item c and renumber items d and e as new items c and d. Revise introductory text and renumbered items a through c as follows:]

Overflow trays are not allowed. Preparation sequence, tray size, and labeling:

a. 5-digit (required); 150-piece minimum; labeling: * * *

* * * * *

b. 3-digit (required); 150-piece minimum (mailers may prepare 3-digit origin/entry trays with as few as 10 pieces per tray); labeling: * * *

* * * * *

c. ADC (required); 150-piece minimum; labeling: * * *

* * * * *

6.0 Preparing Enhanced Carrier Route Letters

6.1 Basic Standards

[Revise 6.1 to delete “(Enhanced Carrier Route automation rate mailings must be prepared under 7.0)” in the introductory text as follows:]

All mailings and all pieces in each mailing at Enhanced Carrier Route Standard Mail and Nonprofit Enhanced Carrier Route Standard Mail nonautomation rates are subject to specific preparation standards in 6.0 and to these general standards:

* * * * *

[Revise 6.2 by adding a sentence at the end to require carrier route information lines on certain pieces mailed at ECR rates as follows:]

6.2 Marking

Subject to the marking standards in 202.3.0, Placement and Content of Mail Markings, and 202.4.0, Endorsement Placement, Enhanced Carrier Route Standard Mail pieces must be marked “Presorted Standard” (or “PRSRT STD”), and Nonprofit Enhanced Carrier Route Standard Mail pieces must be marked “Nonprofit Organization” (or “Nonprofit Org.” or “Nonprofit”). All pieces also must be marked “ECRLOT” for basic rate, “ECRWSH” for high density rate, or “ECRWSS” for saturation rate. Pieces in carrier route mailings under 6.7 must bear carrier route information lines under 708.8.0.

* * * * *

6.4 Carrier Route Bundle Preparation

Prepare carrier route bundles of letter-size mail as follows:

[Revise item a as follows:]

a. Mailers must prepare only carrier route bundles, except under 6.7. Carrier route bundles are not permitted in full carrier route trays, except for card-size pieces.

* * * * *

[Revise heading and text of 6.6 as follows:]

6.6 General Traying and Labeling

For all ECR letters over 3 ounces and all ECR letters that are not automation-compatible or delivery-point barcoded, prepare trays as explained below. Also prepare trays as explained below when a mailing contains some pieces over 3 ounces and some pieces up to 3 ounces. For ECR automation-compatible letters that are delivery-point barcoded and weigh up to 3 ounces, prepare trays under 6.7. Preparation sequence, tray size, and labeling:

a. Carrier route: required; full trays only, no overflow.

1. Line 1: city, state, and 5-digit ZIP Code on mail (see 4.0, Tray Labels, for overseas military mail).

2. Line 2: (a) Saturation: “STD LTR MACH WSS,” followed by route type and number; (b) High density: “STD LTR MACH WSH,” followed by route type and number; (c) Basic: “STD LTR MACH LOT,” followed by route type and number.

b. 5-digit carrier routes: required if full tray, optional with minimum one 10-piece bundle.

1. Line 1: city, state, and 5-digit ZIP Code on mail (see 4.0, Tray Labels, for overseas military mail).

2. Line 2: “STD LTR 5D CR-RT MACH.”

c. 3-digit carrier routes: optional with minimum one 10-piece bundle for each of two or more 5-digit areas.

1. Line 1: city, state, and 3-digit ZIP Code prefix shown in L002, Column A, that corresponds to 3-digit ZIP Code prefix on mail.

2. Line 2: “STD LTR 3D CR-RT MACH.”

d. For trays containing barcoded automation-compatible letter-size pieces over 3 ounces or nonmachinable letter-size pieces, use these Line 2 label designations in place of “MACH”:

1. Trays containing barcoded, automation-compatible pieces over 3 ounces: “BC.”

2. Trays containing nonmachinable pieces: “MAN.”

3. Trays containing simplified address pieces: “MAN.”

* * * * *

[Delete 6.7 and replace with new 6.7 as follows:]

6.7 Traying and Labeling for Automation-Compatible ECR Letters

Mailers must make full carrier route and 5-digit carrier routes trays, when possible, for automation-compatible, delivery-point barcoded ECR letters that weigh up to 3 ounces. Except for card-size pieces, pieces must not be bundled. Group pieces together by carrier route in 5-digit and 3-digit carrier routes trays. If pieces for one carrier route do not result in a full tray, mailers must combine pieces from at least two routes to make full 5-digit carrier routes trays, grouping pieces together by carrier route. If pieces for multiple carrier routes do not result in a full 5-digit tray, mailers must combine pieces from at least two 5-digit ZIP Codes to make 3-digit carrier routes trays, grouping pieces together by carrier route. If pieces fill more than one tray but do not fill an additional tray, mailers must place excess pieces in a tray at the next sortation level. Preparation sequence, tray size, and labeling:

a. Carrier route: required; full trays only, no overflow.

1. Line 1: city, state, and 5-digit ZIP Code on mail (see 4.0 for overseas military mail).

2. Line 2: for saturation, “STD LTR BC WSS,” followed by route type and number; for high-density, “STD LTR BC WSH,” followed by route type and number; for basic, “STD LTR BC LOT,” followed by route type and number.

b. 5-digit carrier routes: required; full trays only, no overflow, no bundling.

1. Line 1: city, state, and 5-digit ZIP Code on mail (see 4.0 for overseas military mail).

2. Line 2: “STD LTR 5D CR-RT BC.”

c. 3-digit carrier routes: required; bundling required in less-than-full trays.

1. Line 1: city, state, and 3-digit ZIP Code prefix shown in L002, Column A, that corresponds to 3-digit ZIP Code prefix on mail.

2. Line 2: “STD LTR 3D CR-RT BC.”

* * * * *

7.0 Preparing Automation Rate Letters

* * * * *

7.2 Mailings

[Restructure 7.2 to delete the introductory text and item b. Make item a the new text as follows:]

All pieces in a mailing must meet the standards in 201.1.0, Physical Standards for Machinable Letters and Cards, and 201.3.0, Physical Standards for Automation Letters and Cards, and must be sorted together to the finest extent required for the rate claimed. The definitions of a mailing and permissible combinations are in 1.0, General Information for Mail Preparation.

7.3 Marking

[Revise 7.3 to delete references to “AUTOCR” as follows:]

All Standard Mail automation rate pieces must be marked under 202.3.0, Placement and Content of Mail Markings. Pieces claimed at an automation rate must bear the appropriate class marking and “AUTO,” except as provided in 202.3.0. Pieces not claimed at an automation rate must not bear “AUTO” unless First-Class single-piece rate postage is affixed or a corrective single-piece rate marking (“Single-Piece” or “SNGLP”) is applied.

7.4 General Preparation

[Revise 7.4 to delete carrier route references as follows:]

Grouping, bundling, and labeling are not generally required or permitted, except bundling is required in any mailing consisting entirely of card-size pieces and for pieces in overflow and less-than-full trays, and grouping is required under 7.5.

[Delete 7.5 and 7.6, about carrier route trays and pieces. Renumber 7.7 through 7.9 as new 7.5 through 7.7.]

7.5 Tray Preparation

[Revise renumbered 7.5 to add information about overflow trays as follows:]

Instead of preparing overflow trays with fewer than 150 pieces, mailers may include these pieces in the next tray level when a tray of 150 or more pieces can be made. Mailers must note these trays on standardized documentation (see 708.1.2). Pieces that are placed in the next tray level must be grouped by destination and placed in the front of that tray. Mailers may use this option selectively for 3-digit and AADC ZIP Codes. This option does not apply to origin/entry 3-digit/scheme trays. Preparation sequence, tray size, and Line 1 labeling:

[Delete items a through c, about carrier routes trays. Renumber items d through g as new items a through d. Revise renumbered item a to require 5-digit/scheme trays for rate as follows:]

a. 5-digit/scheme (see 1.4e): optional, but required for 5-digit rate (150-piece minimum); overflow allowed; for Line 1, label as follows:

1. For 5-digit scheme trays, use destination shown in the current USPS City State Product.

2. For 5-digit trays, use city, state, and 5-digit ZIP Code destination on pieces (see 4.0 for overseas military mail).

[Revise renumbered item b to make origin 3-digit trays optional as follows:]

b. 3-digit/scheme; required (150-piece minimum except no minimum for optional origin/entry 3-digit/scheme(s)); overflow allowed; for Line 1, use L002, Column B.

* * * * *

7.6 Tray Line 2

Line 2: “STD LTR” and:

[Delete items a through c, about carrier routes. Renumber items d through i as new items a through f and revise as follows:]

a. 5-digit scheme: “BC 5D SCHEME.”

b. 5-digit: “5D BC.”

c. 3-digit scheme: “BC 3D SCHEME” and, if applicable, as shown in L002, Column B, followed by the letter “A,” “B,” or “C.”

d. 3-digit: “3D BC.”

e. AADC: “AADC BC.”

f. Mixed AADC: “BC WKG.”

* * * * *

246 Enter and Deposit

* * * * *

4.0 Destination Sectional Center Facility (DSCF) Entry

* * * * *

4.2 Eligibility

[Revise 4.2 to allow pieces placed in AADC trays in lieu of in 3-digit trays under 245.7.5 to be eligible for DSCF rates as follows:]

Pieces in a mailing that meet the standards in 2.0 and 4.0 are eligible for DSCF rates under either of the following conditions:

a. When deposited at a DSCF (or USPS-designated facility), addressed for delivery within that SCF's service area, and:

1. Placed in a tray labeled to that DSCF.

2. Placed in a tray labeled to the DADC that includes that DSCF under the preparation option in 245.7.5,

3. Placed in a tray labeled to a postal facility within that DSCF's service area.

b. When the pieces are deposited at a DDU, addressed for delivery within that facility's service area, and prepared with simplified addresses under 602.3.2 or when mailers hold a mailing permit at the entry office and deposit only one mailing (of fewer than 2,500 pieces) per day.

* * * * *

5.0 Destination Delivery Unit (DDU) Entry

* * * * *

5.2 Eligibility

[Revise 5.2 to reorganize text and eliminate the DDU entry discount as follows:]

Letter-size mailpieces are not eligible for a destination delivery unit (DDU) discount. Mailers may not pay ECR flat-size rates and claim the DDU discount for letter-size pieces. Mailers may deposit letter-size pieces that meet the standards in 2.0 and 5.0 at a DDU when:

a. Those pieces are addressed for delivery within that facility's service area (enhanced carrier route only).

b. The pieces are placed in properly prepared and labeled carrier route trays or 5-digit carrier routes trays, or on pallets under 705.8.0.

c. The pieces are eligible for and claimed at a carrier route rate.

* * * * *

300 Discount Mail: Flats

301 Physical Standards

1.0 Physical Standards for Flats

1.1 General Definition of Flat-Size Mail

Flat-size mail other than that in 3.0, Physical Standards for Automation Flats, is:

* * * * *

[Add an exception for Periodicals mail in item b as follows:]

b. Not more than 15 inches long, or more than 12 inches high, or greater than ¾ inch thick, except for Periodicals mail under 707.25.3.

[Replace items c and d with new items c and d as follows:]

c. Rectangular.

d. Other size or weight standards may apply to mail claimed at certain rates, mail addressed to certain APOs and FPOs, and mail sent by the Department of State to U.S. government personnel abroad.

1.2. Length and Height of Flats

[Revise 1.2 to change the determination of the length and height of flats as follows:]

The length of a flat-size mailpiece is the longest dimension. The height is the dimension perpendicular to the length.

[Insert new 1.3 through 1.6 as follows:]

1.3 Shape

Each flat-size piece must be rectangular. See 2.0 for additional standards by class of mail.

1.4 Minimum Flexibility for Flat-Size Pieces

Flat-size pieces must be flexible. Boxes and box-like pieces—with or without hinges, gaps, or breaks that allow the piece to bend—are not flats. Tight envelopes that are completely filled to form box-like pieces are not flats. Test flats as follows:

a. All flats:

1. Place the piece with the length parallel to the edge of a flat surface and extend the piece halfway off the surface.

2. Press down on the piece at a point 1 inch from the outer edge, in the center of the piece's length, exerting steady pressure.

3. The piece is not flexible if it cannot bend at least 1 inch vertically without being damaged.

4. The piece is flexible if it can bend at least 1 inch vertically without being damaged and it does not contain a rigid insert. No further testing is necessary.

5. Test the piece according to 1.4b or 1.4c below if it can bend at least 1 inch vertically without being damaged and it contains a rigid insert.

b. Flats 10 inches or longer that pass the test in 1.4a and contain a rigid insert:

1. Place the piece with the length perpendicular to the edge of a flat surface and extend the piece 5 inches off the surface.

2. Press down on the piece at a point 1 inch from the outer edge, in the center of the piece's width, exerting steady pressure.

3. Turn the piece around and repeat steps 1 and 2. The piece is flexible if both ends can bend at least 2 inches vertically without being damaged.

c. Flats less than 10 inches long that pass the test in 1.4a and contain a rigid insert:

1. Place the piece with the length perpendicular to the edge of a flat surface and extend the piece one-half of its length off the surface.

2. Press down on the piece at a point 1 inch from the outer edge, in the center of the piece's width, exerting steady pressure.

3. Turn the piece around and repeat steps 1 and 2. The piece is flexible if both ends can bend at least 1 inch vertically without being damaged.

1.5 Uniform Thickness

Flat-size mailpieces must be uniformly thick so that any bumps, protrusions, or other irregularities do not cause more than ¼-inch variance in thickness. Exclude the outside edges of a mailpiece (1 inch from the edge) when determining variance in thickness. Mailers must secure nonpaper contents to prevent shifting of more than 2 inches within the mailpiece.

1.6 Flat-Size Pieces Not Eligible for Flat-Size Rates

Mailpieces that do not meet the standards in 1.3 through 1.5 are not eligible for flat-size rates and must be charged the applicable rates as follows:

a. First-Class Mail—parcel rates.

b. Standard Mail—Not Flat-Machinable or parcel rates.

c. Bound Printed Matter—parcel rates.

[Revise the heading of 2.0 to delete “Presorted.”]

2.0 Physical Standards for Nonautomation Flats

2.1 First-Class Mail

[Revise 2.1 as follows:]

These additional standards apply to First-Class Mail flat-size pieces:

a. First-Class Mail cannot exceed 13 ounces. First-Class Mail weighing more than 13 ounces is Priority Mail.

b. Flat-size pieces that do not meet the standards in 1.3 through 1.5 must be prepared as parcels and must be charged the applicable parcel rate.

2.2 Standard Mail

2.2.1 Basic Physical Standards

[Revise the introductory text as follows:]

These additional standards apply to Standard Mail flat-size pieces:

* * * * *

[Delete item b. Insert new item b as follows:]

b. Flat-size pieces that do not meet the standards in 1.3 through 1.5 must be prepared as parcels or Not Flat-Machinable pieces and must be charged the parcel or Not Flat-Machinable rates (see 401).

[Delete Exhibit 2.2.1b, Maximum Dimensions for Standard Mail Flats.]

* * * * *

2.3 Bound Printed Matter

2.3.1 General Standards

[Delete item c. Renumber items a and b as new items b and c. Revise the introductory text and insert new item a as follows:]

These additional standards apply to Bound Printed Matter:

a. Flat-size pieces that do not meet the standards in 1.3 through 1.5 must be prepared as parcels and must be charged the applicable parcel rates.

* * * * *

2.4 Media Mail

2.4.1 General Standards

[Delete item c. Renumber items a and b as new items b and c. Revise the introductory text and insert new item a as follows:]

These additional standards apply to Media Mail:

a. Flat-size pieces that do not meet the standards in 1.3 through 1.5 must be prepared as parcels.

* * * * *

2.5 Library Mail

2.5.1 General Standards

These additional standards apply to Library Mail:

[Delete item c. Renumber items a and b as new items b and c. Revise the introductory text and insert new item a as follows:]

a. Flat-size pieces that do not meet the standards in 1.3 through 1.5 must be prepared as parcels.

* * * * *

3.0 Physical Standards for Automation Flats

3.1 Basic Standards for Automation Flats

[Revise 3.1 as follows:]

Flat-size pieces claimed at automation rates must meet the standards in 3.0, or 707.25.3 for Periodicals mail, and the eligibility standards for the class of mail and rate claimed. Pieces prepared with polywrap film must meet the standards in 3.3.

[Delete 3.2 and renumber 3.3 through 3.9 as new 3.2 through 3.8. Revise heading of renumbered 3.2 as follows:]

3.2 Additional Criteria for Automation Flats

[Revise the heading and text of renumbered 3.2.1 as follows:]

3.2.1 Address Placement on Folded Pieces

Mailers must design folded pieces so that the address is in view when the final folded edge is at the bottom of the piece and any intermediate bound or folded edge is to the right.

3.2.2 Shape and Size

[Revise 3.2.2 to specify the minimum and maximum dimensions as follows:]

Each flat-size piece must be rectangular. The following minimum and maximum dimensions apply to First-Class Mail, Standard Mail, Periodicals (except under 707.25.3), and Bound Printed Matter pieces:

a. Minimum height is 5 inches. Maximum height is 12 inches.

b. Minimum length is 6 inches. Maximum length is 15 inches.

c. For bound or folded pieces, the edge perpendicular to the bound or folded edge may not exceed 12 inches.

d. Minimum thickness is 0.009 inch. Maximum thickness is 0.75 inch.

* * * * *

[Revise heading and text of renumbered 3.2.4, and delete renumbered Exhibit 3.2.4a, to add new standards for deflection as follows:]

3.2.4 Maximum Deflection for Automation Flat-Size Pieces

An automation flat-size mailpiece must be flexible (see 1.4) and must meet maximum deflection standards. Test deflection as follows:

a. For pieces 10 inches or longer:

1. Place the piece with the length perpendicular to the edge of a flat surface and extend the piece 5 inches off the surface. Turn the piece around and repeat the process.

2. The piece is automation-compatible if it does not droop more than 4 inches vertically.

b. For pieces less than 10 inches long:

1. Place the piece with the length perpendicular to the edge of a flat surface and extend the piece one-half of its length off the surface. Turn the piece around and repeat the process.

2. The piece is automation-compatible if it does not droop more than 1 inch less than the extended length. For example, a piece 8 inches long would extend 4 inches off a flat surface. It must not droop more than 3 inches vertically.

c. For pieces with bound or folded edges, perform the test in 3.2.4a or 3.2.4b above by placing the bound or final folded edge perpendicular to the edge of the flat surface.

* * * * *

[Delete renumbered 3.3, Criteria for UFSM 1000 Flats, to remove the standards for UFSM 1000 flats. Further renumber 3.4 through 3.8 as new 3.3 through 3.7.]

3.3 Polywrap Coverings

[Revise heading and text of renumbered 3.3.1 as follows:]

3.3.1 Polywrap Films and Similar Coverings

When mailers use polywrap film or similar material to enclose flat-size mailpieces claimed at automation rates, the material must meet the standards in 3.3. Film approved for use under 3.3.5 must meet the specifications in Exhibit 3.3.1 as follows:

a. Films or similar coverings must meet all six properties in Exhibit 3.3.1.

b. If the address label is affixed to the outside of the polywrap, the haze property (property 2) does not apply.

* * * * *

3.3.2 Wrap Direction and Seam Placement

Wrap direction, seam direction, and seam placement must follow these standards:

[Revise item a and the first sentence in item b as follows:]

a. The wrap direction must be around the longer axis of the mailpiece, with the seam parallel to that axis. The longer axis is always parallel to the length of the mailpiece.

b. The preferred seam placement is on the nonaddressed side of the mailpiece. If the seam is placed on the addressed side, the seam must not cover any part of the delivery address and barcode, postage area, or any required markings or endorsements. Regardless of seam placement, the polywrap over the address area must be a smooth surface to avoid interference with address and barcode readability.

3.3.3 Overhang

[Revise renumbered 3.3.3 to delete item b and restructure the text as follows:]

For purposes of the polywrap standards for overhang (selvage) only, the top edge of the mailpiece is one of the two physically longer edges of the piece, regardless of address orientation and whether bound or unbound. Any polywrap overhang (selvage) around the four edges of the mailpiece (top, bottom, and left and right sides) must meet these standards:

a. When the mailpiece contents are totally positioned at the bottom of the polywrap, the overhang must not be more than 0.5 inch at the top of the mailpiece.

b. When the mailpiece contents are totally positioned to the left or to the right side of the polywrap, the overhang must not be more than 1.5 inches on the opposite side.

c. The polywrap covering must not be so tight that it bends the mailpiece.

* * * * *

3.6 Uniformity and Exterior Format

3.6.1 General

[Revise renumbered 3.6.1 to add a reference to 1.5 in the first sentence as follows:]

A flat-size mailpiece prepared and claimed at automation rates must be uniformly thick (see 1.5). Each flat-size mailpiece must have a smooth and regular shape and be free of creases, folds, tears, or other irregularities not compatible with automation equipment. The exterior surface must not have protuberances caused by prohibited closures; attachments (except as provided below); irregularly shaped or distributed contents; or untrimmed excess material from the envelope, wrapper, or sleeve.

* * * * *

[Delete renumbered 3.6.3 (this information was relocated to 1.5). Renumber 3.6.4 as new 3.6.3.]

302 Elements on the Face of a Mailpiece

* * * * *

2.0 Placement and Content of Mail Markings

2.1 First-Class Mail and Standard Mail Markings

2.1.1 Placement

Mailpieces must be marked under the corresponding standards to show the class of service and/or rate paid:

* * * * *

[Revise items b and b3 as follows:]

b. Other Markings. Mailers may place rate-specific markings as follows:

* * * * *

3. If preceded by two asterisks (**), the “AUTO,” “PRESORTED” (or “PRSRT”), “CUSTOMIZED MARKETMAIL” (or “CUST MKTMAIL” or “CMM”), or “Single-Piece” (or “SNGLP”) markings also may be placed on the line directly above or two lines above the address in a mailer keyline or a manifest keyline, or it may be placed above the address and below the postage in an MLOCR ink-jet printed date correction/meter drop shipment line.

* * * * *

2.1.2 Exceptions to Markings

Exceptions are as follows:

* * * * *

[Delete “AUTOCR” in item b as follows:]

b. Manifest Mailings. The basic marking must appear in the postage area on each piece. The two-letter rate category code required in the keyline on manifest mailing pieces prepared under 705.2.0 meets the requirement for other rate markings.

* * * * *

4.0 Barcode Placement

* * * * *

4.2 Applying One Barcode

[Revise 4.2 to delete the second sentence, about UFSM 1000 mailpieces, as follows:]

On any flat-size mailpiece claimed at an automation rate, the barcode may be anywhere on the address side as long as it is at least 1/8 inch from any edge of the piece. The portion of the surface of the piece on which the barcode is printed must meet the barcode dimensions and spacing requirements in 708.4.2.5, and the reflectance standards in 708.4.4. Address block barcodes are subject to the standards in 4.6a. through 4.6e.

* * * * *

330 Discount Flats: First-Class Mail

333 Rates and Eligibility

1.0 Rates and Fees for First-Class Mail

1.1 Rate Application

[Revise 1.1 as follows:]

Postage is based on the flat-size rate that applies to the weight of each addressed piece.

* * * * *

[Delete 1.9, Nonmachinable Surcharge, and renumber 1.10 through 1.12 as new 1.9 through 1.11.]

* * * * *

4.0 Additional Eligibility Standards for Nonautomation First-Class Mail Flats

* * * * *

[Revise the heading and text of 4.3 as follows:]

4.3 Nonmachinable Flat-Size Pieces

Flat-size pieces that do not meet the standards in 301.1.3 through 301.1.5 must be prepared as flats under 335.5.0 and must be charged the applicable parcel-size rates.

5.0 Additional Eligibility Standards for Automation Rate First-Class Mail Flats

* * * * *

[Delete 5.2 and renumber 5.3 through 5.6 as new 5.2 through 5.5.]

* * * * *

334 Postage Payment and Documentation

* * * * *

2.0 Postage Payment for Presorted Flats

* * * * *

2.2 Affixed Postage for Presorted First-Class Mail

Unless permitted by other standards or by Business Mailer Support, USPS Headquarters, when precanceled postage or meter stamps are used as the postage payment method, only one payment method may be used in a mailing and each piece must bear postage under one of these conditions:

* * * * *

[Revise item b to remove “nonmachinable surcharge” as follows:]

b. A precanceled stamp or the full postage at the lowest First-Class Mail 1-ounce rate applicable to the mailing job, and full postage on metered pieces for additional ounce(s) or extra services.

* * * * *

340 Discount Flats: Standard Mail

343 Rates and Eligibility

* * * * *

3.0 Basic Standards for Standard Mail Flats

* * * * *

3.2 Defining Characteristics

[Revise heading and text of 3.2.1 as follows:]

3.2.1 Weight, Shape, Flexibility, and Uniform Thickness

All Standard Mail pieces must weigh less than 16 ounces. Flat-size pieces that do not meet the standards in 301.1.3 through 301.1.5 must be prepared as parcels or Not Flat-Machinable pieces and must be charged parcel or Not Flat-Machinable rates (see 401).

* * * * *

4.0 Rate Eligibility for Standard Mail

* * * * *

4.2 Minimum Per Piece Rates

The minimum per piece rates (the minimum postage that must be paid for each piece) apply as follows:

* * * * *

[Revise introductory text in item b and item b1 as follows:]

b. In applying the minimum per piece rates, a mailpiece is categorized as a letter based on whether the piece meets the letter-size standard in 201.1.0, without regard to placement of the address on the piece, except under these conditions:

1. If the piece meets both the definition of a letter in 201.1.1.1 and the definition of an automation flat in 301.3.0, the piece may be prepared and entered at an automation flat rate.

[Revise item b2 to change the rates for Customized MarketMail to the NFM rates as follows:]

2. Pieces mailed as Customized MarketMail under 705.1.0 must be charged Regular or Nonprofit Standard Mail 5-digit nonentry rates for Not Flat-Machinable pieces and must not exceed 3.3 ounces.

* * * * *

[Revise heading and text of 4.4 as follows:]

4.4 Shape, Flexibility, and Uniform Thickness

Flat-size pieces that do not meet the standards in 301.1.3 through 301.1.5 must be prepared as parcels or Not Flat-Machinable pieces and must be charged parcel or Not Flat-Machinable rates (see 401).

[Revise heading of 5.0 as follows:]

5.0 Additional Eligibility Standards for Nonautomation Standard Mail Flats

* * * * *

[Replace 5.3 and 5.4 with new 5.3 through 5.6 as follows:]

5.3 5-Digit Rates for Flats

The 5-digit rate applies to flat-size pieces:

a. In a 5-digit/scheme bundle of 10 or more pieces, or 15 or more pieces, as applicable; properly placed in a 5-digit/scheme sack containing at least 125 pieces or 15 pounds of pieces.

b. When palletized under 705.8.0 and 705.10.0 through 705.13.0, in a 5-digit/scheme bundle of 10 or more pieces, or 15 or more pieces, as applicable.

c. In a 5-digit bundle of 10 or more pieces, or 15 or more pieces, as applicable; properly placed in a merged 5-digit/scheme or 5-digit sack under 705.10.0.

5.4 3-Digit Rates for Flats

The 3-digit rate applies to flat-size pieces:

a. In a 5-digit/scheme bundle of 10 or more pieces, or 15 or more pieces, as applicable, or in a 3-digit/scheme bundle of 10 or more pieces; properly placed in a 3-digit sack of at least 125 pieces or 15 pounds of pieces.

b. When palletized under 705.8.0 and 705.10.0 through 705.13.0, in a 3-digit/scheme bundle of 10 or more pieces.

5.5 ADC Rates for Flats

ADC rates apply to flat-size pieces:

a. In a 5-digit/scheme, 3-digit/scheme, or ADC bundle of 10 or more pieces properly placed in an ADC sack of at least 125 pieces or 15 pounds of pieces.

b. In an optional 3-digit/scheme origin/entry sack.

c. When palletized under 705.8.0 and 705.10 through 705.13, in an ADC bundle of 10 or more pieces; properly placed on an ADC pallet.

5.6 Mixed ADC Rates for Flats

Mixed ADC rates apply to flat-size pieces in bundles that do not qualify for 5-digit, 3-digit, or ADC rates; placed in mixed ADC sacks or on ASF, BMC, or mixed BMC pallets under 705.8.0.

* * * * *

7.0 Additional Eligibility Standards for Automation Rate Standard Mail Flats

* * * * *

7.2 Rate Application

[Revise 7.2 as follows:]

Automation rates apply to each piece properly sorted into qualifying groups:

a. The 5-digit rate applies to flat-size pieces in a 5-digit/scheme bundle of 10 or more pieces, or 15 or more pieces, as applicable.

b. The 3-digit rate applies to flat-size pieces in a 3-digit/scheme bundle of 10 or more pieces.

c. The ADC rate applies to flat-size pieces in an ADC bundle of 10 or more pieces.

d. The mixed ADC rate applies to flat-size pieces in mixed ADC bundles (no minimum).

* * * * *

345 Mail Preparation

1.0 General Information for Mail Preparation

* * * * *

1.3 Terms for Presort Levels

Terms used for presort levels are defined as follows:

* * * * *

[Revise items c and k as follows:]

c. 5-digit scheme (bundles and sacks) for flats meeting the automation-compatibility standards in 301.3.0: the ZIP Code in the delivery address on all pieces is one of the 5-digit ZIP Code areas processed by the USPS as a single scheme, as shown in L007.

* * * * *

k. 3-digit scheme bundles for flats meeting the automation-compatibility standards in 301.3.0: the ZIP Code in the delivery address begins with one of the 3-digit prefixes processed by the USPS as a single scheme, as shown in L008.

* * * * *

1.4 Preparation Definitions and Instructions

For purposes of preparing mail:

* * * * *

[Revise item f as follows:]

f. A 5-digit scheme sort for flats meeting the automation-compatibility standards in 301.3.0 yields 5-digit scheme bundles for those 5-digit ZIP Codes identified in L007 and 5-digit bundles for other ZIP Codes. When standards require 5-digit/scheme sort, mailers must prepare all possible 5-digit scheme bundles and sacks of flats, then prepare all possible 5-digit bundles and sacks. The 5-digit ZIP Codes in each scheme are treated as a single presort destination subject to a single minimum volume, with no further separation required. Bundles prepared for a 5-digit scheme destination that contain pieces for only one of the schemed 5-digit ZIP Codes are still considered 5-digit scheme sorted and are labeled accordingly. Label mailpieces using an optional endorsement line (OEL) under 708.7.0. Place bundles in appropriate containers using the OEL “label to” 5-digit ZIP Code.

* * * * *

[Revise item h by replacing “Presorted” with “nonautomation” in the first sentence.]

* * * * *

[Revise item n as follows:]

n. A 3-digit scheme sort for flats meeting the automation-compatibility standards in 301.3.0 yields 3-digit scheme bundles for those 3-digit ZIP Codes identified in L008. When standards require 3-digit/scheme sort, mailers must prepare all possible 3-digit scheme bundles of flats, then prepare all possible 3-digit bundles. The 3-digit ZIP Codes in each scheme are treated as a single presort destination subject to a single minimum volume, with no further separation by 3-digit ZIP Code required. Bundles prepared for a 3-digit scheme destination that contain pieces for only one of the schemed 3-digit ZIP Codes are still considered 3-digit scheme sorted and are labeled accordingly. Label mailpieces using an OEL under 708.7.0. Place 3-digit scheme bundles in 3-digit through mixed ADC containers, as applicable, using the OEL “label to” 3-digit ZIP Code.

* * * * *

[Revise 5.0 to change “presorted” flats to “nonautomation” flats throughout.]

5.0 Preparing Nonautomation Flats

5.1 Basic Standards

All mailings and all pieces in each mailing at Regular Standard Mail and Nonprofit Standard Mail nonautomation rates are subject to specific preparation standards in 5.2 through 5.9 and to these general standards (automation rate mailings must be prepared under 7.0):

[Revise item a as follows:]

a. All pieces must be in the flat-size processing category.

[Revise item b to delete “AUTOCR.”]

* * * * *

5.3 Bundling and Labeling

[Add a new first sentence to 5.3 and revise items a and b as follows:]

Mailings consisting entirely of pieces meeting the automation-compatibility criteria in 301.3.0 must be prepared in 5-digit scheme bundles for those 5-digit ZIP Codes identified in L007 and in 3-digit scheme bundles for those 3-digit ZIP Codes identified in L008. Preparation sequence, bundle size, and labeling:

a. 5-digit/scheme (required), see definition in 1.4f:

1. For mailings containing only pieces weighing 5 ounces (0.3125 pound) or less: 15-piece minimum; red Label 5 or OEL.

2. For mailings containing any pieces weighing more than 5 ounces (0.3125 pound): 10-piece minimum; red Label 5 or OEL.

b. 3-digit/scheme (required), see definition in 1.4n; 10-piece minimum; green Label 3 or OEL.

* * * * *

5.7 Sacking and Labeling

Preparation sequence, sack size, and labeling:

[Revise item a as follows:]

a. 5-digit/scheme (required); scheme sort required, only for pieces meeting the automation-compatibility criteria in 301.3.0, see definition in 1.4f; 125-piece or 15-pound minimum; labeling:

1. Line 1: For 5-digit scheme sacks use L007, Column B. For 5-digit sacks, use city, state, and 5-digit ZIP Code destination on pieces. (See 4.2 for overseas military mail).

2. Line 2: For 5-digit scheme sacks, “STD FLT 5D SCH NON BC.” For 5-digit sacks, “STD FLTS 5D NON BC.”

* * * * *

[Revise item c as follows:]

c. Origin/entry 3-digits(s) (optional); one-bundle minimum; labeling:

1. Line 1: L002, Column A.

2. Line 2: “STD FLTS 3D NON BC.”

* * * * *

7.0 Preparing Automation Rate Flats

* * * * *

[Delete 7.4. Renumber 7.5 through 7.9 as new 7.4 through 7.8.]

7.4 Standard Mail Bundle Preparation

7.4.1 Bundling and Labeling

Preparation sequence, bundle size, and labeling:

[Revise item a to require 5-digit/scheme preparation as follows:]

a. 5-digit/scheme (required); see definition in 1.4f:

1. For mailings containing only pieces weighing 5 ounces (0.3125 pound) or less: 15-piece minimum; OEL required.

2. For mailings containing any pieces weighing more than 5 ounces (0.3125 pound): 10-piece minimum; OEL required.

[Delete item b. Renumber item c as new item b and revise to require 3-digit/scheme preparation as follows:]

b. 3-digit/scheme (required); see definition in 1.4n; 10-piece minimum; OEL required.

[Delete item d. Renumber items e and f as new items c and d.]

* * * * *

[Delete renumbered 7.4.2. Renumber 7.4.3 and 7.4.4 as new 7.4.2 and 7.4.3.]

7.4.3 Sacking and Labeling

Preparation sequence, sack size, and labeling:

[Revise item a as follows:]

a. 5-digit/scheme (required); see definition in 1.4f; 125-piece or 15-pound minimum, labeling:

1. Line 1: For 5-digit scheme sacks use L007, Column B. For 5-digit sacks use city, state, and 5-digit ZIP Code on mail (see 4.2 for overseas military mail).

2. Line 2: For 5-digit scheme sacks, “STD FLTS 5D SCH BC.” For 5-digit sacks, “STD FLTS 5D BC.”

[Delete item b. Renumber items c though f as new items b through e.]

* * * * *

[Delete 7.6. Renumber 7.7 through 7.9 as new 7.6 through 7.8. Revise renumbered 7.6 through 7.8 by replacing “presorted” with “nonautomation” throughout.]

* * * * *

7.7 Exception “ Automation and Nonautomation Pieces on Pallets

[Replace “nonletter” with “flat-size” throughout renumbered 7.7.]

* * * * *

360 Discount Flats: Bound Printed Matter

[Incorporate the standards for Bound Printed Matter in 160 into 360. Make revisions throughout to change single-piece Bound Printed Matter to “nonpresorted” Bound Printed Matter and make the following additional changes:]

363 Rates and Eligibility

1.0 Rates and Fees for Bound Printed Matter

* * * * *

[Renumber 1.3 through 1.5 as new 1.4 through 1.6. Insert new 1.3 as follows:]

1.3 Nonpresorted Bound Printed Matter Rates

Flat-size pieces that do not meet the standards in 301.1.3 through 301.1.5 must be charged the applicable parcel rate based on weight and zone.

[Revise the heading of renumbered 1.4 as follows:]

1.4 Discount Bound Printed Matter Rates

* * * * *

[Insert new 1.4.3 as follows:]

1.4.3 Shape, Flexibility, and Thickness

Flat-size pieces that do not meet the standards in 301.1.3 through 301.1.5 must be prepared as parcels and must be charged the applicable parcel rate based on weight and zone.

* * * * *

365 Mail Preparation

1.0 General Information for Mail Preparation

* * * * *

1.3 Terms for Presort Levels

Terms used for presort levels are defined as follows:

* * * * *

[Revise items c and h as follows:]

c. 5-digit scheme (bundles and sacks) for flats meeting the automation-compatibility standards in 301.3.0: the ZIP Code in the delivery address on all pieces is one of the 5-digit ZIP Code areas processed by the USPS as a single scheme, as shown in L007.

* * * * *

h. 3-digit scheme bundles for flats meeting the automation-compatibility standards in 301.3.0: the ZIP Code in the delivery address begins with one of the 3-digit prefixes processed by the USPS as a single scheme, as shown in L008.

* * * * *

1.4 Preparation Definitions and Instructions

For purposes of preparing mail:

* * * * *

[Revise item c for 5-digit scheme sort as follows:]

c. A 5-digit scheme sort for flats meeting the automation-compatibility standards in 301.3.0 yields 5-digit scheme bundles for those 5-digit ZIP Codes identified in L007 and 5-digit bundles for other ZIP Codes. When standards require 5-digit/scheme sort, mailers must prepare all possible 5-digit scheme bundles and sacks of flats before preparing 5-digit bundles and sacks. The 5-digit ZIP Codes in each scheme are treated as a single presort destination subject to a single minimum volume, with no further separation required. Bundles prepared for a 5-digit scheme destination that contain pieces for only one of the schemed 5-digit ZIP Codes are still considered 5-digit scheme sorted and are labeled accordingly. Label mailpieces using an OEL under 708.7.0. Place bundles in appropriate containers using the OEL “label to” 5-digit ZIP Code.

* * * * *

[Revise item g for 3-digit scheme sort as follows:]

g. A 3-digit scheme sort for flats meeting the automation-compatibility standards in 301.3.0 yields 3-digit scheme bundles for those 3-digit ZIP Codes identified in L008. When standards require 3-digit/scheme sort, mailers must prepare all possible 3-digit scheme bundles of flats before preparing 3-digit bundles. The 3-digit ZIP Codes in each scheme are treated as a single presort destination subject to a single minimum volume, with no further separation by 3-digit ZIP Code required. Bundles prepared for a 3-digit scheme destination that contain pieces for only one of the schemed 3-digit ZIP Codes are still considered 3-digit scheme sorted and are labeled accordingly. Mailpieces must be labeled using an OEL under 708.7.0. Three-digit scheme bundles are placed in 3-digit through mixed ADC containers, as applicable, using the OEL “label to” 3-digit ZIP Code.

* * * * *

5.0 Preparing Presorted Flats

* * * * *

5.2 Bundling

* * * * *

5.2.2 Bundling and Labeling

[Add a new first sentence to 5.2.2 as follows:]

For mailings consisting entirely of pieces meeting the automation-compatibility criteria in 301.3.0, pieces must be prepared in 5-digit scheme bundles for those 5-digit ZIP Codes identified in L007 and in 3-digit scheme bundles for those 3-digit ZIP Codes identified in L008. Preparation sequence and labeling:

[Revise item a to require 5-digit schemes as follows:]

a. 5-digit/scheme (required); red Label 5 or OEL. See definition in 1.4e.

[Revise item b to require 3-digit schemes as follows:]

b. 3-digit/scheme (required); green Label 3 or OEL. See definition in 1.4g.

5.3 Sacking

* * * * *

5.3.5 Sacking and Labeling

Preparation sequence and labeling:

[Revise item a as follows:]

a. 5-digit/scheme (required); see 1.4e; scheme sort required, only for pieces meeting the automation-compatibility criteria in 301.3.0; minimum 20 addressed pieces; labeling:

1. Line 1: For 5-digit scheme sacks, use L007, Column B. For 5-digit sacks, use city, state, and 5-digit ZIP Code on mail (see 4.5 for overseas military mail).

2. Line 2: For 5-digit scheme sacks, “PSVC FLT 5D SCH NBC.” For 5-digit sacks, “PSVC FLTS 5D NON BC.”

* * * * *

7.0 Preparing Barcoded Flats

* * * * *

7.3 Bundling

* * * * *

7.3.2 Bundle Preparation

Bundles must be prepared and labeled in the following sequence:

[Delete items b and d. Renumber item c as item b and items e and f as items c and d. Revise item a and new item b to make 5-digit and 3-digit schemes required as follows:]

a. 5-digit/scheme: (required); see definition in 1.4e; minimum 10 pieces or 10 pounds, maximum weight 20 pounds; OEL required.

b. 3-digit/scheme (required); see definition in 1.4g; minimum 10 pieces or 10 pounds, maximum weight 20 pounds; OEL required.

* * * * *

7.3.3 Scheme Bundle Preparation

[Revise 7.3.3 as follows:]

See 1.4c and 1.4g for additional standards for pieces prepared in scheme bundles.

7.4 Sacking

7.4.1 Sack Preparation and Labeling

Preparation sequence, sack size, and labeling:

[Revise item a as follows:]

a. 5-digit/scheme (see 1.4e) (required), minimum 20 addressed pieces; labeling:

1. Line 1: For 5-digit scheme sacks, use L007, Column B. For 5-digit sacks, use city, state, and 5-digit ZIP Code on mail (see 4.2 for overseas military mail).

2. Line 2: For 5-digit scheme sacks, “PSVC FLTS 5D SCH BC.” For 5-digit sacks, “PSVC FLTS 5D BC.”

[Delete item b and renumber items c through f as new items b through e.]

* * * * *

366 Enter and Deposit

1.0 Presenting a Mailing

[Revise the heading of 1.1 as follows:]

1.1 Verification and Entry—Presorted, Carrier Route, Destination Entry, and Barcoded Mailings

* * * * *

[Renumber 1.2 through 1.5 as new 1.3 through 1.6. Insert new 1.2 as follows:]

1.2 Verification and Entry—Nonpresorted Mailings

Nonpresorted rate Bound Printed Matter is not offered at post offices, branches, or stations or through Postal Service carriers, except under 1.2c and 1.2d. Mailers must deposit Nonpresorted Bound Printed Matter as follows:

a. At the time and place specified by the postmaster at the office of mailing.

b. For metered mail, at other than the licensing post office only as permitted under 705.18.0, Metered Mail Drop Shipment.

c. For permit imprint mail, only at the post office where the permit is held (see 604.5.0).

d. At any post office, branch, or station or with a Postal Service carrier, if the correct postage is applied, including postage for any extra service elected.

* * * * *

370 Discount Flats: Media Mail

373 Rates and Eligibility

1.0 Rates and Fees for Media Mail

* * * * *

[Renumber 1.3 through 1.5 as new 1.4 through 1.6. Insert new 1.3 as follows:]

1.3 Shape, Flexibility, and Thickness

Flat-size pieces that do not meet the standards in 301.1.3 through 301.1.5 must be prepared as parcels.

* * * * *

375 Mail Preparation

1.0 General Information for Mail Preparation

* * * * *

1.3 Terms for Presort Levels

Terms used for presort levels are defined as follows:

* * * * *

[Renumber item b as new item c. Insert new item b for 5-digit scheme sort as follows:]

b. 5-digit scheme (bundles and sacks) for flats meeting the automation-compatibility standards in 301.3.0: The ZIP Code in the delivery address on all pieces begins with one of the 5-digit ZIP Code ranges processed by the USPS as a single scheme, as shown in L007.

* * * * *

[Renumber items d and f as new items e and g. Insert new item d for 3-digit scheme sort as follows:]

d. 3-digit scheme bundles for flats meeting the automation-compatibility standards in 301.3.0: The ZIP Code in the delivery address on all pieces begins with one of the 3-digit ZIP Code ranges processed by the USPS as a single scheme, as shown in L008.

* * * * *

1.4 Preparation Definitions and Instructions

For purposes of preparing mail:

* * * * *

[Renumber items c through f as new items e through h. Insert new items c and d for 5-digit and 3-digit scheme sorts as follows:]

c. A 5-digit scheme sort for flats weighing up to 20 ounces and meeting the automation-compatibility standards in 301.3.0 yields 5-digit scheme bundles for those 5-digit ZIP Codes identified in L007 and 5-digit bundles for other ZIP Codes. When standards require 5-digit/scheme sort, mailers must prepare all possible 5-digit scheme bundles and sacks of flats before preparing 5-digit bundles and sacks. The 5-digit ZIP Codes in each scheme are treated as a single presort destination subject to a single minimum volume, with no further separation required. Bundles prepared for a 5-digit scheme destination that contain pieces for only one of the schemed 5-digit ZIP Codes are still considered 5-digit scheme sorted and are labeled accordingly. Label mailpieces using an OEL under 708.7.0. Place bundles in appropriate containers using the OEL “label to” 5-digit ZIP Code.

d. A 3-digit scheme sort for flats weighing up to 20 ounces and meeting the automation-compatibility standards in 301.3.0 yields 3-digit scheme bundles for those 3-digit ZIP Codes identified in L008. When standards require 3-digit/scheme sort, mailers must prepare all possible 3-digit scheme bundles of flats before preparing 3-digit bundles. The 3-digit ZIP Codes in each scheme are treated as a single presort destination subject to a single minimum volume, with no further separation by 3-digit ZIP Code required. Bundles prepared for a 3-digit scheme destination that contain pieces for only one of the schemed 3-digit ZIP Codes are still considered 3-digit scheme sorted and are labeled accordingly. Mailpieces must be labeled using an OEL under 708.7.0. Place 3-digit scheme bundles in 3-digit through mixed ADC containers, as applicable, using the OEL “label to” 3-digit ZIP Code.

* * * * *

[Revise heading of 5.0 as follows:]

5.0 Preparing Presorted Flats

* * * * *

5.2 Bundling

* * * * *

5.2.2 Bundling and Labeling

[Add a new first sentence to 5.2.2 as follows:]

For mailings consisting entirely of pieces meeting the automation-compatibility criteria in 301.3.0, pieces must be prepared in 5-digit scheme bundles for those 5-digit ZIP Codes identified in L007 and in 3-digit scheme bundles for those 3-digit ZIP Codes identified in L008. Preparation sequence, bundle size, and labeling:

[Revise items a and b to make 5-digit and 3-digit schemes required as follows:]

a. 5-digit/scheme (optional, but required for 5-digit rate); red Label 5 or OEL. See definition in 1.4c.

b. 3-digit/scheme (required); green Label 3 or OEL. See definition in 1.4d.

* * * * *

5.3 Sacking

* * * * *

5.3.2 Sacking and Labeling

Preparation sequence, sack size, and labeling:

[Revise item a as follows:]

a. 5-digit/scheme (optional, but required for 5-digit rate); see 1.4c; scheme sort required, only for pieces meeting the automation-compatibility criteria in 301.3.0; minimum 10 addressed pieces; labeling:

1. Line 1: For 5-digit scheme sacks, use L007, Column B. For 5-digit sacks, use city, state, and 5-digit ZIP Code on mail (see 4.5 for overseas military mail).

2. Line 2: For 5-digit scheme sacks, “PSVC FLT 5D SCH NBC.” For 5-digit sacks, “PSVC FLT 5D NBC.”

* * * * *

380 Discount Flats: Library Mail

383 Rates and Eligibility

1.0 Rates and Fees for Library Mail

* * * * *

[Renumber 1.3 through 1.5 as new 1.4 through 1.6. Insert new 1.3 as follows:]

1.3 Shape, Flexibility, and Thickness

Flat-size pieces that do not meet the standards in 301.1.3 through 301.1.5 must be prepared as parcels.

* * * * *

385 Mail Preparation

1.0 General Information for Mail Preparation

* * * * *

1.3 Terms for Presort Levels

Terms used for presort levels are defined as follows:

* * * * *

[Renumber item b as new item c. Insert new item b for 5-digit scheme sort as follows:]

b. 5-digit scheme (bundles and sacks) for flats meeting the automation-compatibility standards in 301.3.0: the ZIP Code in the delivery address on all pieces begins with one of the 5-digit ZIP Code ranges processed by the USPS as a single scheme, as shown in L007.

* * * * *

[Renumber items d and f as new items e and g. Insert new item d for 3-digit scheme sort as follows:]

d. 3-digit scheme bundles for flats meeting the automation-compatibility standards in 301.3.0: the ZIP Code in the delivery address on all pieces begins with one of the 3-digit ZIP Code ranges processed by the USPS as a single scheme, as shown in L008.

* * * * *

1.4 Preparation Definitions and Instructions

For purposes of preparing mail:

* * * * *

[Renumber items c through f as new items e through h. Insert new items c and d for 5-digit and 3-digit scheme sorts as follows:]

c. A 5-digit scheme sort for flats weighing up to 20 ounces and meeting the automation-compatibility standards in 301.3.0 yields 5-digit scheme bundles for those 5-digit ZIP Codes identified in L007 and 5-digit bundles for other ZIP Codes. When standards require 5-digit/scheme sort, mailers must prepare all possible 5-digit scheme bundles and sacks of flats before preparing 5-digit bundles and sacks. The 5-digit ZIP Codes in each scheme are treated as a single presort destination subject to a single minimum volume, with no further separation required. Bundles prepared for a 5-digit scheme destination that contain pieces for only one of the schemed 5-digit ZIP Codes are still considered 5-digit scheme sorted and are labeled accordingly. Label mailpieces using an OEL under 708.7.0. Place bundles in appropriate containers using the OEL “label to” 5-digit ZIP Code.

d. A 3-digit scheme sort for flats weighing up to 20 ounces and meeting the automation-compatibility standards in 301.3.0 yields 3-digit scheme bundles for those 3-digit ZIP Codes identified in L008. When standards require 3-digit/scheme sort, mailers must prepare all possible 3-digit scheme bundles of flats before preparing 3-digit bundles. The 3-digit ZIP Codes in each scheme are treated as a single presort destination subject to a single minimum volume, with no further separation by 3-digit ZIP Code required. Bundles prepared for a 3-digit scheme destination that contain pieces for only one of the schemed 3-digit ZIP Codes are still considered 3-digit scheme sorted and are labeled accordingly. Mailpieces must be labeled using an OEL under 708.7.0. Place 3-digit scheme bundles in 3-digit through mixed ADC containers, as applicable, using the OEL “label to” 3-digit ZIP Code.

* * * * *

[Revise heading of 5.0 as follows:]

5.0 Preparing Presorted Flats

* * * * *

5.2 Bundling

* * * * *

5.2.2 Bundling and Labeling

[Add a new first sentence to 5.2.2 as follows:]

For mailings consisting entirely of pieces meeting the automation-compatibility criteria in 301.3.0, pieces must be prepared in 5-digit scheme bundles for those 5-digit ZIP Codes identified in L007 and in 3-digit scheme bundles for those 3-digit ZIP Codes identified in L008. Preparation sequence, bundle size, and labeling:

[Revise items a and b as follows to make 5-digit and 3-digit schemes required:]

a. 5-digit scheme (optional, but required for 5-digit rate); red Label 5 or OEL. See definition in 1.4c.

b. 3-digit scheme (required); green Label 3 or OEL. See definition in 1.4d.

5.3 Sacking

* * * * *

5.3.2 Sacking and Labeling

Preparation sequence, sack size, and labeling:

[Revise item a as follows:]

a. 5-digit/scheme (optional, but required for 5-digit rate); see 1.4c; scheme sort required, only for pieces meeting the automation-compatibility criteria in 301.3.0; minimum 10 addressed pieces; labeling:

1. Line 1: For 5-digit scheme sacks, use L007, Column B. For 5-digit sacks, use city, state, and 5-digit ZIP Code on mail (see 4.5 for overseas military mail).

2. Line 2: For 5-digit scheme sacks, “PSVC FLT 5D SCH NBC.” For 5-digit sacks, “PSVC FLT 5D NBC.”

* * * * *

400 Discount Mail: Parcels

401 Physical Standards

1.0 Physical Standards for Parcels

[Revise the heading of 1.1 as follows:]

1.1 Processing Categories

[Revise the first sentence of 1.1 as follows:]

USPS categorizes parcels into one of three mail processing categories: machinable, irregular, or outside parcel. These categories are based on the physical dimensions of the piece, regardless of the placement (orientation) of the delivery address on the piece.

* * * * *

1.5 Machinable Parcels

1.5.1 Criteria

A machinable parcel is any piece that is (see Exhibit 1.5.1, Machinable Parcel Dimensions):

[Revise item a as follows:]

a. Not less than 6 inches long, 3 inches high, ¼ inch thick, and 6 ounces in weight, except under 1.5.2. A mailpiece exactly ¼ inch thick is subject to the 3½-inch height minimum under 601.1.0.

* * * * *

[Renumber 1.5.2 through 1.5.4 as new 1.5.3 through 1.5.5. Insert new 1.5.2 to allow lower-weight machinable parcels as follows:]

1.5.2 Criteria for Lightweight Parcels

A machinable parcel may weigh less than 6 ounces (but not less than 3.5 ounces) if it meets all of the following conditions:

a. The mailpiece is rectangular and able to maintain its integrity during mail processing (see 601.3.0).

b. The mailpiece bears a parcel barcode, printed and placed according to 708.5.0.

c. Mailpieces weighing at least 3.5 ounces but less than 5 ounces must be a paperboard or fiberboard box within the following dimensions:

1. At least 1.5 inches thick and no more than 3 inches thick.

2. At least 6 inches long and no more than 7 inches long.

3. At least 3.5 inches high and no more than 5 inches high.

d. Mailpieces weighing at least 5 ounces but less than 6 ounces must be within the following dimensions:

1. More than ¾ inch thick and no more than 6 inches thick.

2. At least 6 inches long and no more than 12 inches long.

3. At least 3½ inches high and no more than 9 inches high.

* * * * *

[Delete renumbered 1.5.5, Exclusions.]

2.0 Additional Physical Standards by Class of Mail

2.1 First-Class Mail Parcels

* * * * *

[Delete 2.1.2 and replace with new 2.1.2 as follows:]

2.1.2 Surcharge

Unless prepared in 5-digit/scheme containers or paid for at a single-piece rate, presorted parcels are subject to a $0.05 surcharge if any of the following characteristics apply:

a. The parcels weigh less than 2 ounces.

b. The parcels do not bear a UCC/EAN Code 128 or POSTNET barcode.

c. The parcels are irregularly shaped, such as rolls, tubes, and triangles.

[Revise the heading of 2.2 as follows:]

2.2 Standard Mail Parcels and Not Flat-Machinable Pieces

[Revise heading and text of 2.2.1 as follows:]

2.2.1 Additional Physical Standards

Each piece must weigh less than 16 ounces.

[Revise heading and text of 2.2.2 as follows:]

2.2.2 Not Flat-Machinable Pieces

Categorize Standard Mail with the following characteristics as Not Flat-Machinable pieces (unless mailed as parcels):

a. Not Flat-Machinable pieces are rigid, with the following dimensions:

1. At least 4 inches high, but not more than 12 inches high.

2. At least 4 inches long, but not more than 15¾ inches long.

3. At least 0.009 thick, but not more than 1¼ inches thick. (Pieces less than 5 inches long must be over ¼ inch thick.)

b. Flexible pieces that are at least 4 inches high, but not more than 12 inches high, with either of the following dimensions:

1. Over 15 inches long, but not more than 15¾ inches long.

2. Over ¾ inches thick, but not more than 1¼ inches thick.

[Delete 2.2.3 and replace with new 2.2.3 as follows:]

2.2.3 Surcharge

Unless prepared in carrier route or 5-digit/scheme containers, Standard Mail parcels and Not Flat-Machinable pieces are subject to a $0.05 surcharge if:

a. The machinable parcels do not bear a UCC/EAN Code 128 barcode (see 708.5.0) or the irregular parcels do not bear a UCC/EAN Code 128 barcode (see 708.5.0) or POSTNET barcode (see 708.4.0).

b. The Not Flat-Machinable pieces weigh 6 ounces or more and do not bear a UCC/EAN Code 128 barcode (see 708.5.0).

c. The Not Flat-Machinable pieces weigh less than 6 ounces and do not bear a UCC/EAN Code 128 barcode (see 708.5.0) or POSTNET barcode (see 708.4.0).

2.3 Parcel Post

2.3.1 General Standards

These standards apply to Parcel Post:

* * * * *

[Revise item b as follows:]

b. An item weighing less than 20 pounds but measuring more than 84 inches (but not more than 108 inches) in combined length and girth is charged the rate for a 20-pound parcel for the zone to which it is addressed (balloon rate).

* * * * *

2.3.2 Nonmachinable Parcel Post

Mailpieces described in this section that are mailed at the Inter-BMC/ASF Parcel Post, Intra-BMC/ASF Parcel Post, DSCF Parcel Select, or DBMC Parcel Select rates are subject to the applicable nonmachinable surcharge in 453.1.0 unless the applicable special handling fee is paid. An oversized parcel as described in 2.3.1a is not subject to the nonmachinable surcharge. Mailpieces are nonmachinable if they meet any of the following criteria:

* * * * *

[Revise item c as follows:]

c. A parcel that weighs less than 6 ounces or more than 35 pounds, except under 1.5.2 for lightweight parcels.

* * * * *

402 Elements on the Face of a Mailpiece

* * * * *

2.0 Placement and Content of Markings

2.1 First-Class Mail and Standard Mail Markings

2.1.1 Placement

Markings must be placed as follows:

* * * * *

[Renumber item c as new item d. Insert new item c as follows:]

c. Mark each Not Flat-Machinable piece “Not Flat-Machinable” or “NFM,” either by including the marking in the optional endorsement line or by placing the marking immediately to the left of or below the postage area.

* * * * *

4.0 General Barcode Placement

[Revise heading of 4.1 as follows:]

4.1 UCC/EAN Code 128 Barcode Location

* * * * *

[Revise heading of 4.2 as follows:]

4.2 Clear Zone for UCC/EAN Code 128 Barcode

* * * * *

[Add new 4.3 for POSTNET barcodes as follows:]

4.3 POSTNET Barcodes

First-Class Mail parcels, Standard Mail irregular parcels, and Not Flat-Machinable pieces less than 6 ounces may bear POSTNET barcodes instead of UCC/EAN Code 128 barcodes. Pieces bearing POSTNET barcodes are not eligible to be mailed using eVS. Place POSTNET barcodes on First-Class Mail parcels, Standard Mail irregular parcels, or Not Flat-Machinable pieces under 4.3.1 through 4.3.3.

4.3.1 General Placement of POSTNET Barcodes

On any First-Class Mail parcel, any Standard Mail irregular parcel, or Standard Mail Not Flat-Machinable piece under 6 ounces, the POSTNET barcode may be anywhere on the address side as long as it is at least ⅛ inch from any edge of the piece. POSTNET barcodes must be printed according to 708.4.0. Address block barcodes are subject to the standards in 4.3.2.

4.3.2 POSTNET Barcode in Address Block

When the POSTNET barcode is included as part of the address block:

a. Place the barcode in one of these positions:

1. Above the address line containing the recipient's name.

2. Below the city, state, and ZIP Code line.

3. Above or below the keyline information.

4. Above or below the optional endorsement line.

b. Do not print the barcode anywhere between the address line containing the recipient's name and the city, state, and ZIP Code line.

c. Allow at least 1/25 inch clearance between the barcode and any information line above or below it. Do not separate the barcode more than ⅝ inch from the top or bottom line of the address block. Allow at least ⅛ inch clearance between the leftmost and rightmost bars and any adjacent printing.

d. If a window envelope is used, allow at least ⅛ inch clearance between the leftmost and rightmost bars and any printing or window edge, and at least 1/25 inch between the barcode and the top and bottom window edges. These clearances must be maintained during the insert's range of movement in the envelope. Covers for address block windows are subject to 4.3.3.

e. If an address label is used, allow a clear space of at least ⅛ inch between the barcode and the left and right edges of the address label, and at least 1/25 inch between the barcode and the top and bottom edges of the address label.

4.3.3 Window Cover

A window cover over the address block must be a nontinted clear or transparent material (e.g., cellophane or polystyrene) that permits the barcode and its background, as viewed through the window material, to meet the reflectance standards in 708.4.4. The edges of the window cover must be securely glued to the envelope.

430 Discount Parcels: First-Class Mail

433 Rates and Eligibility

1.0 Rates and Fees for First-Class Mail

* * * * *

[Revise 1.4 to change heading and text describing the surcharge as follows:]

1.4 Surcharge

Unless prepared in 5-digit/scheme sacks or paid for at the single-piece rates, presorted parcels are subject to a $0.05 surcharge if any of the following characteristics apply:

a. The parcels weigh less than 2 ounces.

b. The parcels do not bear a UCC/EAN Code 128 or POSTNET barcode, under 708.0, for the ZIP Code of the delivery address.

c. The parcels are irregularly shaped, such as rolls, tubes, and triangles.

* * * * *

[Delete 3.4, Nonmachinable Surcharge for Parcel-Size Pieces. Renumber 3.5 through 3.7 as new 3.4 through 3.6.]

* * * * *

[Insert new 4.0 to describe Presorted parcel rates as follows:]

4.0 Rate Eligibility for Presorted First-Class Mail Parcels

4.1 5-Digit Rate

The 5-digit rate applies to presorted parcels in a 5-digit/scheme sack containing at least 10 pounds of parcels.

4.2 3-Digit Rate

The 3-digit rate applies to presorted parcels in a 3-digit sack containing at least 10 pounds of parcels.

4.3 ADC Rate

The ADC rate applies to presorted parcels in a 3-digit origin sack (no minimum), and to parcels in an ADC sack containing at least 10 pounds of parcels.

4.4 Single-Piece Rate

The single-piece rate applies to presorted parcels in a mixed ADC sack, with no minimum volume requirement.

434 Postage Payment and Documentation

* * * * *

2.0 Postage Payment for Presorted Parcels

* * * * *

2.2 Affixed Postage for Presorted First-Class Mail

Unless permitted by other standards or by Business Mailer Support, USPS Headquarters, when precanceled postage or meter stamps are used as the postage payment method, only one payment method may be used in a mailing and each piece must bear postage under one of these conditions:

* * * * *

[Revise item b to remove “nonmachinable” as follows:]

b. A precanceled stamp or the full postage at the lowest First-Class Mail 1-ounce rate applicable to the mailing job, and full postage on metered pieces for additional ounce(s), surcharge, or extra services.

* * * * *

435 Mail Preparation

1.0 General Information for Mail Preparation

* * * * *

1.2 Definition of Mailings

[Delete item b. Combine item a and introductory text as follows:]

A “mailing” is defined as a group of pieces within the same class of mail and the same processing category that may be sorted together and/or presented under a single minimum volume mailing requirement under the applicable standards. Generally, types of mail that follow different flows through the postal processing system must be prepared as a separate mailing.

1.3 Terms for Presort Levels

Terms used for presort levels are defined as follows:

[Renumber items a through e as new items b through f. Insert new item a as follows:]

a. 5-digit scheme for First-Class Mail parcels: the ZIP Code in the delivery address on all pieces begins with one of the 5-digit ZIP Code ranges processed by the USPS as a single scheme, as shown in L606.

* * * * *

1.4 Preparation Definitions and Instructions

For purposes of preparing mail:

* * * * *

[Revise item d as follows:]

d. The required quantity (for example, “required at 10 pieces”) means that the unit must be prepared for the corresponding presort level whenever the specified quantity of mail is reached or exceeded. Smaller quantities may be prepared only if permitted by the standards for each rate.

* * * * *

[Delete item g. Renumber item h as new item g and revise as follows:]

g. A “logical” presort destination represents the total number of pieces in a mailing that are eligible for a specific presort level based on the required sortation, but which might not be contained in a single container (sack or pallet) due to applicable preparation requirements or the size of the individual pieces.

[Delete 2.0, Bundles, and renumber 3.0 through 5.0 as new 2.0 through 4.0.]

* * * * *

3.0 Sack Labels

* * * * *

3.4 Line 2 (Content Line)

Line 2 (content line) must meet these standards:

* * * * *

b. Codes: The codes shown below must be used as appropriate on Line 2 of sack labels.

[Revise the table in renumbered 3.4 to delete the entries for “General Delivery Unit,” “Highway Contract Route,” “Post Office Box Section,” and “Rural Route.”]

* * * * *

[Revise the heading of renumbered 4.0 as follows:]

4.0 Preparing Presorted Parcels

* * * * *

[Revise heading and text of 4.3 to remove bundling requirement as follows:]

4.3 Bundling

Bundling is not permitted.

4.4 Sacking and Labeling

Preparation sequence, sack size, and labeling:

[Revise item a as follows:]

a. 5-digit/scheme optional, but required for 5-digit rate (see definition in 1.3a); 10-pound minimum, labeling:

1. Line 1: For 5-digit scheme sacks use L606, Column B. For 5-digit sacks use city, state, and 5-digit ZIP Code on mail (see 4.3c for overseas military mail).

2. Line 2: For 5-digit scheme sacks, “FCM PARCELS 5D SCH.” For 5-digit sacks, “FCM PARCELS 5D.”

* * * * *

440 Discount Parcels: Standard Mail

443 Rates and Eligibility

* * * * *

4.0 Rate Eligibility for Standard Mail

4.1 General Information

[Revise 4.1 to delete reference to barcode discount and reorganize text as follows:]

All Standard Mail rates are discounted rates. These rates apply to mailings meeting the basic standards in 2.0 through 4.0 and the corresponding standards for presorted rates under 5.0 or Enhanced Carrier Route rates under 6.0. Destination entry discount rates are available under 446.2.0 through 446.5.0 in Enter and Deposit. Pieces are subject to either a single minimum per piece rate or a combined piece/pound rate, depending on the weight of the individual pieces in the mailing under 4.2 or 4.3. Only organizations authorized by the USPS under 703.1.0 may mail at Nonprofit rates.

4.2 Minimum Per Piece Rates

The minimum per piece rates (the minimum postage that must be paid for each piece) apply as follows:

* * * * *

[Revise item b to delete the text that does not apply to parcels as follows:]

b. In applying the minimum per piece rates, a mailpiece is categorized as a parcel based on the standards in 401, Physical Standards.

[Revise item c to delete the text that does not apply to parcels and to add 5-digit rate mail as eligible for DDU rates as follows:]

c. Individual Rates. There are separate minimum per piece rates for each subclass (Regular, Enhanced Carrier Route, Nonprofit, and Nonprofit Enhanced Carrier Route) and within each subclass for the level of presort within each mailing. Mailers may claim discounted rates for destination entry mailings under 446.2.0 through 446.5.0 in Enter and Deposit. DDU rates are available for parcels and Not Flat-Machinable pieces entered only at 5-digit, Enhanced Carrier Route, or Nonprofit Enhanced Carrier Route rates. See 1.0, Rates and Fees for Standard Mail, for individual per piece rates.

* * * * *

[Revise the heading and text of 4.4 as follows:]

4.4 Surcharge

Unless prepared in carrier route (irregular parcels only) or 5-digit/scheme containers, Standard Mail parcels and Not Flat-Machinable pieces are subject to a $0.05 surcharge if:

a. The pieces placed in containers other than 5-digit/scheme containers do not contain the appropriate barcodes in 4.4b through 4.4d.

b. The machinable parcels do not bear a UCC/EAN Code 128 barcode, under 708.5.0, for the ZIP Code of the delivery address.

c. The Not Flat-Machinable pieces weigh 6 ounces or more and do not bear a UCC/EAN Code 128 barcode, under 708.5.0, for the ZIP Code of the delivery address.

d. The irregular parcels weigh less than 16 ounces, or the Not Flat-Machinable pieces weigh less than 6 ounces, and those pieces do not bear a UCC/EAN Code 128 or POSTNET barcode, under 708.0, for the ZIP Code of the delivery address.

[Delete 4.5 and renumber 4.6 as new 4.5.]

4.5 Extra Services for Standard Mail

* * * * *

4.5.2 Eligible Matter

[Revise renumbered 4.5.2 as follows:]

Extra services may be used only with pieces mailed at machinable or irregular parcel rates.

4.5.3 Ineligible Matter

Extra services (other than certificate of mailing service) may not be used for any of the following types of Standard Mail:

[Revise item a as follows:]

a. Pieces entered as letters, flats, or NFMs.

* * * * *

[Revise the heading of 5.0 as follows:]

5.0 Additional Eligibility Standards for Presorted Standard Mail Pieces

* * * * *

5.2 Rate Application

[Revise 5.2 to add Not Flat-Machinable pieces and to note separate rates as follows:]

Rates for Regular and Nonprofit Standard Mail apply separately to machinable parcels, irregular parcels, and Not Flat-Machinable pieces that meet the eligibility standards in 2.0 through 4.0 and the preparation standards in 445.5.0 or 705.8.0, Preparing Pallets. When parcels and Not Flat-Machinable pieces are combined under 445.5.0, all pieces are eligible for the applicable rates when the combined total meets the eligibility standards. For example, when there are 10 pounds of combined machinable parcels, irregular parcels, and Not Flat-Machinable pieces in a 5-digit sack, all pieces are eligible for the 5-digit rates.

[Delete 5.3 through 5.5. Insert new 5.3 for machinable parcel rates as follows:]

5.3 Rates for Machinable Parcels

5.3.1 5-Digit Rate

The 5-digit rate applies to qualifying machinable parcels presented:

a. In a 5-digit/scheme (L606) sack containing at least 10 pounds of pieces.

b. On a 5-digit/scheme (L606) pallet, according to standards in 705.8.10.

c. As one or more parcels that mailers drop ship to a DDU under 446.5.2.

5.3.2 BMC Rate

The BMC rate applies to qualifying machinable parcels presented:

a. In an ASF or BMC sack containing at least 10 pounds of parcels.

b. On an ASF or BMC pallet, according to standards in 705.8.10.

5.3.3 Mixed BMC Rate

The mixed BMC rate applies to machinable parcels that are not eligible for 5-digit or BMC rates. Place machinable parcels at mixed BMC rates in mixed BMC sacks under 445.5.3.2 or on mixed BMC pallets under 705.8.10.

[Insert new 5.4 for irregular parcel rates as follows:]

5.4 Rates for Irregular Parcels

5.4.1 5-Digit Rate

The 5-digit rate applies to irregular parcels (see 401.1.6) presented:

a. In a 5-digit/scheme (L606) sack containing at least 10 pounds of pieces.

b. On a 5-digit/scheme (L606) pallet, according to 705.8.10.

c. As one or more parcels that mailers drop ship to a DDU under 446.5.2.

5.4.2 3-Digit Rate

The 3-digit rate applies to irregular parcels (see 401.1.6) presented:

a. In a 3-digit sack containing at least 10 pounds of parcels.

b. On a 3-digit pallet, according to 705.8.10.

5.4.3 ADC Rate

The ADC rate applies to irregular parcels (see 401.1.6) presented:

a. In an ADC sack containing at least 10 pounds of parcels, or in an optional 3-digit origin/entry sack.

b. On an ADC pallet, according to 705.8.10.4.

5.4.4 Mixed ADC Rate

The mixed ADC rate applies to irregular parcels (see 401.1.6) in mixed ADC containers.

[Insert new 5.5 for Not Flat-Machinable rates as follows:]

5.5 Rates for Not Flat-Machinable (NFM) Pieces

5.5.1 5-Digit Rate

The 5-digit rate applies to NFM pieces presented:

a. In a 5-digit/scheme sack containing at least 10 pounds of pieces.

b. In 5-digit bundles of five or more pieces on pallets or in pallet boxes under 705.8.0.

c. On a 5-digit/scheme pallet under 705.8.10.

d. As one or more pieces that mailers drop ship to a DDU under 446.5.0.

5.5.2 3-Digit Rates

The 3-digit rate applies to NFM pieces presented:

a. In a 3-digit sack containing at least 10 pounds of pieces.

b. On a 3-digit pallet under 705.8.10.

5.5.3 ADC Rate

The ADC rate applies to NFM pieces presented:

a. In an ADC or BMC/ASF sack containing at least 10 pounds of pieces or in an optional 3-digit origin/entry sack.

b. On an ADC or BMC/ASF pallet under 705.8.10.

5.5.4 Mixed ADC Rate

The mixed ADC rate applies to NFM pieces in mixed ADC or mixed BMC containers.

* * * * *

445 Mail Preparation

1.0 General Information for Mail Preparation

* * * * *

1.4 Preparation Definitions and Instructions

For purposes of preparing mail:

* * * * *

[Revise item c as follows:]

c. A 5-digit/scheme sort for Standard Mail parcels yields 5-digit scheme sacks or pallets for those 5-digit ZIP Codes listed in L606 and 5-digit sacks or pallets for other ZIP Codes. The 5-digit ZIP Codes in each scheme are treated as a single presort destination subject to a single minimum volume (if required), with no further separation by 5-digit ZIP Code required. Sacks or pallets prepared for a 5-digit scheme destination that contain pieces for only one of the schemed 5-digit ZIP Codes are still considered 5-digit scheme sorted and are labeled accordingly.

* * * * *

2.0 Bundles

2.1 Definition of a Bundle

[Revise 2.1 to restrict bundling as follows:]

Mailers assemble pieces available for different presort destinations into groups. A “bundle” is a group of addressed pieces secured together as a unit. The term “bundle” does not apply to unsecured groups of pieces. Bundling under 445 is allowed only for carrier route bundles of irregular parcels and 5-digit bundles of Not Flat-Machinable pieces placed on pallets or in pallet boxes (see 6.0).

* * * * *

5.0 Preparing Presorted Parcels

* * * * *

5.3 Preparing Machinable Parcels

5.3.1 5-Digit Sacks

[Revise 5.3.1 to change the preparation of 5-digit/scheme sacks containing both machinable and irregular parcels (or also containing Not Flat-Machinable pieces) to be that for machinable parcels, and to add 5-digit scheme sorting when claiming 5-digit rates, as follows:]

There is no minimum for parcels prepared in 5-digit/scheme sacks entered at a DDU. Mailers choosing to combine the preparation of either irregular parcels or Not Flat-Machinable pieces (see 401.2.2.3) weighing 6 ounces or more with machinable parcels placed in 5-digit/scheme sacks must prepare those sacks under 5.3.2. Mailers choosing to combine the preparation of Not Flat-Machinable pieces weighing 6 ounces or more with machinable parcels placed in ASF, BMC, or mixed BMC sacks must prepare the sacks under 5.3.2.

5.3.2 Sacking and Labeling

Preparation sequence, sack size, and labeling:

[Revise item a as follows:]

a. 5-digit/scheme (optional, but required for 5-digit rate), see definition in 1.4c; 10-pound minimum except under 5.3.1; labeling:

1. Line 1: For 5-digit scheme sacks, use L606, Column B. For 5-digit sacks, use city, state, and 5-digit ZIP Code destination on pieces (see 4.0 for overseas military mail).

2. Line 2: For 5-digit scheme sacks, “STD MACH 5D SCH.” For 5-digit sacks, “STD MACH 5D.”

[Delete item b. Renumber items c through e as new items b through d.]

* * * * *

5.4 Preparing Irregular Parcels

[Delete 5.4.1 and 5.4.2. Renumber 5.4.3 through 5.4.8 as new 5.4.1 through 5.4.6. Revise heading and text of renumbered 5.4.1 to restrict bundling of irregular parcels as follows:]

5.4.1 Bundling

Bundling is not permitted, except for bundles of carrier route irregular parcels under 6.0.

* * * * *

[Delete renumbered 5.4.2 through 5.4.5 and renumber 5.4.6 through 5.4.8 as new 5.4.2 through 5.4.4.]

5.4.2 Required Sacking

[Revise renumbered 5.4.2 to change the minimum quantity per sack from 15 pounds to 10 pounds and to add NFMs as follows:]

Mailers must prepare a sack when the quantity of mail for a required presort destination reaches 10 pounds of pieces. There is no minimum for parcels prepared in 5-digit/scheme sacks entered at a DDU. Mailers choosing to combine irregular parcels with machinable parcels and NFMs in 5-digit/scheme sacks must prepare those sacks under 5.3.2. Mailers may not prepare sacks containing irregular and machinable parcels to other presort levels. Mailers may combine irregular parcels with Not Flat-Machinable pieces weighing less than 6 ounces in sacks under 5.4.4.

* * * * *

5.4.4 Sacking and Labeling

[Revise renumbered 5.4.4 as follows:]

Preparation sequence, sack size, and labeling:

a. 5-digit/scheme (optional, but required for 5-digit rate), 10-pound minimum, except when entered at a DDU; labeling:

1. For 5-digit scheme sacks, use L606, Column B. For 5-digit sacks, use city, state, and 5-digit ZIP Code on mail (see 4.3 for overseas military mail).

2. Line 2: For 5-digit scheme sacks, “STD IRREG 5D SCH.” For 5-digit sacks, “STD IRREG 5D.”

b. 3-digit (required); 10-pound minimum; for irregular parcels only; labeling:

1. For Line 1, L002, Column A.

2. For Line 2, “STD IRREG 3D.”

c. Origin/entry 3-digit(s) (optional); no minimum; labeling:

1. Line 1: Use L002, Column A.

2. Line 2: “STD IRREG 3D.”

d. ADC (required); 10-pound minimum; labeling:

1. Line 1: L603, Column B. (Use L004 for parcels that weigh at least 2 ounces and are not rolls or tubes. Do not mix pieces labeled to L603 with pieces labeled to L004.)

2. Line 2: “STD IRREG ADC.”

e. Mixed ADC (required); no minimum; labeling:

1. Line 1: L604, Column B. (Use L009 for parcels that weigh at least 2 ounces and are not rolls or tubes. Do not mix pieces labeled to L604 with pieces labeled to L009.)

2. Line 2: “STD IRREG WKG.”

[Renumber 6.0 as new 7.0. Insert new 6.0 for preparation of NFM pieces as follows:]

6.0 Preparing Not Flat-Machinable Pieces

6.1 Basic Standards

All mailings at Regular Standard Mail and Nonprofit Standard Mail NFM rates are subject to the general preparation standards in 1.0 through 4.0. Prepare NFM pieces according to the standards in 6.0 unless commingled with parcels under 445.5.0. Mark NFM pieces according to the standards in 402.2.1.1.

6.2 Bundling

Mailers may make 5-digit bundles of at least five pieces when placed on pallets or in pallet boxes under 705.8.0. No other NFM bundling is permitted. The height of a 5-digit bundle must be at least 1 inch less than the longest dimension of the individual mailpiece. For example, a mailpiece measuring 7 inches long, 5 inches high, and ½ inch thick must be placed in a bundle no higher than 6 inches.

6.3 Sacking and Labeling

6.3.1 General

Mailers may combine NFM pieces with parcels in 5-digit/scheme sacks under 445.5.3. See 6.3.2 for NFM pieces that weigh less than 6 ounces; see 6.3.3 for NFM pieces that weigh 6 ounces or more.

6.3.2 NFM Pieces Weighing Less Than 6 Ounces

Preparation sequence, sack size, and labeling for sacks of NFM pieces that weigh less than 6 ounces:

a. 5-digit/scheme (optional, but required for 5-digit rate); see definition in 445.1.4c; 10-pound minimum, except when drop shipped to a DDU (no minimum); labeling:

1. Line 1: For 5-digit scheme sacks, use L606, Column B. For 5-digit sacks, use city, state, and 5-digit ZIP Code destination on pieces (see 4.0 for overseas military mail).

2. Line 2: For 5-digit scheme sacks, “STD NFM 5D SCH.” For 5-digit sacks, “STD NFM 5D.”

b. 3-digit (required); 10-pound minimum; labeling:

1. Line 1: Use L002, Column A.

2. Line 2: “STD NFM 3D.”

c. Origin/entry 3-digit(s) (optional); no minimum; labeling:

1. Line 1: Use L002, Column A.

2. Line 2: “STD NFM 3D.”

d. ADC (required); 10-pound minimum; labeling:

1. Line 1: Use L004, Column B.

2. Line 2: “STD NFM ADC.”

e. Mixed ADC (required); no minimum; labeling:

1. Line 1: Use L009, Column B.

2. Line 2: “STD NFM WKG.”

6.3.3 NFM Pieces Weighing 6 Ounces or More

Preparation sequence, sack size, and labeling for sacks of NFM pieces that weigh 6 ounces or more:

a. 5-digit/scheme (optional but required for 5-digit rate); see definition in 445.1.4c; 10-pound minimum, except when drop shipped to a DDU (no minimum); labeling:

1. Line 1: For 5-digit scheme sacks, use L606, Column B. For 5-digit sacks, use city, state, and 5-digit ZIP Code destination on pieces (see 4.0 for overseas military mail).

2. Line 2: For 5-digit scheme sacks, use “STD NFM MACH 5D SCH.” For 5-digit sacks, use “STD NFM MACH 5D.”

b. ASF (optional), permitted only for mail deposited at an ASF to claim DBMC rate; 10-pound minimum; labeling:

1. Line 1: L602, Column B. DBMC rate eligibility determined by Exhibit 446.3.1, BMC/ASF—DBMC Rate Eligibility.

2. Line 2: “STD NFM MACH ASF.”

c. BMC (required); 10-pound minimum; labeling:

1. Line 1: L601, Column B. DBMC rate eligibility determined by Exhibit 446.3.1, BMC/ASF—DBMC Rate Eligibility.

2. Line 2: “STD NFM MACH BMC.”

d. Mixed BMC (required); no minimum; labeling:

1. Line 1: “MXD” followed by L601, Column B information for BMC serving 3-digit ZIP Code prefix of entry post office.

2. Line 2: “STD NFM MACH WKG.”

* * * * *

446 Enter and Deposit

* * * * *

4.0 Destination Sectional Center Facility (DSCF) Entry

* * * * *

4.2 Eligibility

Pieces in a mailing that meets the standards in 2.0 and 4.0 are eligible for the DSCF rate, as follows:

* * * * *

[Insert new item c as follows:]

c. When prepared and deposited under 705.6.3.

* * * * *

5.0 Destination Delivery Unit (DDU) Entry

* * * * *

5.2 Eligibility

[Revise 5.2 to allow 5-digit sacks of parcels to be entered at DDUs and to add “Not Flat-Machinable” pieces as follows:]

Pieces in a mailing that meets the standards in 2.0 and 5.0 are eligible for the DDU rate when deposited at a DDU, addressed for delivery within that facility's service area, and prepared as follows:

a. Irregular parcels in carrier route bundles sorted to carrier route sacks, and otherwise eligible for and claimed at a carrier route rate.

b. One or more parcels or Not Flat-Machinable pieces in 5-digit containers.

450 Discount Parcels: Parcel Post

453 Rates and Eligibility

* * * * *

3.0 Rate Eligibility Standards for Parcel Post

3.1 Parcel Post and Parcel Select Rate Eligibility

There are five Parcel Post (including Parcel Select) rate categories: Intra-BMC, Inter-BMC, destination bulk mail center (DBMC), destination sectional center facility (DSCF), and destination delivery unit (DDU). Parcel Post mailed at any of the destination entry rates is called “Parcel Select” (see 456.2.0). Intra-BMC and Inter-BMC Parcel Post rates and DBMC Parcel Select rates are calculated based on the zone to which the parcel is addressed and the weight of the parcel. DSCF and DDU Parcel Select rates are calculated based on the weight of the parcel. Requirements for Parcel Post rates and discounts are as follows:

* * * * *

[Revise item f as follows:]

f. The barcode discount applies to Inter-BMC/ASF and Intra-BMC/ASF Parcel Post machinable parcels (401.1.5) that bear a barcode under 708.5.0 for the ZIP Code of the delivery address and are part of a mailing of 50 or more Parcel Post rate pieces.

* * * * *

[Revise item h as follows:]

h. An item weighing less than 20 pounds but measuring more than 84 inches (but not more than 108 inches) in combined length and girth is charged the rate for a 20-pound parcel for the zone to which it is addressed (balloon rate).

* * * * *

455 Mail Preparation

* * * * *

5.0 Standards for Barcode Discounts

5.1 Standards for Barcoded Mail

[Revise 5.1 as follows:]

The barcode discount applies to Inter-BMC/ASF and Intra-BMC/ASF Parcel Post machinable parcels (401.1.5) that bear a barcode under 708.5.0 for the ZIP Code of the delivery address and are part of a mailing of 50 or more Parcel Post rate pieces.

* * * * *

456 Enter and Deposit

* * * * *

2.0 Parcel Select

* * * * *

2.2 Rate Eligibility for Parcel Select Rates

* * * * *

2.2.2 DBMC Rates

For DBMC rates, pieces must meet the applicable standards in 2.1 through 2.6 and the following:

* * * * *

[Renumber items b and c as new items c and d. Insert new item b as follows:]

b. Machinable parcels must bear a barcode under 708.5.0 for the ZIP Code of the delivery address. Nonbarcoded machinable parcels are eligible only for the Intra-BMC/ASF rates.

* * * * *

2.6 Acceptance at Designated SCF

Mailers may deposit parcels otherwise eligible for the DBMC rates at an SCF designated by the USPS for destination ZIP Codes listed in labeling list L607. The following standards apply:

* * * * *

[Revise item b as follows:]

b. Bound Printed Matter machinable parcels under 466.3.3 and Standard Mail parcels and NFMs under 705.6.3 may be included.

* * * * *

460 Discount Parcels: Bound Printed Matter

[Incorporate the standards for Bound Printed Matter in 160 into 460. Make revisions throughout to change single-piece Bound Printed Matter to “nonpresorted” Bound Printed Matter and make the following additional changes:]

* * * * *

465 Mail Preparation

1.0 General Information for Mail Preparation

* * * * *

1.3 Terms for Presort Levels

Terms used for presort levels are defined as follows:

* * * * *

[Renumber items c through g as new items d through h. Insert new item c for 5-digit schemes as follows:]

c. 5-digit scheme (pallets and sacks) for Bound Printed Matter parcels: The ZIP Code in the delivery address on all pieces begins with one of the 5-digit ZIP Code ranges processed by the USPS as a single scheme, as shown in L606.

* * * * *

5.0 Preparing Presorted Parcels

* * * * *

5.2 Preparing Irregular Parcels Weighing Less Than 10 Pounds

* * * * *

5.2.3 Required Sacking

[Revise the third sentence in the introductory text as follows:]

A sack must be prepared when the quantity of mail for a required presort destination reaches either 10 addressed pieces or 20 pounds, whichever occurs first. Smaller volumes are not permitted (except mixed ADC sacks). Optional SCF sacks may be prepared only when there are at least 10 addressed pieces or 20 pounds, whichever occurs first. Sacking is not required for 5-digit bundles when prepared for and entered at DDU rates. Such bundles may be bedloaded and may weigh up to 40 pounds. Sacking also is subject to these conditions:

* * * * *

5.2.4 Sacking and Labeling

Preparation sequence and labeling:

[Replace items a and b with new item a as follows. Renumber items c through f as new items b through e.]

a. 5-digit/scheme (required); labeling:

1. Line 1: For 5-digit scheme sacks, use L606, Column B. For 5-digit sacks, use city, state, and 5-digit ZIP Code on mail (see 4.3 for overseas military mail).

2. Line 2: For 5-digit scheme sacks, “PSVC IRREG 5D SCH.” For 5-digit sacks, “PSVC IRREG 5D.”

* * * * *

5.3 Preparing Irregular Parcels Weighing 10 Pounds or More

* * * * *

5.3.3 Sacking and Labeling

Preparation sequence and labeling:

[Replace items a and b with new item a as follows. Renumber items c through f as new items b through e.]

a. 5-digit/scheme (required); labeling:

1. Line 1: For 5-digit scheme sacks, use L606, Column B. For 5-digit sacks, use city, state, and 5-digit ZIP Code on mail (see 4.3 for overseas military mail).

2. Line 2: For 5-digit scheme sacks, “PSVC IRREG 5D SCH.” For 5-digit sacks, “PSVC IRREG 5D.”

* * * * *

5.4 Preparing Machinable Parcels Not Claiming the DBMC Rates

* * * * *

5.4.2 Sacking and Labeling

Preparation sequence and labeling:

[Replace items a and b with new item a as follows. Renumber items c and d as new items b and c.]

a. 5-digit/scheme (required); labeling:

1. Line 1: For 5-digit scheme sacks, use L606, Column B. For 5-digit sacks, use city, state, and 5-digit ZIP Code on mail (see 4.3 for overseas military mail).

2. Line 2: For 5-digit scheme sacks, “PSVC MACH 5D SCH.” For 5-digit sacks, “PSVC MACH 5D.”

* * * * *

5.5 Preparing Machinable Parcels Claiming the DBMC Rates

* * * * *

5.5.2 Sacking and Labeling

Preparation sequence and labeling:

[Replace items a and b with new item a as follows. Renumber items c through e as new items b through d.]

a. 5-digit/scheme (required); labeling:

1. Line 1: For 5-digit scheme sacks, use L606, Column B. For 5-digit sacks, use city, state, and 5-digit ZIP Code on mail (see 4.3 for overseas military mail).

2. Line 2: “PSVC MACH 5D SCHEME” or “PSVC MACH 5D SCH.”

* * * * *

466 Enter and Deposit

1.0 Presenting a Mailing

[Revise the heading of 1.1 as follows:]

1.1 Verification and Entry—Presorted, Carrier Route, Destination Entry, And Barcoded Mailings

* * * * *

[Renumber 1.2 through 1.5 as new 1.3 through 1.6. Insert new 1.2 as follows:]

1.2 Verification and Entry—Nonpresorted Mailings

Nonpresorted rate Bound Printed Matter is not offered at post offices, branches, or stations or through Postal Service carriers, except under 1.2c and 1.2d. Mailers must deposit Nonpresorted Bound Printed Matter as follows:

a. At the time and place specified by the postmaster at the office of mailing.

b. For metered mail, at other than the licensing post office only as permitted under 705.18.0, Metered Mail Drop Shipment.

c. For permit imprint mail, only at the post office where the permit is held (see 604.5.0).

d. At any post office, branch, or station or with a Postal Service carrier, if the correct postage is applied, including postage for any extra service elected.

* * * * *

3.0 Destination Bulk Mail Center (DBMC) Entry

* * * * *

3.2 Acceptance at Designated SCF—Mailer Benefit

Mailers may deposit machinable parcels otherwise eligible for the DBMC rates at an SCF designated by the USPS for destination ZIP Codes listed in labeling list L607. The following standards apply:

* * * * *

[Revise item c as follows:]

c. Parcel Select machinable parcels under 456.2.6 and Standard Mail parcels and NFMs under 705.6.3 may be included.

* * * * *

470 Media Mail

* * * * *

475 Mail Preparation

* * * * *

5.0 Preparing Media Mail Parcels

* * * * *

5.2 Preparing Machinable Parcels

* * * * *

5.2.2 Sacking and Labeling

Preparation sequence and labeling:

[Replace items a and b with new item a as follows. Renumber items c and d as new items b and c.]

a. 5-digit/scheme (optional, but required for 5-digit rate); labeling:

1. Line 1: For 5-digit scheme sacks, use L606, Column B. For 5-digit sacks, use city, state, and 5-digit ZIP Code on mail (see 4.3 for overseas military mail).

2. Line 2: For 5-digit scheme sacks, “PSVC MACH 5D SCH.” For 5-digit sacks, “PSVC MACH 5D.”

* * * * *

[Revise heading of 5.3 as follows:]

5.3 Preparing Irregular Parcels

* * * * *

5.3.4 Sacking and Labeling

Preparation sequence and labeling:

[Replace items a and b with new item a as follows. Renumber items c through e as new items b through d.]

a. 5-digit/scheme (optional, but required for 5-digit rate); labeling:

1. Line 1: For 5-digit scheme sacks, use L606, Column B. For 5-digit sacks, use city, state, and 5-digit ZIP Code on mail (see 4.3 for overseas military mail).

2. Line 2: For 5-digit scheme sacks, “PSVC IRREG 5D SCH.” For 5-digit sacks, “PSVC IRREG 5D.”

* * * * *

480 Library Mail

* * * * *

485 Mail Preparation

* * * * *

5.0 Preparing Library Mail Parcels

* * * * *

5.2 Preparing Machinable Parcels

* * * * *

5.2.2 Sacking and Labeling

Preparation sequence and labeling:

[Replace items a and b with new item a as follows. Renumber items c and d as new items b and c.]

a. 5-digit/scheme (optional, but required for 5-digit rate); labeling:

1. Line 1: For 5-digit scheme sacks, use L606, Column B. For 5-digit sacks, use city, state, and 5-digit ZIP Code on mail (see 4.3 for overseas military mail).

2. Line 2: For 5-digit scheme sacks, “PSVC MACH 5D SCH.” For 5-digit sacks, “PSVC MACH 5D.”

* * * * *

[Revise heading of 5.3 as follows:]

5.3 Preparing Irregular Parcels

* * * * *

5.3.4 Sacking and Labeling

Preparation sequence and labeling:

[Replace items a and b with new item a as follows. Renumber items c through e as new items b through d.]

a. 5-digit/scheme (optional, but required for 5-digit rate); labeling:

1. Line 1: For 5-digit scheme sacks, use L606, Column B. For 5-digit sacks, use city, state, and 5-digit ZIP Code on mail (see 4.3 for overseas military mail).

2. Line 2: For 5-digit scheme sacks, “PSVC IRREG 5D SCH.” For 5-digit sacks, “PSVC IRREG 5D.”

* * * * *

500 Additional Services

503 Extra Services

* * * * *

4.0 Insured Mail

* * * * *

4.2 Basic Information

4.2.1 Description

Insured mail provides the following features:

* * * * *

[Revise item d as follows:]

d. Insured mail service provides the mailer with a mailing receipt. No record of insured mail is kept at the office of mailing. For mail insured for $200 or less, the USPS maintains delivery information (not including a signature) for a specified period of time. For mail insured for more than $200, the USPS maintains a delivery record (which includes the recipient's signature) for a specified period of time. Customers may obtain a delivery record by purchasing additional services; see 6.0 for details.

4.2.2 Eligible Matter

The following types of mail may be insured:

* * * * *

[Revise item b as follows:]

b. Standard Mail pieces prepared as machinable or irregular parcels (bulk insurance only).

* * * * *

4.2.4 Additional Services

[Revise the first sentence in 4.2.4 as follows:]

Insuring an item for more than $200 allows customers to purchase restricted delivery service or return receipt service. The following services may be purchased at a retail post office and combined with insurance if the applicable standards for the services are met and the additional service fees are paid:

* * * * *

[Revise item c as follows:]

c. Return receipt for merchandise (for items insured for $200 or less).

* * * * *

4.3 Mailing

* * * * *

4.3.3 Markings and Forms

The treatment of pieces is determined by the insurance amount:

[Revise items a and b as follows:]

a. Retail pieces insured for $200 or less: The mailer must affix a barcoded Form 3813 (see Exhibit 4.3.3) to each piece above the delivery address and to the right of the return address. No signature is obtained.

b. Retail pieces insured for more than $200: The mailer must affix a barcoded Form 3813-P (see Exhibit 4.3.3) to each piece above the delivery address and to the right of the return address.

* * * * *

4.3.5 Integrated Barcodes

The following options are available for mailers who print their own labels:

* * * * *

c. Mailers must use an integrated barcode (see Exhibit 4.3.5c) when insurance is purchased online for Priority Mail and for parcels mailed at First-Class Mail, Media Mail, or Parcel Post rates. This barcode combines insurance with electronic option Delivery Confirmation or Signature Confirmation into a single barcode on the shipping label. Additional information on the integrated barcode can be found in Publication 91, Confirmation Services Technical Guide.

[Revise items c1 and c2 as follows:]

1. Mailers may purchase insurance online for indemnity coverage of $200 or less with electronic option Delivery Confirmation service. The human-readable text above the integrated barcode must state, “e/USPS DELIVERY CONFIRMATION” or, for parcels prepared using eVS under 705.2.9, “USPS DELIVERY CONFIRMATION.”

2. Mailers may purchase insurance online for indemnity coverage of more than $200, up to $500, with electronic option Delivery Confirmation service. The human-readable text above the integrated barcode must state, “e/USPS INSURED” or, for parcels prepared using eVS under 705.2.9, “USPS INSURED.”

* * * * *

4.3.7 Receipt

Receipts are provided as follows:

a. For each retail insured mail article, the mailer receives a USPS sales receipt and the appropriate postmarked (round-dated) insured mail form as follows:

[Revise items a1 and a2 as follows:]

1. Form 3813 when the insurance coverage is $200 or less.

2. Form 3813-P when the insurance coverage is more than $200.

* * * * *

4.5 Delivery

[Revise 4.5 as follows:]

An item insured for $200 or less receives a delivery scan. An item insured for more than $200 receives a delivery scan and the recipient's signature. Delivery of insured mail is subject to 508.1.0, Recipient Options, and 508.2.0, Conditions of Delivery.

* * * * *

6.0 Return Receipt

* * * * *

6.2 Basic Information

* * * * *

6.2.2 Eligible Matter

Return receipt service is available for:

* * * * *

[Revise items b, c, and d to replace old value of $50 with new value of $200. Further revise item c to remove reference to residual shape surcharge and insert text about preparation as machinable or irregular parcels as follows:]

b. First-Class Mail (including Priority Mail) when purchased at the time of mailing with Certified Mail, COD, insured mail (for more than $200), or Registered Mail service.

c. Standard Mail prepared as parcels when bulk insurance (for more than $200) is purchased at the time of mailing.

d. Package Services when purchased at the time of mailing with COD or insured mail (for more than $200).

* * * * *

6.3 Obtaining Service

* * * * *

6.3.2 After Mailing

[Revise first sentence in the introductory text to replace old value of $50 with new value of $200 as follows:]

The mailer may request a delivery record after mailing for Express Mail, Certified Mail, Registered Mail, COD mail, and mail insured for more than $200. When a delivery record is available, the USPS provides the mailer information from that record, including to whom the mail was delivered and the date of delivery. The mailer requests a delivery record by completing Form 3811-A, paying the appropriate fee in 6.1.1, and submitting the request to the appropriate office as follows:

* * * * *

7.0 Restricted Delivery

* * * * *

7.2 Basic Information

* * * * *

7.2.2 Eligible Matter

Restricted Delivery service is available for:

[Revise items a, b, and c to replace old value of $50 with new value of $200. Further revise item b to remove reference to residual shape surcharge and insert text about preparation as machinable or irregular parcels as follows:]

a. First-Class Mail (including Priority Mail) when purchased at the time of mailing with Certified Mail, COD, insured mail (for more than $200), or Registered Mail service.

b. Standard Mail prepared as machinable or irregular parcels when bulk insurance (for more than $200) is purchased at the time of mailing.

c. Package Services when purchased at the time of mailing with COD or insured mail (for more than $200).

* * * * *

8.0 Return Receipt for Merchandise

* * * * *

8.2 Basic Information

* * * * *

8.2.2 Eligible Matter

[Revise 8.2.2 as follows:]

Return receipt for merchandise is available for merchandise sent as Priority Mail, Standard Mail machinable and irregular parcels, and Package Services.

* * * * *

8.2.4 Additional Services

The following services may be combined with return receipt for merchandise if the applicable standards for the services are met and the additional service fees are paid:

* * * * *

[Revise item b to replace old value of $50 with new value of $200 as follows:]

b. Insurance (for up to $200).

* * * * *

9.0 Delivery Confirmation

* * * * *

9.2 Basic Information

* * * * *

9.2.2 Eligible Matter

[Revise 9.2.2 to remove reference to Standard Mail residual shape surcharge and insert text about Standard Mail preparation as machinable or irregular parcels as follows:]

Delivery Confirmation is available for First-Class Mail parcels, for all Priority Mail pieces, for Standard Mail pieces prepared as machinable or irregular parcels (electronic option only), and for Package Services parcels under 401.1.0. For the purposes of using Delivery Confirmation with a Package Services parcel, the parcel must meet these additional requirements:

* * * * *

9.2.6 Additional Services

Delivery Confirmation may be combined with:

* * * * *

[Revise items d and e as follows:]

d. Restricted delivery, if purchased with insurance for more than $200, COD, or Registered Mail service.

e. Return receipt, if purchased with insurance for more than $200, COD, or Registered Mail service.

* * * * *

10.0 Signature Confirmation

* * * * *

10.2 Basic Information

* * * * *

10.2.2 Eligible Matter

[Revise the introductory text of 10.2.2 as follows:]

Signature Confirmation is available for First-Class Mail parcels, Package Services parcels defined in 401.1.0, and for all Priority Mail pieces. For the purposes of using Signature Confirmation with a Package Services parcel, the parcel must meet these additional requirements:

* * * * *

10.2.6 Additional Services

Signature Confirmation may be combined with:

* * * * *

[Revise item d as follows:]

d. Restricted delivery, if purchased with insurance for more than $200, COD, or Registered Mail service.

* * * * *

507 Mailer Services

[Revise 507 to change the term “accounting fee” to “account maintenance fee” throughout the chapter.]

1.0 Treatment of Mail

* * * * *

1.5 Treatment for Ancillary Services by Class of Mail

* * * * *

1.5.2 Periodicals

Undeliverable-as-addressed (UAA) Periodicals publications (including publications pending Periodicals authorization) are treated as described in Exhibit 1.5.2, with these additional conditions:

* * * * *

[Revise the second-to-last sentence in item f as follows:]

f. The publisher may request the return of copies of undelivered Periodicals by printing the endorsement “Address Service Requested” on the envelopes or wrappers, or on one of the outside covers of unwrapped copies, immediately preceded by the sender's name, address, and ZIP+4 or 5-digit ZIP Code. This endorsement obligates the publisher to pay return postage. Each returned piece is charged the single-piece First-Class Mail rate for the weight and shape of the piece, and the nonmachinable surcharge if applicable, or the Priority Mail rate for the weight and destination of the piece. When the address correction is provided incidental to the return of the piece, there is no charge for the correction.

* * * * *

1.5.3 Standard Mail

Undeliverable-as-addressed (UAA) Standard Mail is treated as described in Exhibit 1.5.3a and Exhibit 1.5.3k, with these additional conditions:

* * * * *

[Revise item j as follows:]

j. A returned piece endorsed “Return Service Requested” is charged the single-piece First-Class Mail rate for the weight and shape of the piece, and the nonmachinable surcharge if applicable, or the Priority Mail rate for the weight and destination of the piece. The appropriate First-Class Mail rate for a Not Flat-Machinable piece is the First-Class Mail parcel rate.

* * * * *

Exhibit 1.5.3a Treatment of Undeliverable Standard Mail

[Add a new entry for Standard Mail using Address Change Service with the electronic or the automated option as follows:]

Mailer endorsement | USPS treatment of UAA pieces
* * * * * * *
“Address Service Requested” ³ | If no change-of-address order on file: Piece returned with reason for nondelivery attached (First-Class Mail rate charged).
| If change-of-address order on file:
| • Months 1 through 12: Piece forwarded ($0.35 per letter or $1.05 per flat postage due charged to mailer); separate notice of new address provided (address correction fee charged).
| • Months 13 through 18: Piece returned with new address attached (First-Class Mail rate charged).
| • After month 18: Piece returned with reason for nondelivery attached (First-Class Mail rate charged).
* * * * * * *

[Renumber footnote 3 as footnote 4. Revise footnote 2 and insert new footnote 3 as follows:]

2. Valid for all pieces not using Address Change Service electronic and automated options under footnote 3.

3. Valid only for pieces using Address Change Service electronic and automated options as automated postage due transactions are implemented.

* * * * *

1.6 Attachments and Enclosures

1.6.1 Periodicals

[Revise the first sentence in 1.6.1 as follows:]

Undeliverable Periodicals (including publications pending Periodicals authorization) with a nonincidental First-Class Mail attachment or enclosure are returned at the single-piece First-Class Mail rate for the weight and shape of the piece, and the nonmachinable surcharge if applicable, or Priority Mail rate for the weight and destination of the piece. The weight of the attachment or enclosure is not included when computing the charges for return of the mailpiece. Undeliverable Periodicals (including publications pending Periodicals authorization) with an incidental First-Class Mail attachment or enclosure are treated as dead mail unless endorsed “Address Service Requested.”

1.6.2 Standard Mail

[Revise the first sentence in 1.6.2 as follows:]

Undeliverable, unendorsed Standard Mail with a nonincidental First-Class Mail attachment or enclosure is returned at the single-piece First-Class Mail rate for the weight and shape of the piece or Priority Mail rate for the weight and destination of the piece. The weight of the First-Class Mail attachment or enclosure is not included when computing the charges for return of the mailpiece. Undeliverable, unendorsed Standard Mail with an incidental First-Class Mail attachment or enclosure is treated as dead mail.

* * * * *

3.0 Address Correction Services

* * * * *

3.2 Address Change Service (ACS)

* * * * *

[Revise heading and text in 3.2.2 as follows:]

3.2.2 Service Options

ACS offers three levels of service:

a. An automated option for letter-size mail with electronic notices processed using OneCode technology (see 3.2.6, Additional Standards—Intelligent Mail barcodes).

b. An electronic option for all notices processed electronically, except automated notices under 3.2.2a.

c. A manual option for notices processed manually.

* * * * *

10.0 Merchandise Return Service

* * * * *

10.5 Additional Features

* * * * *

10.5.3 Insured Markings

[Revise 10.5.3 as follows:]

The permit holder must either leave a clear space on the merchandise return label to the right of the return address for the insured label or instruct the customer to affix the merchandise return label to the article so that the USPS acceptance employee can place the insured label on the article directly above the merchandise return label.

* * * * *

508 Recipient Services

1.0 Recipient Options

1.1 Basic Recipient Concerns

* * * * *

1.1.7 Express Mail and Accountable Mail

[Revise the introductory text of 1.1.7 to change the insurance threshold from $50 to $200 as follows:]

The following conditions also apply to the delivery of Express Mail and accountable mail (registered, certified, insured for more than $200, or COD, as well as mail for which a return receipt or a return receipt for merchandise is requested or for which the sender has specified restricted delivery):

* * * * *

600 Basic Standards for All Mailing Services

601 Mailability

1.0 General Standards

* * * * *

1.4 Length and Height

Determine length and height as follows:

a. Letter-size pieces. Determine the length and height according to the location and orientation of the delivery address. The length is the dimension parallel to the address as read; the height is the dimension perpendicular to the length.

b. Flat-size pieces. The length of a flat-size mailpiece is the longest dimension. The height is the dimension perpendicular to the length.

c. Parcels and Not Flat-Machinable pieces. The length is the longest dimension.

d. Customized MarketMail pieces. See 705.1.0.

* * * * *

604 Postage Payment Methods

1.0 Stamps

1.1 Postage Stamp Denominations

[Add the forever stamp to the table of types and formats of stamps.]

* * * * *

[Renumber 1.10 through 1.12 as new 1.11 through 1.13. Insert new 1.10 as follows:]

1.10 Additional Standards for Forever Stamps

Forever stamps are sold for the price of the current First-Class Mail single-piece 1-ounce letter rate in 133.1.5. The postage value of each forever stamp is the current First-Class Mail single-piece 1-ounce letter rate. Forever stamps may be used only on single-piece rate mail.

[Revise the heading of renumbered 1.11 as follows:]

1.11 Additional Standards for Semipostal Stamps

* * * * *

609 Filing Indemnity Claims for Loss or Damage

1.0 General Filing Instructions

1.1 Extra Services With Indemnity

A customer may file an indemnity claim for insured mail, collect on delivery (COD) items, Registered Mail with postal insurance, or Express Mail. Inquiries on uninsured Registered Mail may be filed as detailed in 503.2.0. Customers can find additional information in Publication 122, Customer Guide to Filing Domestic Insurance Claims or Registered Mail Inquiries, available on http://www.usps.com and in post offices.

* * * * *

1.3 Who May File for Loss or Damage

[Revise 1.3 as follows:]

A claim may be filed by:

a. Either the mailer or addressee, for damaged articles or articles with some or all of the contents missing.

b. Either the mailer or addressee who is in possession of the original retail mailing receipt, or in possession of the online label record or computer printout of the web-based application as described in 3.1e., for lost articles.

c. Only the merchandise return permit holder, for merchandise return service (MRS) parcels that are registered or insured as indicated by the permit holder on the MRS label.

d. Only the mailer, when the mailer has added and paid for insurance on merchandise return service parcels.

e. Only the mailer, for bulk insured service mail.

1.4 When To File for Loss or Damage

[Revise 1.4 as follows:]

File claims as follows:

a. For damaged or missing contents, a customer should file a claim immediately, but must file no later than 60 days from the date of mailing.

b. For a lost article, a customer must file a claim within the time limits in the chart below.

Mail type or service | When to file (from mailing date): No sooner than | When to file (from mailing date): No later than
Insured Mail | 21 days | 180 days.
COD | 45 days | 180 days.
Registered Mail | 15 days | 180 days.
Registered COD | 45 days | 180 days.
Express Mail | 7 days | 90 days.
Express Mail COD | 45 days | 90 days.
APO/FPO Insured Mail (First-Class Mail, SAM, PAL, or COD) | 45 days | 1 year.
APO/FPO Insured Mail (Surface Only) | 75 days | 1 year.

1.5 Where To File for Loss or Damage

A claim may be filed:

* * * * *

[Revise items b and c as follows:]

b. Only at the post office where the merchandise return permit is held, for Registered Mail articles with merchandise return service.

c. Online at http://www.usps.com for customers who purchased insurance online through Click-N-Ship or eBay.

1.6 How To File for Loss or Damage

[Revise 1.6 as follows:]

A customer may file a claim by presenting evidence of insurance, evidence of value, and/or proof of damage. If the article was mailed Express Mail COD or Registered Mail COD, the customer must provide both the original COD receipt with either the Express Mail or the Registered Mail receipt. The customer must complete the applicable portions of Form 1000. Customers may print Form 1000 from http://www.usps.com and complete the customer section before going to the Post Office.

* * * * *

2.0 Providing Proof of Loss or Damage 2.1 Missing Contents

[Revise 2.1 as follows:]

If a claim is filed because some or all of the contents are missing, the addressee must make the mailing container available to the USPS for inspection, including any wrapping, packaging, and any contents that were received. Failure to do so will result in denial of the claim.

2.2 Proof of Damage

[Revise 2.1 as follows:]

If the addressee files the claim, the addressee must make the damaged article and mailing container available to the USPS for inspection, including any wrapping, packaging, and any other contents that were received. If the mailer files the claim, the St. Louis ASC will notify the addressee by letter to present the damaged article and mailing container to the USPS for inspection, including any wrapping, packaging, and any other contents that were received. Failure to do so will result in denial of the claim.

[Delete 2.3, Proof of Loss.]

3.0 Providing Evidence of Insurance and Value

3.1 Evidence of Insurance

For a claim involving insured, COD, registered, or Express Mail service, the customer must present any of the following evidence showing that the particular service was purchased:

* * * * *

[Revise item e as follows:]

e. For insurance purchased online, the mailer may access and print an electronic record as follows:

1. A computer printout from the Web-based application used to print the label and purchase the insurance. The printout must clearly identify the following information: The Delivery Confirmation or Signature Confirmation number of the insured parcel, total postage paid, insurance fee paid, declared value, declared mailing or shipping date, origin ZIP Code, and delivery ZIP Code.

2. A printed online label record.

* * * * *

4.0 Claims

* * * * *

4.3 Nonpayable Claims

Indemnity is not paid for insured mail, Registered Mail, COD, or Express Mail in these situations:

* * * * *

[Revise items f and s as follows:]

f. Loss resulting from delay of the mail, except under 4.2a2, Payable Express Mail Claim, and 4.3ae below.

* * * * *

s. Consequential loss of Express Mail claimed, except under 4.2a3 and 4.3ae.

* * * * *

5.0 Compensation

5.1 Payment Limitation

[Revise 5.1 as follows:]

The USPS does not make payment for more than the actual value of the article or, for bulk insurance, for more than the wholesale cost of the contents to the sender if a lesser amount. The USPS does not make payment for more than the maximum amount covered by the fee paid.

* * * * *

6.0 Adjudication of Claims

6.1 Initial Adjudication of Claims

[Revise 6.1 as follows:]

The St. Louis Accounting Service Center (ASC) adjudicates and pays or disallows all domestic claims, except the initial adjudication of domestic retail insured claims for insurance coverage of $50 or less that are not for bulk insured service, and claims appealed under 6.3. Domestic retail insured claims for insurance coverage of $50 or less, except for bulk insured service, are adjudicated and paid locally at the post office accepting the claims. Claims for insurance purchased online (through Click-N-Ship or eBay) up to $500 may be filed online through http://www.usps.com, and will be processed and paid through the St. Louis ASC.

6.2 Appealing a Claim Decision

[Revise 6.2 as follows:]

A customer may appeal a claim decision by filing a written appeal within 60 days of the date of the original decision. Except for domestic retail insured claims for insurance coverage of $50 or less, the customer must send the appeal directly to Claims Appeals (see 608.8.0 for address). For domestic retail insured claims for insurance coverage of $50 or less, the customer must send the appeal to the post office where the claim was filed. That post office forwards the appeal to the manager of Claims Appeals at the St. Louis ASC.

* * * * *

700 Special Standards

* * * * *

705 Advanced Preparation and Special Postage Payment Systems

1.0 Customized MarketMail

* * * * *

1.2 Rates

[Revise 1.2 as follows:]

Pieces mailed as Customized MarketMail under 705.1.0 must be charged the Regular or Nonprofit Standard Mail 5-digit nonentry rate for Not Flat-Machinable pieces and must not exceed 3.3 ounces.

* * * * *

2.3 Keyline

* * * * *

2.3.3 Rate Category Abbreviations

* * * * *

Exhibit 2.3.3a Rate Category Abbreviations—First-Class Mail

* * * * *

[Delete the entry for Automation Carrier Route.]

Exhibit 2.3.3b Rate Category Abbreviations—Standard Mail

* * * * *

[Delete the entry for Automation Carrier Route. Add an entry for Not Flat-Machinable pieces as follows:]

Code | Rate category
NF | Not Flat-Machinable

* * * * *

6.0 Combining Mailings of Standard Mail and Package Services Parcels

6.1 Combining Machinable Parcels—DBMC Entry

* * * * *

6.1.2 Basic Standards

Standard Mail and Package Services machinable parcels must meet the following conditions:

* * * * *

[Renumber items c through h as new items d through i. Insert new item c as follows:]

c. Parcel Select machinable parcels must bear a barcode under 708.5.0 for the ZIP Code of the delivery address.

* * * * *

[Revise heading and text of 6.2 to include all Package Services parcels when a combined mailing is drop shipped to DSCFs, and to allow mailers to combine Standard Mail parcels and NFMs with Packages Services parcels for DDU rates, as follows:]

6.2 Combining Parcels—Parcel Post OBMC Presort, BMC Presort, DSCF, and DDU Rates

6.2.1 Qualification

[Revise 6.2.1 as follows:]

Combination requirements for specific discounts and rates are as follows:

a. When claiming Parcel Post OBMC Presort discounts, Parcel Post BMC Presort discounts, and DSCF rates for Parcel Post or Bound Printed Matter parcels, machinable Standard Mail parcels and NFMs 6 ounces or more may be combined with machinable Package Services parcels under 6.2.

b. When claiming the DSCF rate for Parcel Post or Bound Printed Matter parcels, all Standard Mail parcels and NFMs may be combined with Package Services parcels under 6.2.

c. Standard Mail parcels and NFMs may be combined with Package Services parcels prepared for DDU rates under 6.2.

* * * * *

6.2.4 Preparation and Rates

Combined parcels must be prepared as follows:

* * * * *

[Revise items b and b6 as follows:]

b. Parcel Post or Bound Printed Matter Qualifying for DSCF Rates. Mailers must prepare the combined mailings under the applicable 5-digit scheme and 5-digit sack requirements in 455.4.0 or the applicable 5-digit scheme and 5-digit pallet requirements in 8.0 for the Parcel Post DSCF rates. All other requirements for Parcel Post DSCF rates and Standard Mail rates, as applicable, must be met. The following additional requirements apply:

* * * * *

6. Standard Mail parcels are eligible for presorted rates according to 443.

[Revise item c as follows. Delete item c3.]

c. Parcel Post Qualifying for OBMC Presort or BMC Presort Rates. Mailers must prepare the combined mailings under the BMC pallet requirements in 8.0 for machinable parcels at Parcel Post OBMC Presort or BMC Presort rates. All other requirements for Parcel Post OBMC Presort or BMC Presort rates and Standard Mail rates must be met. The following additional requirements apply:

* * * * *

[Revise item d as follows:]

d. Package Services and Standard Mail parcels and NFMs qualifying for DDU rates:

1. The combined mailings must be prepared under the applicable 5-digit scheme and 5-digit sack requirements in 455.4.0 or the applicable 5-digit scheme and 5-digit pallet requirements in 8.22 for the Parcel Post or Bound Printed Matter DDU rates.

2. Line 2 of 5-digit scheme container labels must read, “STD/PSVC PARCELS 5D SCH.” Line 2 of 5-digit container labels must read, “STD/PSVC PARCELS 5D.”

* * * * *

[Insert new 6.3 as follows:]

6.3 Combining Package Services and Standard Mail—Optional 3-Digit SCF Entry

6.3.1 Acceptance at Designated SCF—Qualification and Preparation

Mailers may deposit parcels otherwise eligible for the Package Services and Standard Mail DBMC rates (for machinable parcels) and the Standard Mail SCF rate (for irregular parcels and Not Flat-Machinable pieces) at an SCF designated by the USPS for destination ZIP Codes listed in labeling list L607. The following standards apply:

a. Standard Mail parcels, Not Flat-Machinable pieces, Bound Printed Matter machinable parcels, and Parcel Select machinable parcels may be included. Standard Mail parcels and Not Flat-Machinable pieces that weigh less than 2 ounces and Standard Mail parcels that are tubes, rolls, triangles, and similar pieces may not be included.

b. Mailers must prepare pieces on 3-digit pallets or in 3-digit pallet boxes, or unload and physically separate the pieces into containers as specified by the destination facility.

c. Parcel Select and Bound Printed Matter parcels are eligible for the applicable DBMC entry rate.

d. Standard Mail machinable parcels are eligible for the BMC presort level, DBMC rate; Not Flat-Machinable pieces and irregular parcels are eligible for the 3-digit presort level, DSCF rate.

e. All pieces must be for delivery within the service area of the SCF where they are deposited by the mailer.

f. Postage on all zone-rated parcels deposited at the SCF is computed using the zone chart for that postal facility.

6.3.2 Documentation

Presort documentation is required for each rate claimed if the manifest does not list pieces in presort order. Separate postage statements must be prepared for the Standard Mail and Package Services pieces. Within each group, combined forms may be prepared where the standards and the forms permit. All postage statements must be provided at the time of mailing.

6.3.3 Authorization

Mailers must be authorized under 6.1.5 to prepare mailings that combine Standard Mail pieces and Package Services parcels.

6.3.4 Postage Payment

Postage for all pieces must be paid with permit imprint at the post office serving the mailer's plant under an approved manifest mailing system under 2.0.

7.0 Combining Package Services Parcels for Destination Entry

* * * * *

7.2 Combining Package Services Machinable Parcels for DBMC Entry

* * * * *

7.2.2 Basic Standards

Package Services parcels must meet the following conditions:

* * * * *

[Renumber items c through h as new items d through i. Insert new item c as follows:]

c. Parcel Select machinable parcels must bear a barcode under 708.5.0 for the ZIP Code of the delivery address.

* * * * *

8.0 Preparing Pallets

* * * * *

8.5 General Preparation

* * * * *

8.5.3 Minimum Load

The following minimum load standards apply to mail prepared on pallets:

a. For Periodicals, Standard Mail, and Package Services (except for Parcel Post mailed at BMC Presort, OBMC Presort, DSCF, and DDU rates):

[Revise item 1 to add an exception for letter trays as follows:]

1. In a single mailing, the minimum load per pallet is 250 pounds of bundles, parcels, or sacks, except as provided in items 2 through 4 below. When preparing letter trays on pallets, the minimum load is 36 linear feet or three layers of trays, except as provided in item 3 below.

* * * * *

[Revise item a3 to expand the types of mail that can be placed on pallets with a reduced minimum load as follows:]

3. A pallet may contain a minimum of 12 linear feet of letter trays or 100 pounds of nonletter-size mail on any pallet that is a BMC or ASF pallet entered at the destination BMC or ASF; an ADC pallet entered at the destination ADC; an SCF pallet entered at the destination SCF; and the only pallet entered at an individual destination BMC or ASF, ADC, or SCF facility.

* * * * *

8.5.6 Mail on Pallets

These standards apply to mail on pallets:

* * * * *

[Revise item c to delete “automation carrier route” and to replace “presorted” with “nonautomation” as follows:]

c. For letter-size Standard Mail and Periodicals prepared in trays on pallets, mailers must prepare carrier route rate mail on separate 5-digit pallets (5-digit carrier routes pallets) from automation rate or nonautomation rate mail (5-digit pallets).

* * * * *

8.6 Pallet Labels

* * * * *

8.6.5 Line 2 (Content Line)

* * * * *

[Delete the entry for “manual only” processing in the table in item b.]

8.10 Pallet Presort and Labeling

8.10.1 Periodicals—Bundles, Sacks, or Trays

[Replace “AFSM-100 compatible” with “automation-compatible under 301.3.0” in 8.10.1.]

* * * * *

8.10.2 Standard Mail—Bundles, Sacks, or Trays

[Replace “AFSM-100 compatible” with “automation-compatible under 301.3.0” in 8.10.2. Reorganize introductory text as follows:]

Mailers must prepare pallets under 8.0 in the sequence listed below and complete at each required level before preparing the next optional or required level. Unless indicated as optional, all sort levels are required. For mailings of sacks or trays on pallets, pallet preparation begins with 8.10.2c. For irregular parcels, use this preparation only for pieces in carrier route bundles or in sacks. Palletize unbundled or unsacked irregular parcels under 705.8.10.6. Pallets must be labeled according to the Line 1 and Line 2 information listed below and under 8.6. Mailers also may palletize bundles of Standard Mail flats under 10.0, 12.0, or 13.0.

[Delete items a and c to remove the merged 5-digit and merged 5-digit scheme pallet levels; renumber item b as new item a; renumber items d through k as new items b through i.]

* * * * *

[Revise renumbered item c to allow all 5-digit scheme bundles or sacks on 5-digit pallets as follows:]

c. 5-digit, required except for trays, permitted for bundles, sacks, and trays. Pallet must contain only automation rate and/or Presorted rate mail for the same 5-digit ZIP Code or the same 5-digit scheme. 5-digit scheme bundles and sacks are assigned to 5-digit pallets according to the “label to” 5-digit ZIP Code. Labeling: * * *

* * * * *

8.10.3 Package Services Flats—Bundles and Sacks

[Replace “AFSM-100 compatible” with “automation-compatible under 301.3.0” in 8.10.3.]

* * * * *

[Delete items a, c, and d to remove the 5-digit scheme, the merged 5-digit and merged 5-digit scheme pallet levels; renumber item b as new item a; renumber items e through l as new items b through i.]

* * * * *

[Revise the heading and text of 8.10.5 to add Not Flat-Machinable pieces as follows:]

8.10.5 Package Services and Standard Mail Machinable Parcels, and Not Flat-Machinable Pieces Weighing 6 Ounces or More

Pallets must be prepared under 8.0 in the sequence listed below and completed at each required level before the next optional or required level is prepared. Unless indicated as optional, all sort levels are required under the conditions shown. At the mailer's option, Inter-BMC/ASF and Intra-BMC/ASF Parcel Post mailings may be prepared on pallets under this section. Destination entry rates eligibility applies only to Standard Mail (see 446 for parcels and NFMs that weigh 6 ounces or more), Parcel Select (see 456), and Bound Printed Matter (see 466). Combined mailings of Standard Mail and Package Services machinable parcels also must meet the standards in 6.0. Pallets must be labeled according to the Line 1 and Line 2 information listed below and under 8.6.

a. 5-digit scheme, required. Pallet must contain parcels or NFMs for the same 5-digit scheme under L606. For 5-digit destinations not part of L606, or for which scheme sorts are not performed, 5-digit pallets are prepared under 8.10.5b. Labeling:

1. Line 1: Use L606.

2. Line 2: “STD MACH 5D,” “STD NFM MACH 5D,” or “PSVC MACH 5D,” as applicable; followed by “SCHEME” (or “SCH”).

b. 5-digit, required. Pallet must contain parcels only for the same 5-digit ZIP Code. Labeling:

1. Line 1: city, state, and 5-digit ZIP Code destination (see 8.6.4c for overseas military mail).

2. Line 2: “STD MACH 5D,” “STD NFM MACH 5D,” or “PSVC MACH 5D,” as applicable.

c. ASF, optional, but required for DBMC rates. Not available for the Buffalo NY ASF in L602. Pallets must contain only parcels or NFMs for the 3-digit ZIP Code groups in L602. Labeling:

1. Line 1: Use L602.

2. Line 2: “STD MACH ASF,” “STD NFM MACH ASF,” or “PSVC MACH ASF,” as applicable.

d. BMC, required. Pallets must contain only parcels or NFMs for the 3-digit ZIP Code groups in L601. Labeling:

1. Line 1: Use L601.

2. Line 2: “STD MACH BMC,” “STD NFM MACH BMC,” or “PSVC MACH BMC,” as applicable.

e. Mixed BMC, optional. Labeling:

1. Line 1: “MXD” followed by information in L601, Column B, for BMC serving 3-digit ZIP Code prefix of entry post office (or labeled to plant serving entry post office if authorized by processing and distribution manager).

2. Line 2: “STD MACH WKG,” “STD NFM MACH WKG,” or “PSVC MACH WKG,” as applicable.

[Insert new 8.10.6 as follows:]

8.10.6 Standard Mail Irregular Parcels Weighing 2 Ounces or More

Mailers who palletize unbundled or unsacked irregular parcels must make pallets or pallet boxes when there are 250 pounds or more for the destination levels below. Pallets or pallet boxes of irregular parcels (except tubes, rolls, and similar pieces) weighing 2 ounces or more must be prepared under 8.0 in the sequence listed below and completed at each required level before the next optional or required level is prepared. Unless indicated as optional, all sort levels are required. Label pallets or pallet boxes according to the Line 1 and Line 2 information listed below and under 8.6. Mailers may not prepare tubes, rolls, and similar pieces or pieces that weigh less than 2 ounces on pallets or in pallet boxes, except for pieces in carrier route bundles or in sacks under 8.10.2.

a. 5-digit scheme, required. Pallet or pallet box must contain parcels only for the same 5-digit scheme under L606. For 5-digit destinations not part of L606 prepare 5-digit pallets under 8.10.6b. Labeling:

1. Line 1: Use L606.

2. Line 2: “STD IRREG 5D”; followed by “SCHEME” (or “SCH”).

b. 5-digit, required. Pallet or pallet box must contain parcels only for the same 5-digit ZIP Code. Labeling:

1. Line 1: city, state, and 5-digit ZIP Code destination (see 8.6.4c for overseas military mail).

2. Line 2: “STD IRREG 5D.”

c. 3-digit, optional, option not available for 3-digit ZIP Code prefixes marked “N” in L002. Pallet or pallet box must contain parcels only for the same 3-digit ZIP Code. Labeling:

1. Line 1: Use L002, Column A.

2. Line 2: “STD IRREG 3D.”

d. ADC, required. Pallet or pallet box must contain parcels for the 3-digit ZIP Code groups in L004. Labeling:

1. Line 1: Use L004.

2. Line 2: “STD IRREG ADC.”

e. Mixed ADC, optional. Labeling:

1. Line 1: “MXD” followed by city, state, and ZIP Code information for ADC serving 3-digit ZIP Code prefix of entry post office as shown in L009, Column A.

2. Line 2: “STD IRREG WKG.”

[Insert new 8.10.7 as follows:]

8.10.7 Standard Mail Not Flat-Machinable Pieces Weighing Less Than 6 Ounces

Mailers must prepare pieces on pallets or in pallet boxes when there are 250 pounds or more of NFMs for the destination levels below. Prepare pallets or pallet boxes of NFM pieces weighing less than 6 ounces under 8.0 in the sequence listed below and completed at each required level before the next optional or required level is prepared. Unless indicated as optional, all sort levels are required. The height of a 5-digit bundle must be at least 1 inch less than the longest dimension of the individual mailpiece. For example, a mailpiece measuring 7 inches long, 5 inches high, and ½ inch thick must be placed in a bundle no higher than 6 inches. Label pallets or pallet boxes according to the Line 1 and Line 2 information listed below and under 8.6.

a. 5-digit scheme, required. Pallet or pallet box must contain NFMs only for the same 5-digit scheme under L606. For 5-digit destinations not part of L606 prepare 5-digit pallets under 8.10.6b. Labeling:

1. Line 1: Use L606.

2. Line 2: “STD NFM 5D” followed by “SCHEME” (or “SCH”).

b. 5-digit, required. Pallet or pallet box must contain NFMs only for the same 5-digit ZIP Code. Labeling:

1. Line 1: city, state, and 5-digit ZIP Code destination (see 8.6.4c for overseas military mail).

2. Line 2: “STD NFM 5D.”

c. 3-digit, optional, option not available for 3-digit ZIP Code prefixes marked “N” in L002. Pallet or pallet box must contain NFMs only for the same 3-digit ZIP Code. Labeling:

1. Line 1: Use L002, Column A.

2. Line 2: “STD NFM 3D.”

d. ADC, required. Pallet or pallet box must contain NFMs for the 3-digit ZIP Code groups in L004. Labeling:

1. Line 1: Use L004.

2. Line 2: “STD NFM ADC.”

e. Mixed ADC, optional. Labeling:

1. Line 1: “MXD” followed by city, state, and ZIP Code information for ADC serving 3-digit ZIP Code prefix of entry post office as shown in L009, Column A.

2. Line 2: “STD NFM WKG.”

* * * * *

8.14 Pallets of Bundles, Sacks, and Trays

* * * * *

8.14.2 Standard Mail

Additional pallet preparation:

[Revise item a as follows:]

a. Combined mailings. Nonprofit Standard Mail may be included in the same mailing or palletized on the same pallet as Regular Standard Mail only as permitted by standard. Mailers may include machinable parcels, irregular parcels, and Not Flat-Machinable pieces on 5-digit pallets.

* * * * *

[Revise the heading of 8.22 as follows:]

8.22 Parcel Post and Bound Printed Matter DDU Rates

* * * * *

[Revise the heading of 9.0 as follows:]

9.0 Preparing Cotrayed and Cosacked Bundles of Automation and Nonautomation Flats

* * * * *

9.2 Periodicals

* * * * *

9.2.5 Sack Preparation and Labeling

* * * * *

[Revise item a as follows:]

a. 5-digit/scheme, required; scheme sort required, only for pieces meeting the automation-compatibility criteria in 301.3.0; 24-piece minimum, fewer pieces not permitted; labeling:

1. Line 1: For 5-digit scheme sacks, use L007, Column B. For 5-digit sacks, use city, state, and 5-digit ZIP Code destination on pieces.

2. Line 2: “PER” or “NEWS” as applicable and, for 5-digit scheme sacks, “FLT 5D SCH BC/NBC”; for 5-digit sacks, “FLT 5D BC/NBC.”

* * * * *

9.3 Standard Mail

* * * * *

9.3.5 Sack Preparation and Labeling

* * * * *

[Revise item a as follows:]

a. 5-digit/scheme, required; scheme sort required, only for pieces meeting the automation-compatibility criteria in 301.3.0; 125-piece/15-pound minimum; labeling:

1. Line 1: For 5-digit scheme sacks, use L007, Column B. For 5-digit sacks, use city, state, and 5-digit ZIP Code destination on pieces.

2. Line 2: For 5-digit scheme sacks, “STD FLT 5D SCH BC/NBC”; for 5-digit sacks, “STD FLT 5D BC/NBC.”

* * * * *

9.4 Bound Printed Matter

* * * * *

9.4.4 Sack Preparation and Labeling

* * * * *

[Revise item a as follows:]

a. 5-digit/scheme, required; scheme sort required, only for pieces meeting the automation-compatibility criteria in 301.3.0; minimum 20 addressed pieces; labeling:

1. Line 1: For 5-digit scheme sacks, use L007, Column B. For 5-digit sacks, use city, state, and 5-digit ZIP Code destination on pieces.

2. Line 2: For 5-digit scheme sacks, “PSVC FLT 5D SCH BC/NBC”; for 5-digit sacks, “PSVC FLT 5D BC/NBC.”

* * * * *

[Revise 11.0 to replace “presorted” with “nonautomation” throughout.]

11.0 Preparing Cobundled Automation Rate and Nonautomation Rate Flats

11.1 First-Class Mail

11.1.1 Basic Standards

Mailers may choose to cobundle (see 335.1.4m) automation rate and nonautomation rate pieces as an option to the basic bundling requirements in 9.0, Preparing Cotrayed and Cosacked Bundles of Automation and Nonautomation Flats, subject to the following conditions:

* * * * *

[Delete item f. Renumber item g as item f.]

11.2 Periodicals

11.2.1 Basic Standards

[Revise the introductory text in 11.2.1 to require 5-digit scheme and 3-digit scheme sort and eliminate distinctions between AFSM 100 and UFSM 1000 flats as follows:]

Mailers may choose to cobundle (under 705.11.0) automation rate and nonautomation rate flat-size pieces as an option to the basic bundling requirements in 707.22.0 and 707.25.0. All flats in the same bundle must meet the standards in either 301.3.0 or 707.25.3. 5-digit scheme and 3-digit scheme bundles also must meet the additional standards in 707.18.4i and 707.18.4r. Mailing jobs (for flats meeting the criteria in 301.3.0) prepared using the 5-digit scheme and/or the 3-digit scheme bundle preparation must be sacked under 10.0 or palletized under 10.0, 12.0, or 13.0. All bundles are subject to the following conditions:

* * * * *

11.2.2 Bundle Preparation

[Revise the introductory text in 11.2.2 as follows:]

Pieces meeting the criteria in 301.3.0 must be prepared in 5-digit scheme bundles for those 5-digit ZIP Codes identified in L007 and in 3-digit scheme bundles for those 3-digit ZIP Codes identified in L008. Preparation sequence, bundle size, and labeling:

* * * * *

[Revise item b to require 5-digit scheme bundles as follows:]

b. 5-digit scheme, required; * * *

* * * * *

[Revise item d to require 3-digit scheme bundles as follows:]

d. 3-digit scheme, required; * * *

* * * * *

11.3 Standard Mail

11.3.1 Basic Standards

[Revise the introductory text in 11.3.1 to require 5-digit scheme and 3-digit scheme sort and eliminate distinctions between AFSM 100 and UFSM 1000 flats as follows:]

Mailers may choose to cobundle (see 345.1.4u) automation rate and nonautomation rate flat-size pieces as an option to the basic bundling requirements in 345.5.0 and 345.7.0. All flats in the same bundle must meet the standards in 301.3.0. 5-digit scheme and 3-digit scheme bundles must meet the additional standards in 345.1.4f and 345.1.4n. Mailing jobs prepared using the 5-digit scheme and/or 3-digit scheme bundle preparation (for flats meeting the criteria in 301.3.0) must be sacked under 10.0 or palletized under 10.0, 12.0, or 13.0. All bundles are subject to the following conditions:

* * * * *

[Delete item g. Renumber item h as new item g.]

11.3.2 Bundle Preparation

[Revise the introductory text in 11.3.2 as follows:]

Pieces meeting the criteria in 301.3.0 must be prepared in 5-digit scheme bundles for those 5-digit ZIP Codes identified in L007 and in 3-digit scheme bundles for those 3-digit ZIP Codes identified in L008. Preparation sequence, bundle size, and labeling:

[Revise item a to require 5-digit scheme bundles as follows:]

a. 5-digit scheme, required; * * *

* * * * *

[Revise item c to require 3-digit scheme bundles as follows:]

c. 3-digit scheme, required; * * *

* * * * *

707 Periodicals

* * * * *

3.0 Physical Characteristics and Content Eligibility

* * * * *

3.5 Mailpiece Construction

* * * * *

3.5.2 Size and Weight

[Insert new second sentence in 3.5.2 to include the maximum weight and thickness for Periodicals automation flat-size pieces as follows:]

Periodicals mail may not weigh more than 70 pounds or measure more than 108 inches in length and girth combined. Automation flat-size pieces may not weigh more than 6 pounds or measure more than 1¼ inch thick. Additional size and weight limitations apply to individual Periodicals rate categories. Requester publications must contain at least 24 pages per issue.

* * * * *

15.0 Ride-Along Rate Eligibility

* * * * *

15.3 Physical Characteristics

The host Periodicals piece and the Ride-Along piece must meet the following physical characteristics:

* * * * *

[Revise item c as follows:]

c. A Periodicals piece with a Ride-Along that claims automation rates must meet the automation requirements in 201.3.0, Physical Standards for Automation Letters and Cards, or 25.0, Preparing Flat-Size Automation Periodicals, and must maintain the same processing category as before the addition of the Ride-Along. For example, if, due to the inclusion of a Ride-Along piece, an automation letter-size host piece can no longer be processed as an automation letter, then that piece must be charged the Periodicals nonautomation rate for the host piece plus the Ride-Along rate or the Standard Mail rate for the attachment or enclosure.

* * * * *

22.0 Preparing Presorted Periodicals

* * * * *

22.2 Bundle Preparation

[Revise the introductory text of 22.2 as follows:]

Mailings consisting entirely of pieces meeting the criteria in 301.3.0 may be prepared in 5-digit scheme bundles for those 5-digit ZIP Codes identified in L007 and in 3-digit scheme bundles for those 3-digit ZIP Codes identified in L008. Bundling is required before traying or sacking. A bundle must be prepared when the quantity of addressed pieces for a required presort level reaches the minimum bundle size. Smaller volumes are not permitted except mixed ADC bundles and 5-digit/scheme and 3-digit/scheme bundles prepared under 22.4. Bundling is also subject to 19.0, Bundles. Preparation sequence, bundle size, and labeling:

* * * * *

22.7 Optional Tray Preparation—Flat-Size Nonautomation Pieces

[Revise the introductory text in 22.7 as follows:]

As an option, mailers may place in flat-size trays the automation-compatible flat-size pieces prepared under 301.3.0 that would normally be placed in ADC, origin mixed ADC, or mixed ADC sacks. Pieces must not be secured in bundles. Mailers must group together pieces for each 5-digit scheme, 5-digit, 3-digit scheme, 3-digit, and ADC destination as follows:

* * * * *

25.0 Preparing Flat-Size Automation Periodicals

25.1 Basic Standards

25.1.1 General

[Revise 25.1.1 as follows:]

Each piece must meet the physical standards in 301.3.0 or in 25.3. Bundle, sack, and tray preparation are subject to 18.0 through 21.0. Trays and sacks must bear the appropriate barcoded container labels under 708.6.0.

* * * * *

25.1.5 Bundle Preparation

All pieces must be prepared in bundles and meet the following requirements:

[Revise items a, c, and d as follows:]

a. Pieces that meet the standards in 301.3.0 must be prepared in separate bundles from pieces that meet the standards in 25.3.

* * * * *

c. Each bundle of pieces prepared under 301.3.0 and each bundle of pieces prepared under 25.3 must separately meet the bundle minimums in 25.4.

d. Presort destination bundles may contain fewer than six pieces when the mailpieces are too thick or too heavy to create a six-piece bundle. Rate eligibility is not affected if the total number of pieces bundled for a presort destination meets or exceeds the minimum for rate eligibility under 14.0.

* * * * *

25.1.7 Sack Preparation

[Revise 25.1.7 as follows:]

Mailers may combine bundles of pieces prepared under 301.3.0 and bundles of pieces prepared under 25.3 in the same sack.

* * * * *

[Renumber 25.2 through 25.4 as new 25.4 through 25.6. Insert new 25.2 and 25.3 as follows:]

25.2 Physical Standards

Each flat-size piece must be rectangular and must meet the standards in 301.3.0 or the alternative criteria in 25.3.

25.3 Alternative Criteria

25.3.1 General

As an exception to the standards in 301.1.4 and 301.3.2, mailers may prepare automation flat-size pieces according to 25.3 below. Pieces prepared under 25.3 and pieces prepared under 301.3.0 may not be combined in the same bundle. Determine length and height according to 301.1.2.

25.3.2 Weight and Size

The maximum weight for each piece is 6 pounds. The following minimum and maximum dimensions apply:

a. Minimum height is 5 inches. Maximum height is 12 inches.

b. Minimum length is 6 inches. Maximum length is 15 inches.

c. Minimum thickness is 0.009 inch. Maximum thickness is 1.25 inches.

25.3.3 Address Placement on Folded Pieces

Mailers must design folded pieces so that the address is in view when the final folded edge is to the right and any intermediate bound or folded edge is at the bottom of the piece. Unbound flat-size pieces must be at least double-folded.

25.3.4 Flexibility and Deflection

Pieces prepared under 25.3 are not required to meet the minimum standards for flexibility in 301.1.4 or the maximum standards for deflection in 301.3.2.4.

25.3.5 Additional Criteria

Pieces must meet the standards for polywrap coverings in 301.3.3; protrusions and staples in 301.3.4; tabs, wafer seals, tape, and glue in 301.3.5; and uniform thickness and exterior format in 301.3.6.

* * * * *

25.6 Optional Tray Preparation—Flat-Size Barcoded Pieces

[Revise the introductory text in renumbered 25.6 as follows:]

As an option, mailers may place in trays the automation-compatible flat-size pieces prepared under 301.3.0 that would normally be placed in ADC, origin mixed ADC, or mixed ADC sacks. Pieces must not be secured in bundles. Mailers must group together pieces for each 5-digit scheme, 5-digit, 3-digit scheme, 3-digit, and ADC destination as follows:

* * * * *

708 Technical Specifications

1.0 Standardized Documentation for First-Class Mail, Periodicals, Standard Mail, and Flat-Size Bound Printed Matter

* * * * *

1.2 Format and Content

For First-Class Mail, Periodicals, Standard Mail, and flat-size Bound Printed Matter, standardized documentation includes:

* * * * *

c. For mail in trays or sacks, the body of the listing reporting these required elements:

[Revise item c1 as follows:]

1. Tray/sack sortation level. Mailers must note with an asterisk (“*”) all trays containing overflow mail moved into that tray under 235.6.6 and 245.7.5.

* * * * *

[Revise item c3 as follows:]

3. The number of pieces for each 5-digit ZIP Code in 5-digit/scheme bundles or trays; for each 3-digit ZIP Code in 3-digit/scheme bundles or trays; for each 3-digit/scheme in (A)ADC bundles or trays; for each (A)ADC in mixed (A)ADC bundles or trays (or, for Periodicals, origin mixed ADC trays). For automation-rate mailings prepared under the reduced overflow option, the number of pieces in the next higher level tray in lieu of overflow trays. For ECR letters prepared under 245.6.0, the number of pieces in carrier routes within full trays. For automation and nonautomation mail, and ECR Standard Mail, the number of pieces in each bundle level and presort destination.

* * * * *

1.3 Rate Level Column Headings

The actual name of the rate level (or corresponding abbreviation) is used for column headings required by 1.2, Format and Content, and shown below:

a. Automation First-Class Mail, Periodicals, and Standard Mail:

[Delete the “Carrier Route” entry in item a. Revise the “3/5” and “Basic” entries as follows:]

Rate | Abbreviation
* * * * *
5-Digit [Standard Mail flats] | 5B
3-Digit [Standard Mail flats] | 3B
ADC [Standard Mail flats] | AB
Mixed ADC [Standard Mail flats] | MB
* * * * *

[Revise item b to add “machinable and nonmachinable” to Standard Mail in the introductory text. Delete the “3/5” entry and revise the “5-Digit,” “3-Digit,” and “Basic” entries as follows:]

b. Presorted First-Class Mail, nonautomation presorted Periodicals, and machinable and nonmachinable Standard Mail:

Rate | Abbreviation
* * * * *
5-Digit [Standard Mail letters; Periodicals letters, flats, and parcels] | 5D
3-Digit [Standard Mail letters; Periodicals letters, flats, and parcels] | 3D
ADC [letters/cards and flats] | AD
Mixed ADC [letters/cards and flats] | MD
Mixed ADC [First-Class Mail parcels] | SP
* * * * *

[Delete the “Basic Automation” entry in item c.]

1.4 Sortation Level

[Revise the “5-Digit Scheme” entry as follows:]

Sortation level | Abbreviation
* * * * *
5-Digit Scheme [barcoded and machinable letters] | 5DGS
* * * * *

[Revise the heading of 4.0 as follows:]

4.0 Standards for POSTNET and Intelligent Mail Barcodes

* * * * *

4.4 Reflectance

4.4.1 Background Reflectance

A background reflectance of at least 50% in the red portion and 45% in the green portion of the optical spectrum must be produced in the following locations when measured with a USPS or USPS-licensed envelope reflectance meter:

* * * * *

[Revise item b as follows:]

b. The area surrounding the barcode (within 1/8 inch of the leftmost and rightmost bars and 1/25 inch above and below the barcode) of a card-size, letter-size, or flat-size piece barcoded in the address block and of a flat-size, First-Class Mail parcel, or Not-Flat Machinable piece barcoded elsewhere.

* * * * *

4.4.4 Dark Fibers and Background Patterns

Dark fibers or background patterns (for example, checks) that produce a print contrast ratio of more than 15% when measured in the red and green portions of the optical spectrum are prohibited in these locations:

* * * * *

[Revise item b as follows:]

b. The area of the address block or the area of the mailpiece where the barcode appears on a flat-size piece in an automation rate mailing or on a First-Class Mail parcel or a Not Flat-Machinable piece.

4.5 Skew and Baseline Shift

* * * * *

[Revise heading and text of 4.5.2 as follows:]

4.5.2 Flat-Size Pieces, First-Class Mail Parcels, Standard Mail Irregular Parcels, and Not Flat-Machinable Pieces

The maximum rotational skew (slant or tilt of the individual barcode bars) for barcodes is ±10 degrees from a perpendicular to the baseline of the barcode. There is no positional skew requirement. The individual bars of a barcode must not shift (be vertically offset) more than 0.015 inch from the average baseline of the barcode. For information on barcode placement for flat-size pieces, see 302.4.0. For information on barcode placement on parcels and Not Flat-Machinable pieces weighing less than 6 ounces, see 402.4.0.

[Revise the heading of 5.0 as follows:]

5.0 Standards for Postal Routing Barcodes

5.1 Basic Requirements

[Revise 5.1 as follows:]

Mailers may use a postal routing barcode on parcels and Not Flat-Machinable pieces that meet the eligibility requirements in 433.1.1 for First-Class Mail, 443.4.4 and 443.5.5 for Standard Mail, 453.3.1 for Parcel Post, 463.4.1 for Bound Printed Matter, 473.3.4 for Media Mail, or 483.3.4 for Library Mail. Each parcel must bear a properly prepared UCC/EAN Code 128 barcode symbology as described in 5.3 that accurately represents the correct ZIP Code or ZIP+4 code of the delivery address. For information on barcode placement for parcels, see 402.4.0.

* * * * *

6.0 Barcoding Standards for Container Labels

6.1 Basic Standards—Tray and Sack Labels

6.1.1 Use

* * * * *

Exhibit 6.1.4 3-Digit Content Identifier Numbers

[Revise the content identifier numbers as follows for First-Class Mail letters and parcels, Standard Mail letters, and Periodicals and Bound Printed Matter flats. Add content identifier numbers for Not Flat-Machinable pieces.]

Class and Mailing | CIN | Human-readable content line
* * * * * * *
First-Class Mail
FCM Letters—Automation
[Delete codes 263, 264, and 265 for carrier route trays.] * * *
FCM Letters—Nonautomation Machinable
[Delete code 252 for 5-digit trays.] * * *
* * * * * * *
FCM Parcels—Presorted
[Add 5-digit scheme sacks as follows:]
5-digit scheme sacks | 289 | FCM PARCELS 5D SCH.
* * * * * * *
Periodicals (PER)
* * * * * * *
PER Flats—Nonautomation
[Add 5-digit scheme sacks as follows:]
5-digit scheme sacks | 378 | PER FLT 5D SCH NON BC.
* * * * * * *
PER Flats—Cosacked Automation and Nonautomation
[Add 5-digit scheme sacks as follows:]
5-digit scheme sacks | 321 | PER FLT 5D SCH BC/NBC.
* * * * * * *
NEWS Flats—Nonautomation
[Add 5-digit scheme sacks as follows:]
5-digit scheme sacks | 478 | NEWS FLT 5D SCH NON BC.
* * * * * * *
NEWS Flats—Cosacked Automation and Nonautomation
[Add 5-digit scheme sacks as follows:]
5-digit scheme sacks | 421 | NEWS FLT 5D SCH BC/NBC.
* * * * * * *
Standard Mail
[Delete codes 563 through 565 for automation carrier route trays.]
* * * * * * *
STD Letters—Nonautomation Machinable
[Delete code 552 for 5-digit trays.]
* * * * * * *
STD Flats—Cosacked Automation and Nonautomation
[Add 5-digit scheme sacks as follows:]
5-digit scheme sacks | 521 | STD FLT 5D SCH BC/NBC.
* * * * * * *
STD Flats—Nonautomation
[Add 5-digit scheme sacks as follows:]
5-digit scheme sacks | 578 | STD FLTS 5D SCH NON BC.
* * * * * * *
[Add Not Flat-Machinable pieces as follows:]
STD Not Flat-Machinable Pieces Less Than 6 Ounces—Nonautomation
5-digit sacks | 500 | STD NFM 5D.
5-digit scheme sacks | 500 | STD NFM 5D SCH.
3-digit sacks | 501 | STD NFM 3D.
ADC sacks | 502 | STD NFM ADC.
Mixed ADC/Mixed BMC sacks | 506 | STD NFM WKG.
* * * * * * *
[Add Not Flat-Machinable pieces as follows:]
STD Not Flat-Machinable Pieces 6 Ounces or more—Nonautomation
5-digit sacks | 500 | STD NFM MACH 5D.
5-digit scheme sacks | 500 | STD NFM MACH 5D SCH.
ASF sacks | 503 | STD NFM MACH ASF.
BMC sacks | 505 | STD NFM MACH BMC.
Mixed ADC/Mixed BMC sacks | 506 | STD NFM MACH WKG.
* * * * * * *
Package Services
* * * * * * *
Presorted BPM—Flats
[Add 5-digit scheme sacks as follows:]
5-digit scheme sacks | 649 | PSV FLT 5D SCH NON BC.
* * * * * * *
BPM Flats—Cosacked Barcoded and Presorted
[Add 5-digit scheme sacks as follows:]
5-digit scheme sacks | 648 | PSV FLT 5D SCH BC/NBC.
* * * * * * *

7.0 Optional Endorsement Lines (OELs)

7.1 OEL Use

7.1.1 Basic Standards

* * * * *

Exhibit 7.1.1 OEL Formats

[Delete the example for “Carrier Route—Automation (First-Class Mail and Standard Mail).”]

* * * * *

7.2 OEL Format

* * * * *

7.2.5 ZIP Code Information

[Revise 7.2.5 to change the reference from 6.0 to 8.2 as follows:]

Except for carrier route bundles, the OEL must include the ZIP Code information (5-digit ZIP Code or 3-digit ZIP Code prefix) determined by the sortation level and, when applicable, by the labeling list designated in Exhibit 7.2.5 for ADC, mixed ADC, AADC, or mixed AADC sortation levels. Carrier route OELs must show carrier route information as specified in 8.2.

* * * * *

8.0 Carrier Route Information Lines

8.1 Basic Information

[Revise 8.1 as follows:]

Mailers must prepare bundles of all mailpieces mailed at carrier route rates with optional endorsement lines under 7.0, carrier route information lines under 8.2, or facing slips (see 245.2.11 for Standard Mail letters, 345.2.14 for Standard Mail flats, 365.2.13 for Bound Printed Matter flats, 445.2.12 for Standard Mail parcels, 465.2.12 for Bound Printed Matter parcels, and 707.19.16 for Periodicals). Carrier route information lines may be on all pieces in a mailing, regardless of presort level. Mailers must use optional endorsement lines or carrier route information lines on all pieces in mailings of Standard Mail letters prepared under 245.6.7, except for pieces in full carrier routes trays.

* * * * *

709 Experimental Classifications and Rates

* * * * *

[Delete 5.0, Priority Mail Flat-Rate Box. Renumber remaining sections 6.0 and 7.0 as new 5.0 and 6.0. The Priority Mail Flat-Rate Box becomes a permanent offering in 123.]

* * * * *

Neva R. Watson,
Attorney, Legislative.

BILLING CODE 7710-12-P

[FR Doc. 07-1500 Filed 3-29-07; 8:45 am]

BILLING CODE 7710-12-C